DEPARTMENT OF HOUSING AND URBAN DEVELOPMENT

[Docket No. FR-4901-N-37]

Federal Property Suitable as Facilities to Assist the Homeless

AGENCY: Office of the Assistant Secretary for Community Planning and Development, HUD.

ACTION: Notice.

SUMMARY: This notice identifies unutilized, underutilized, excess, and surplus Federal property reviewed by HUD for suitability for possible use to assist the homeless.

FOR FURTHER INFORMATION CONTACT: Kathy Burruss, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a notice showing it as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the toll free information line at 1-800-927-7588 for detailed instructions or write a letter to Mark Johnston at the address listed at the beginning of this notice. Included in the request for review should be the property address (including ZIP code), the date of publication in the Federal Register, the landholding agency, and the property number.

For more information regarding particular properties identified in this notice (i.e., acreage, floor plan, existing sanitary facilities, exact street address), providers should contact the appropriate landholding agencies at the following addresses: COE: Ms. Shirley Middleswarth, Army Corps of Engineers, Civil Division, Directorate of Real Estate, 441 G Street, NW., Washington, DC 20314-1000; (202) 761-7425; GSA: Mr. Brian K. Polly, Assistant Commissioner, General Services Administration, Office of Property Disposal, 18th and F Streets, NW., Washington, DC 20405; (202) 501-0084; Energy: Mr. Andy Duran, Department of Energy, Office of Engineering & Construction Management, ME-90, 1000 Independence Ave., SW., Washington, DC 20585; (202) 586-4548; Navy: Mr. Charles C. Cocks, Director, Department of the Navy, Real Estate Policy Division, Naval Facilities Engineering Command, Washington Navy Yard, 1322 Patterson Ave., SE., Suite 1000, Washington, DC 20374-5065; (202) 685-9200; VA: Ms. Amelia E. McLellan, Director, Real Property Service (183C), Department of Veterans Affairs, 810 Vermont Avenue, NW., Room 419, Washington, DC 20420; (202) 565-5398 (These are not toll-free numbers).

Dated: September 2, 2004.
Mark R. Johnston,
Director, Office of Special Needs Assistance Programs.

Title V, Federal Surplus Property Program Federal Register Report for 9/10/04

Suitable/Available Properties

Buildings (by State)

Alaska

House

910 S. Felton Street

Tsunami Warning Center

Palmer Co: AK

Landholding Agency: GSA

Property Number: 54200430007

Status: Surplus

Comment: 1400 sq. ft., off-site use only

GSA Number: 9-C-AK-794

California

Facility #29

Fleet ASW Training Center

Point Loma CA

Landholding Agency: Navy

Property Number: 77200410033

Status: Excess

Comment: metal bldg. most recent use—storage, off-site use only

Bldg. 29

Naval Base Point Loma

San Diego CA

Landholding Agency: Navy

Property Number: 77200420038

Status: Excess

Comment: 40x28x15 metal bldg., most recent use—storage, off-site use only

Colorado

Bldg. 2

VAMC

2121 North Avenue

Grand Junction Co: Mesa CO 81501-

Landholding Agency: VA

Property Number: 97200430001

Status: Unutilized

Comment: 3298 sq. ft., needs major rehab, presence of asbestos/lead paint

Bldg. 3

VAMC

2121 North Avenue

Grand Junction Co: Mesa CO 81501-

Landholding Agency: VA

Property Number: 97200430002

Status: Unutilized

Comment: 7275 sq. ft., needs major rehab, presence of asbestos/lead paint

Hawaii

Bldg. 442, Naval Station

Ford Island

Pearl Harbor Co: Honolulu HI 96860-

Landholding Agency: Navy

Property Number: 77199630088

Status: Excess

Comment: 192 sq. ft., most recent use—storage, off-site use only

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Bldg. 2600NS

Moanalua Prop/Naval Station

Pearl Harbor Co: Honolulu HI 96860-

Landholding Agency: Navy

Property Number: 77200410009

Status: Unutilized

Comment: 841 sq. ft., concrete, possible lead based paint, off-site use only

Bldg. 2602

Moanalua Prop/Naval Station

Pearl Harbor Co: Honolulu HI 96860-

Landholding Agency: Navy

Property Number: 77200410022

Status: Unutilized

Comment: 12,960 sq. ft. w/1372 sq. ft. addition, possible lead based paint, off-site use only

Bldg. 2613

Moanalua Prop/Naval Station

Pearl Harbor Co: Honolulu HI 96860-

Landholding Agency: Navy

Property Number: 77200410023

Status: Unutilized

Comment: 3200 sq. ft., possible lead based paint

Idaho

Bldg. AFD-16073

Albeni Falls Dam Proj.

Bonner Co: ID

Landholding Agency: COE

Property Number: 31200430001

Status: Unutilized

Comment: 1440 sq. ft., double-wide trailer, most recent use—office, off-site use only

Bldg. CF603

Idaho Natl Eng & Env Lab

Scoville Co: Butte ID 83415-

Landholding Agency: Energy

Property Number: 41200020004

Status: Excess

Comment: 15,005 sq ft. cinder block, presence of asbestos/lead paint, major rehab, off-site use only

Indiana

Bldg. 105, VAMC

East 38th Street

Marion Co: Grant IN 46952-

Landholding Agency: VA

Property Number: 97199230006

Status: Excess

Comment: 310 sq. ft., 1 story stone structure, no sanitary or heating facilities, Natl Register of Historic Places

Bldg. 140, VAMC

East 38th Street

Marion Co: Grant IN 46952-

Landholding Agency: VA

Property Number: 97199230007

Status: Excess

Comment: 60 sq. ft., concrete block bldg., most recent use—trash house

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places

Bldg. 25

VA Northern Indiana Health Care System

Marion Campus, 1700 East 38th Street

Marion Co: Grant IN 46953-

Landholding Agency: VA

Property Number: 97199810005

Status: Unutilized

Comment: 32,892 sq. ft., presence of asbestos, most recent use—psychiatric ward, National Register of Historic Places

Bldg. 1

N. Indiana Health Care System

Marion Co: Grant IN 46952-

Landholding Agency: VA

Property Number: 97200310001

Status: Unutilized

Comment: 20,287 sq. ft., needs extensive repairs, presence of asbestos, most recent use—patient ward

Bldg. 3

N. Indiana Health Care System

Marion Co: Grant IN 46952-

Landholding Agency: VA

Property Number: 97200310002

Status: Unutilized

Comment: 20,550 sq. ft., needs extensive repairs, presence of asbestos, most recent use—patient ward

Bldg. 4

N. Indiana Health Care System

Marion Co: Grant IN 46952-

Landholding Agency: VA

Property Number: 97200310003

Status: Unutilized

Comment: 20,550 sq. ft., needs extensive repairs, presence of asbestos, most recent use—patient ward

Bldg. 13

N. Indiana Health Care System

Marion Co: Grant IN 46952-

Landholding Agency: VA

Property Number: 97200310004

Status: Unutilized

Comment: 8971 sq. ft., needs extensive repairs, presence of asbestos, most recent use—office

Bldg. 19

N. Indiana Health Care System

Marion Co: Grant IN 46952-

Landholding Agency: VA

Property Number: 97200310005

Status: Unutilized

Comment: 12,237 sq. ft., needs extensive repairs, presence of asbestos, most recent use—office

Bldg. 20

N. Indiana Health Care System

Marion Co: Grant IN 46952-

Landholding Agency: VA

Property Number: 97200310006

Status: Unutilized

Comment: 14,039 sq. ft., needs extensive repairs, presence of asbestos, most recent use—office/storage

Bldg. 42

N. Indiana Health Care System

Marion Co: Grant IN 46952-

Landholding Agency: VA

Property Number: 97200310007

Status: Unutilized

Comment: 5025 sq. ft., needs extensive repairs, presence of asbestos, most recent use—office

Bldg. 60

N. Indiana Health Care System

Marion Co: Grant IN 46952-

Landholding Agency: VA

Property Number: 97200310008

Status: Unutilized

Comment: 18,126 sq. ft., needs extensive repairs, presence of asbestos, most recent use—office

Bldg. 122

N. Indiana Health Care System

Marion Co: Grant IN 46952-

Landholding Agency: VA

Property Number: 97200310009

Status: Unutilized

Comment: 37,135 sq. ft., needs extensive repairs, presence of asbestos, most recent use—dining hall/kitchen

Kentucky

Green River Lock & Dam #3

Rochester Co: Butler KY 42273-

Location: SR 70 west from Morgantown, KY, approximately 7 miles to site.

Landholding Agency: COE

Property Number: 31199010022

Status: Unutilized

Comment: 980 sq. ft.; 2 story wood frame; two story residence; potential utilities; needs major rehab.

Comfort Station

Rough River Lake

Grayson KY

Landholding Agency: COE

Property Number: 31200420004

Status: Unutilized

Comment: 160 sq. ft., concrete block, off-site use only

SSA Building

148 Second Street

Pikeville Co: KY 41501-

Landholding Agency: GSA

Property Number: 54200430004

Status: Excess

Comment: 4350 sq. ft., possible lead paint, presence of asbestos, most recent use—office

GSA Number: 4-G-KY-0611

Maryland

Bldg. 1639

Naval Air Station

21905 Cuddihy Road

Patuxent River Co: MD

Landholding Agency: Navy

Property Number: 77200430039

Status: Excess

Comment: 6623 sq. ft., presence of asbestos, most recent use—office, off-site use only

Missouri

Trailer

Gasconade Harbor Facility

Gasconade Co: MO 65036-

Landholding Agency: COE

Property Number: 31200430002

Status: Unutilized

Comment: 55 ft. x 12 ft., most recent use—office, off-site use only

Montana

Bldg. 1

Butte Natl Guard

Butte Co: Silverbow MT 59701-

Landholding Agency: COE

Property Number: 31200040010

Status: Unutilized

Comment: 22,799 sq. ft., presence of asbestos, most recent use—cold storage, off-site use only

Bldg. 2

Butte Natl Guard

Butte Co: Silverbow MT 59701-

Landholding Agency: COE

Property Number: 31200040011

Status: Unutilized

Comment: 3292 sq. ft., most recent use—cold storage, off-site use only

Bldg. 3

Butte Natl Guard

Butte Co: Silverbow MT 59701-

Landholding Agency: COE

Property Number: 31200040012

Status: Unutilized

Comment: 964 sq. ft., most recent use—cold storage, off-site use only

Bldg. 4

Butte Natl Guard

Butte Co: Silverbow MT 59701-

Landholding Agency: COE

Property Number: 31200040013

Status: Unutilized

Comment: 72 sq. ft., most recent use—cold storage, off-site use only

Bldg. 5

Butte Natl Guard

Butte Co: Silverbow MT 59701-

Landholding Agency: COE

Property Number: 31200040014

Status: Unutilized

Comment: 1286 sq. ft., most recent use—cold storage, off-site use only

Nebraska

SSA Building 1937 Avenue A

Scottsbluff Co: NE 69361-

Landholding Agency: GSA

Property Number: 54200430005

Status: Excess

Comment: 3142 sq. ft., most recent use—office

GSA Number : 7-G-NE-0529

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only

Residence 506 Reservoir Rd.

Paint Creek Lake

Bainbridge Co: Highland OH 45612-

Landholding Agency: COE

Property Number: 31200210008

Status: Unutilized

Comment: 1200 sq. ft., needs repair, off-site use only

Pennsylvania

Mahoning Creek Reservoir

New Bethlehem Co: Armstrong PA 16242-

Landholding Agency: COE

Property Number: 31199210008

Status: Unutilized

Comment: 1015 sq. ft., 2 story brick residence, off-site use only

Dwelling

Lock & Dam 6, Allegheny River, 1260 River Rd.

Freeport Co: Armstrong PA 16229-2023

Landholding Agency: COE

Property Number: 31199620008

Status: Unutilized

Comment: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comment: 1421 sq. ft., 2-story brick w/basement, most recent use—residential

Dwelling

Lock & Dam 4, Allegheny River

Natrona Co: Allegheny PA 15065-2609

Landholding Agency: COE

Property Number: 31199710009

Status: Unutilized

Comment: 1664 sq. ft., 2-story brick residence, needs repair, off-site use only

Dwelling #1

Crooked Creek Lake

Ford City Co: Armstrong PA 16226-8815

Landholding Agency: COE

Property Number: 31199740002

Status: Excess

Comment: 2030 sq. ft., most recent use—residential, good condition, off-site use only

Dwelling #2

Crooked Creek Lake

Ford City Co: Armstrong PA 16226-8815

Landholding Agency: COE

Property Number: 31199740003

Status: Excess

Comment: 3045 sq. ft., most recent use—residential, good condition, off-site use only

Govt Dwelling

East Branch Lake

Wilcox Co: Elk PA 15870-9709

Landholding Agency: COE

Property Number: 31199740005

Status: Underutilized

Comment: approx. 5299 sq. ft., 1-story, most recent use—residence, off-site use only

Dwelling #1

Loyalhanna Lake

Saltsburg Co: Westmoreland PA 15681-9302

Landholding Agency: COE

Property Number: 31199740006

Status: Excess

Comment: 1996 sq. ft., most recent use—residential, good condition, off-site use only

Dwelling #2

Loyalhanna Lake

Saltsburg Co: Westmoreland PA 15681-9302

Landholding Agency: COE

Property Number: 31199740007

Status: Excess

Comment: 1996 sq. ft., most recent use—residential, good condition, off-site use only

Dwelling #1

Woodcock Creek Lake

Saegertown Co: Crawford PA 16433-0629

Landholding Agency: COE

Property Number: 31199740008

Status: Excess

Comment: 2106 sq. ft., most recent use—residential, good condition, off-site use only

Dwelling #2

Lock & Dam 6, 1260 River Road

Freeport Co: Armstrong PA 16229-2023

Landholding Agency: COE

Property Number: 31199740009

Status: Excess

Comment: 2652 sq. ft., most recent use—residential, good condition, off-site use only.

Dwelling #2

Youghiogheny River Lake

Confluence Co: Fayette PA 15424-9103

Landholding Agency: COE

Property Number: 31199830003

Status: Excess

Comment: 1421 sq. ft., 2-story + basement, most recent use—residential.

Residence A

2045 Pohopoco Drive

Lehighton Co: Carbon PA 18235-

Landholding Agency: COE

Property Number: 31200410007

Status: Unutilized

Comment: 1200 sq. ft., presence of asbestos, off-site use only.

Bldg. 3, VAMC

1700 South Lincoln Avenue

Lebanon Co: Lebanon PA 17042-

Landholding Agency: VA

Property Number: 97199230012

Status: Underutilized

Comment: portion of bldg. (4046 sq. ft.), most recent use—storage, second floor—lacks elevator access.

South Dakota

Residence/Tract 143

Pierre SD 57532-

Landholding Agency: COE

Property Number: 31200330008

Status: Excess

Comment: 960 sq. ft., off-site use only.

Residence/Tract 420

Pierre SD 57532-

Landholding Agency: COE

Property Number: 31200330012

Status: Excess

Comment: 1680 sq. ft., off-site use only.

Tract 155

Oahe Dam/Lake Oahe

Pierre Co: Hughes SD 57501-

Landholding Agency: COE

Property Number: 31200420019

Status: Excess

Comment: 1008 sq. ft. residence, off-site use only.

Tract 806

Oake Dam/Lake Oahe

Ft. Pierre Co: Stanley SD 57532-

Landholding Agency: COE

Property Number: 31200420020

Status: Excess

Comment: 1624 sq. ft. residence, off-site use only.

Virginia

Metal Bldg.

John H. Kerr Dam & Reservoir

Co: Boydton VA

Landholding Agency: COE

Property Number: 31199620009

Status: Excess

Comment: 800 sq. ft., most recent use—storage, off-site use only.

Wisconsin

Former Lockmaster's Dwelling

Cedar Locks

4527 East Wisconsin Road

Appleton Co: Outagamie WI 54911-

Landholding Agency: COE

Property Number: 31199011524

Status: Unutilized

Comment: 1224 sq. ft.; 2 story brick/wood frame residence; needs rehab; secured area with alternate access.

Former Lockmaster's Dwelling

Appleton 4th Lock

905 South Lowe Street

Appleton Co: Outagamie WI 54911-

Landholding Agency: COE

Property Number: 31199011525

Status: Unutilized

Comment: 908 sq. ft.; 2 story wood frame residence; needs rehab.

Former Lockmaster's Dwelling

Kaukauna 1st Lock

301 Canal Street

Kaukauna Co: Outagamie WI 54131-

Landholding Agency: COE

Property Number: 31199011527

Status: Unutilized

Comment: 1290 sq. ft.; 2 story wood frame residence; needs rehab; secured area with alternate access.

Former Lockmaster's Dwelling

Appleton 1st Lock

905 South Oneida Street

Appleton Co: Outagamie WI 54911-

Landholding Agency: COE

Property Number: 31199011531

Status: Unutilized

Comment: 1300 sq. ft.; potential utilities; 2 story wood frame residence; needs rehab; secured area with alternate access.

Former Lockmaster's Dwelling

Rapid Croche Lock

Lock Road

Wrightstown Co: Outagamie WI 54180-

Location: 3 miles southwest of intersection State Highway 96 and Canal Road.

Landholding Agency: COE

Property Number: 31199011533

Status: Unutilized

Comment: 1952 sq. ft.; 2 story wood frame residence; potential utilities; needs rehab.

Former Lockmaster's Dwelling

Little KauKauna Lock

Little KauKauna

Lawrence Co: Brown WI 54130-

Location: 2 miles southeasterly from intersection of Lost Dauphin Road (County Trunk Highway “D”) and River Street.

Landholding Agency: COE

Property Number: 31199011535

Status: Unutilized

Comment: 1224 sq. ft.; 2 story brick/wood frame residence; needs rehab.

Former Lockmaster's Dwelling

Little Chute, 2nd Lock

214 Mill Street

Little Chute Co: Outagamie WI 54140-

Landholding Agency: COE

Property Number: 31199011536

Status: Unutilized

Comment: 1224 sq. ft.; 2 story brick/wood frame residence; potential utilities; needs rehab; secured area with alternate access.

Bldg. 8

VA Medical Center

County Highway E

Tomah Co: Monroe WI 54660-

Landholding Agency: VA

Property Number: 97199010056

Status: Underutilized

Comment: 2200 sq. ft., 2 story wood frame, possible asbestos, potential utilities, structural deficiencies, needs rehab.

Land (by State)

Alabama

VA Medical Center

VAMC

Tuskegee Co: Macon AL 36083-

Landholding Agency: VA

Property Number: 97199010053

Status: Underutilized

Comment: 40 acres, buffer to VA Medical Center, potential utilities, undeveloped.

Alaska

Recreation Site

Harding Lake

Salcha Co: AK

Landholding Agency: GSA

Property Number: 54200430006

Status: Surplus

Comment: 20 acres, no utilities.

GSA Number: 9-D-AK-768

Arkansas

Parcel 01

DeGray Lake

Section 12

Arkadelphia Co: Clark AR 71923-9361

Landholding Agency: COE

Property Number: 31199010071

Status: Unutilized

Comment: 77.6 acres.

Parcel 02

DeGray Lake

Section 13

Arkadelphia Co: Clark AR 71923-9361

Landholding Agency: COE

Property Number: 31199010072

Status: Unutilized

Comment: 198.5 acres.

Parcel 03

DeGray Lake

Section 18

Arkadelphia Co: Clark AR 71923-9361

Landholding Agency: COE

Property Number: 31199010073

Status: Unutilized

Comment: 50.46 acres.

Parcel 04

DeGray Lake

Section 24, 25, 30 and 31

Arkadelphia Co: Clark AR 71923-9361

Landholding Agency: COE

Property Number: 31199010074

Status: Unutilized

Comment: 236.37 acres.

Parcel 05

DeGray Lake

Section 16

Arkadelphia Co: Clark AR 71923-9361

Landholding Agency: COE

Property Number: 31199010075

Status: Unutilized

Comment: 187.30 acres.

Parcel 06

DeGray Lake

Section 13

Arkadelphia Co: Clark AR 71923-9361

Landholding Agency: COE

Property Number: 31199010076

Status: Unutilized

Comment: 13.0 acres

Parcel 07

DeGray Lake

Section 34

Arkadelphia Co: Hot Spring AR 71923-9361

Landholding Agency: COE

Property Number: 31199010077

Status: Unutilized

Comment: 0.27 acres

Parcel 08

DeGray Lake

Section 13

Arkadelphia Co: Clark AR 71923-9361

Landholding Agency: COE

Property Number: 31199010078

Status: Unutilized

Comment: 14.6 acres

Parcel 09

DeGray Lake

Section 12

Arkadelphia Co: Hot Spring AR 71923-9361

Landholding Agency: COE

Property Number: 31199010079

Status: Unutilized

Comment: 6.60 acres

Parcel 10

DeGray Lake

Section 12

Arkadelphia Co: Hot Spring AR 71923-9361

Landholding Agency: COE

Property Number: 31199010080

Status: Unutilized

Comment: 4.5 acres

Parcel 11

DeGray Lake

Section 19

Arkadelphia Co: Hot Spring AR 71923-9361

Landholding Agency: COE

Property Number: 31199010081

Status: Unutilized

Comment: 19.50 acres

Lake Greeson

Section 7, 8 and 18

Murfreesboro Co: Pike AR 71958-9720

Landholding Agency: COE

Property Number: 31199010083

Status: Unutilized

Comment: 46 acres

California

Land

4150 Clement Street

San Francisco Co: San Francisco CA 94121-

Landholding Agency: VA

Property Number: 97199240001

Status: Underutilized

Comment: 4 acres; landslide area.

Iowa

40.66 acres

VA Medical Center

1515 West Pleasant St.

Knoxville Co: Marion IA 50138-

Landholding Agency: VA

Property Number: 97199740002

Status: Unutilized

Comment: golf course, easement requirements

Kansas

Parcel 1

El Dorado Lake

Section 13, 24, and 18 (See County) Co: Butler KS

Landholding Agency: COE

Property Number: 31199010064

Status: Unutilized

Comment: 61 acres; most recent use—recreation.

Kentucky

Tract 2625

Barkley Lake, Kentucky, and Tennessee

Cadiz Co: Trigg KY 42211-

Location: Adjoining the village of Rockcastle.

Landholding Agency: COE

Property Number: 31199010025

Status: Excess

Comment: 2.57 acres; rolling and wooded.

Tract 2709-10 and 2710-2

Barkley Lake, Kentucky and Tennessee

Cadiz Co: Trigg KY 42211-

Location: 2½ miles in a southerly direction from the village of Rockcastle.

Landholding Agency: COE

Property Number: 31199010026

Status: Excess

Comment: 2.00 acres; steep and wooded.

Tract 2708-1 and 2709-1

Barkley Lake, Kentucky and Tennessee

Cadiz Co: Trigg KY 42211-

Location: 2½ miles in a southerly direction from the village of Rockcastle.

Landholding Agency: COE

Property Number: 31199010027

Status: Excess

Comment: 3.59 acres; rolling and wooded; no utilities.

Tract 2800

Barkley Lake, Kentucky and Tennessee

Cadiz Co: Trigg KY 42211-

Location: 4½ miles in a southeasterly direction from the village of R ockcastle.

Landholding Agency: COE

Property Number: 31199010028

Status: Excess

Comment: 5.44 acres; steep and wooded.

Tract 2915

Barkley Lake, Kentucky and Tennessee

Cadiz Co: Trigg KY 42211-

Location: 6½ miles west of Cadiz.

Landholding Agency: COE

Property Number: 31199010029

Status: Excess

Comment: 5.76 acres; steep and wooded; no utilities.

Tract 2702

Barkley Lake, Kentucky and Tennessee

Cadiz Co: Trigg KY 42211-

Location: 1 mile in a southerly direction from the village of Rockcastle.

Landholding Agency: COE

Property Number: 31199010031

Status: Excess

Comment: 4.90 acres; wooded; no utilities.

Tract 4318

Barkley Lake, Kentucky and Tennessee

Canton Co: Trigg KY 42212-

Location: Trigg Co. adjoining the city of Canton, KY on the waters of Hopson Creek.

Landholding Agency: COE

Property Number: 31199010032

Status: Excess

Comment: 8.24 acres; steep and wooded.

Tract 4502

Barkley Lake, Kentucky and Tennessee

Canton Co: Trigg KY 42212-

Location: 3½ miles in a southerly direction from Canton, KY.

Landholding Agency: COE

Property Number: 31199010033

Status: Excess

Comment: 4.26 acres; steep and wooded.

Tract 4611

Barkley Lake, Kentucky and Tennessee

Canton Co: Trigg KY 42212-

Location: 5 miles south of Canton, KY.

Landholding Agency: COE

Property Number: 31199010034

Status: Excess

Comment: 10.51 acres; steep and wooded; no utilities.

Tract 4619

Barkley Lake, Kentucky and Tennessee

Canton Co: Trigg KY 42212-

Location: 4½ miles south of Canton, KY.

Landholding Agency: COE

Property Number: 31199010035

Status: Excess

Comment: 2.02 acres; step and wooded; no utilities.

Tract 4817

Barkley Lake, Kentucky and Tennessee

Canton Co: Trigg KY 42212-

Location: 6½ miles south of Canton, KY.

Landholding Agency: COE

Property Number: 31199010036

Status: Excess

Comment: 1.75 acres; wooded.

Tract 1217

Barkley Lake, Kentucky and Tennessee

Eddyville Co: Lyon KY 42030-

Location: On the north side of the Illinois Central Railroad.

Landholding Agency: COE

Property Number: 31199010042

Status: Excess

Comment: 5.80 acres; steep and wooded.

Tract 1906

Barkley Lake, Kentucky and Tennessee

Eddyville Co: Lyon KY 42030-

Location: Approximately 4 miles east of Eddyville, KY.

Landholding Agency: COE

Property Number: 31199010044

Status: Excess

Comment: 25.86 acres; rolling steep and partially wooded; no utilities.

Tract 1907

Barkley Lake, Kentucky and Tennessee

Eddyville Co: Lyon KY 42038

Location: On the waters of Pilfen Creek, 4 miles east of Eddyville, KY.

Landholding Agency: COE

Property Number: 31199010045

Status: Excess

Comment: 8.71 acres; rolling steep and wooded; no utilities.

Tract 2001 #1

Barkley Lake, Kentucky and Tennessee

Eddyville Co: Lyon KY 42030-

Location: Approximately 4½ miles east of Eddyville, KY.

Landholding Agency: COE

Property Number: 31199010046

Status: Excess

Comment: 47.42 acres; steep and wooded; no utilities.

Tract 2001 #2

Barkley Lake, Kentucky and Tennessee

Eddyville Co: Lyon KY 42030-

Location: Approximatel 4½ miles east of Eddyville, KY.

Landholding Agency: COE

Property Number: 31199010047

Status: Excess

Comment: 8.64 acres; steep and wooded; no utilities.

Tract 2005

Barkley Lake, Kentucky and Tennessee

Eddyville Co: Lyon KY 42030-

Location: Approximately 5½ miles east of Eddyville, KY.

Landholding Agency: COE

Property Number: 31199010048

Status: Excess

Comment: 4.62 acres; steep and wooded; no utilities.

Tract 2307

Barkley Lake, Kentucky and Tennessee

Eddyville Co: Lyon KY 42030-

Location: 7½ miles southeasterly of Eddyville, KY.

Landholding Agency: COE

Property Number: 31199010049

Status: Excess

Comment: 11.43 acres; steep; rolling and wooded; no utilities.

Tract 2403

Barkley Lake, Kentucky and Tennessee

Eddyville Co: Lyon KY 42030-

Location: 7 miles southeasterly of Eddyville, KY.

Landholding Agency: COE

Property Number: 31199010050

Status: Excess

Comment: 1.56 acres; steep and wooded; no utilities.

Tract 2504

Barkley Lake, Kentucky and Tennessee

Eddyville Co: Lyon KY 42030-

Location: 9 miles southeasterly of Eddyville, KY.

Landholding Agency: COE

Property Number: 31199010051

Status: Excess

Comment: 24.46 acres; steep and wooded; no utilities.

Tract 214

Barkley Lake, Kentucky and Tennessee

Grand Rivers Co: Lyon KY 42045-

Location: South of the Illinois Central Railroad, 1 mile east of the Cumberland River.

Landholding Agency: COE

Property Number: 31199010052

Status: Excess

Comment: 5.5 acres; wooded; no utilities.

Tract 215

Barkley Lake, Kentucky and Tennessee

Grand Rivers Co: Lyon KY 42045-

Location: 5 miles southwest of Kuttawa

Landholding Agency: COE

Property Number: 31199010053

Status: Excess

Comment: 1.40 acres; wooded; no utilities.

Tract 241

Barkley Lake, Kentucky and Tennessee

Grand Rivers Co: Lyon KY 42045-

Location: Old Henson Ferry Road, 6 miles west of Kuttawa, KY.

Landholding Agency: COE

Property Number: 31199010054

Status: Excess

Comment: 1.26 acres; steep and wooded; no utilities.

Tracts 306, 311, 315 and 325

Barkley Lake, Kentucky and Tennessee

Grand Rivers Co: Lyon KY 42045-

Location: 2.5 miles southwest of Kuttawa, KY. on the waters of Cypress Creek.

Landholding Agency: COE

Property Number: 31199010055

Status: Excess

Comment: 38.77 acres; steep and wooded; no utilities.

Tracts 2305, 2306, and 2400-1

Barkley Lake, Kentucky and Tennessee

Eddyville Co: Lyon KY 42030-

Location: 6½ miles southeasterly of Eddyville, KY.

Landholding Agency: COE

Property Number: 31199010056

Status: Excess

Comment: 97.66 acres; steep rolling and wooded; no utilities.

Tracts 5203 and 5204

Barkley Lake, Kentucky and Tennessee

Linton Co: Trigg KY 42212-

Location: Village of Linton, KY state highway 1254.

Landholding Agency: COE

Property Number: 31199010058

Status: Excess

Comment: 0.93 acres; rolling, partially wooded; no utilities.

Tract 5240

Barkley Lake, Kentucky and Tennessee

Linton Co: Trigg KY 42212-

Location: 1 mile northwest of Linton, KY.

Landholding Agency: COE

Property Number: 31199010059

Status: Excess

Comment: 2.26 acres; steep and wooded; no utilities.

Tract 4628

Barkley Lake, Kentucky and Tennessee

Canton Co: Trigg KY 42212-

Location: 4½ miles south from Canton, KY.

Landholding Agency: COE

Property Number: 31199011621

Status: Excess

Comment: 3.71 acres; steep and wooded; subject to utility easements.

Tract 4619-B

Barkley Lake, Kentucky and Tennessee

Canton Co: Trigg KY 42212-

Location: 4½ miles south from Canton, KY.

Landholding Agency: COE

Property Number: 31199011622

Status: Excess

Comment: 1.73 acres; steep and wooded; subject to utility easements.

Tract 2403-B

Barkley Lake, Kentucky and Tennessee

Eddyville Co: Lyon KY 42038-

Location: 7 miles southeasterly from Eddyville, KY.

Landholding Agency: COE

Property Number: 31199011623

Status: Unutilized

Comment: 0.70 acres, wooded; subject to utility easements.

Tract 241-B

Barkley Lake, Kentucky and Tennessee

Grand Rivers Co: Lyon KY 42045-

Location: South of Old Henson Ferry Road, 6 miles west of Kuttawa, KY.

Landholding Agency: COE

Property Number: 31199011624

Status: Excess

Comment: 11.16 acres; steep and wooded; subject to utility easements.

Tracts 212 and 237

Barkley Lake, Kentucky and Tennessee

Grand Rivers Co: Lyon KY 42045-

Location: Old Henson Ferry Road, 6 miles west of Kuttawa, KY.

Landholding Agency: COE

Property Number: 31199011625

Status: Excess

Comment: 2.44 acres; steep and wooded; subject to utility easements.

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements.

Tract 233

Barkley Lake, Kentucky and Tennessee

Grand Rivers Co: Lyon KY 42045-

Location: 5 miles southwest of Kuttawa

Landholding Agency: COE

Property Number: 31199011627

Status: Excess

Comment: 1.00 acres; wooded; subject to utility easements.

Tract N-819

Dale Hollow Lake & Dam Project

Illwill Creek, Hwy 90

Hobart Co: Clinton KY 42601-

Landholding Agency: COE

Property Number: 31199140009

Status: Underutilized

Comment: 91 acres, most recent use—hunting, subject to existing easements

Portion of Lock & Dam No. 1

Kentucky River

Carrolton Co: Carroll KY 41008-0305

Landholding Agency: COE

Property Number: 31199320003

Status: Unutilized

Comment: Approx. 3.5 acres (sloping), access monitored

Tract No. F-610

Buckhorn Lake Project

Buckhorn KY 41721-

Landholding Agency: COE

Property Number: 31200240001

Status: Unutilized

Comment: 0.64 acres, encroachments, most recent use—flood control purposes

Louisiana

Wallace Lake Dam and Reservoir

Shreveport Co: Caddo LA 71103-

Landholding Agency: COE

Property Number: 31199011009

Status: Unutilized

Comment: 10.81 acres; wildlife/forestry; no utilities.

Bayou Bodcau Dam and Reservoir

Haughton Co: Caddo LA 71037-9707

Location: 35 miles Northeast of Shreveport, La.

Landholding Agency: COE

Property Number: 31199011010

Status: Unutilized

Comment: 203 acres; wildlife/forestry; no utilities.

Mississippi

Parcel 7

Grenada Lake

Sections 22, 23, T24N

Grenada Co: Yalobusha MS 38901-0903

Landholding Agency: COE

Property Number: 31199011019

Status: Underutilized

Comment: 100 acres; no utilities; intermittently used under lease—expires 1994.

Parcel 8

Grenada Lake

Section 20, T24N

Grenada Co: Yalobusha MS 38901-0903

Landholding Agency: COE

Property Number: 31199011020

Status: Underutilized

Comment: 30 acres; no utilities; intermittently used under lease—expires 1994.

Parcel 9

Grenada Lake

Section 20, T24N, R7E

Grenada Co: Yalobusha MS 38901-0903

Landholding Agency: COE

Property Number: 31199011021

Status: Underutilized

Comment: 23 acres; no utilities; intermittently used under lease—expires 1994.

Parcel 10

Grenada Lake

Sections 16, 17, 18 T24N R8E

Grenada Co: Calhoun MS 38901-0903

Landholding Agency: COE

Property Number: 31199011022

Status: Underutilized

Comment: 490 acres; no utilities; intermittently used under lease—expires 1994.

Parcel 2

Grenada Lake

Section 20 and T23N, R5E

Grenada Co: Grenada MS 38901-0903

Landholding Agency: COE

Property Number: 31199011023

Status: Underutilized

Comment: 60 acres; no utilities; most recent use—wildlife and forestry management.

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease).

Parcel 4

Grenada Lake

Section 2 and 3. T23N, R5E

Grenada Co: Yalobusha MS 38901-0903

Landholding Agency: COE

Property Number: 31199011025

Status: Underutilized

Comment: 60 acres; no utilities; most recent use—wildlife and forestry management.

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease).

Parcel 6

Grenada Lake

Section 9, T24N, R6E

Grenada Co: Yalobusha MS 38903-0903

Landholding Agency: COE

Property Number: 31199011027

Status: Underutilized

Comment: 80 acres; no utilities; most recent use—wildlife and forestry management.

Parcel 11

Grenada Lake

Section 20, T24N, R8E

Grenada Co: Calhoun MS 38901-0903

Landholding Agency: COE

Property Number: 31199011028

Status: Underutilized

Comment: 30 acres; no utilities; most recent use—wildlife and forestry management.

Parcel 12

Grenada Lake

Section 25, T24N, R7E

Grenada Co: Yalobusha MS 38390-10903

Landholding Agency: COE

Property Number: 31199011029

Status: Underutilized

Comment: 30 acres; no utilities; most recent use—wildlife and forestry management.

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease).

Parcel 14

Grenada Lake

Section 3, T23N, R6E

Grenada Co: Yalobusha MS 38901-0903

Landholding Agency: COE

Property Number: 31199011031

Status: Underutilized

Comment: 15 acres; no utilities; most recent use—wildlife and forestry management.

Parcel 15

Grenada Lake

Section 4, T24N, R6E

Grenada Co: Yalobusha MS 38901-0903

Landholding Agency: COE

Property Number: 31199011032

Status: Underutilized

Comment: 40 acres; no utilities; most recent use—wildlife and forestry management.

Parcel 16

Grenada Lake

Section 9, T23N, R6E

Grenada Co: Yalobusha MS 38901-0903

Landholding Agency: COE

Property Number: 31199011033

Status: Underutilized

Comment: 70 acres; no utilities; most recent use—wildlife and forestry management.

Parcel 17

Grenada Lake

Section 17, T23N, R7E

Grenada Co: Grenada MS 28901-0903

Landholding Agency: COE

Property Number: 31199011034

Status: Underutilized

Comment: 35 acres; no utilities; most recent use—wildlife and forestry management.

Parcel 18

Grenada Lake

Section 22, T23N, R7E

Grenada Co: Grenada MS 28902-0903

Landholding Agency: COE

Property Number: 31199011035

Status: Underutilized

Comment: 10 acres; no utilities; most recent use—wildlife and forestry management.

Parcel 19

Grenada Lake

Section 9, T22N, R7E

Grenada Co: Grenada MS 38901-0903

Landholding Agency: COE

Property Number: 31199011036

Status: Underutilized

Comment: 20 acres; no utilities; most recent use—wildlife and forestry management.

Missouri

Harry S Truman Dam & Reservoir

Warsaw Co: Benton MO 65355-

Location: Triangular shaped parcel southwest of access road “B”, part of Bledsoe Ferry Park Tract 150.

Landholding Agency: COE

Property Number: 31199030014

Status: Underutilized

Comment: 1.7 acres; potential utilities.

Oklahoma

Pine Creek Lake

Section 27

(See County) Co: McCurtain OK

Landholding Agency: COE

Property Number: 31199010923

Status: Unutilized

Comment: 3 acres; no utilities; subject to right of way for Oklahoma State Highway 3.

Pennsylvania

Mahoning Creek Lake

New Bethlehem Co: Armstrong PA 16242-9603

Location: Route 28 north to Belknap, Road #4

Landholding Agency: COE

Property Number: 31199010018

Status: Excess

Comment: 2.58 acres; steep and densely wooded.

Tracts 610, 611, 612

Shenango River Lake

Sharpsville Co: Mercer PA 16150-

Location: I-79 North, I-80 West, Exit Sharon. R18 North 4 miles, left on R518, right on Mercer Avenue.

Landholding Agency: COE

Property Number: 31199011001

Status: Excess

Comment: 24.09 acres; subject to flowage easement

Tracts L24, L26

Crooked Creek Lake

Co: Armstrong PA 03051-

Location: Left bank—55 miles downstream of dam.

Landholding Agency: COE

Property Number: 31199011011

Status: Unutilized

Comment: 7.59 acres; potential for utilities.

Portion of Tract L-21A

Crooked Creek Lake, LR 03051

Ford City Co: Armstrong PA 16226-

Landholding Agency: COE

Property Number: 31199430012

Status: Unutilized

Comment: Approximately 1.72 acres of undeveloped land, subject to gas rights

Tennessee

Tract 6827

Barkley Lake

Dover Co: Stewart TN 37058-

Location: 2 1/2 miles west of Dover, TN.

Landholding Agency: COE

Property Number: 31199010927

Status: Excess

Comment: .57 acres; subject to existing easements.

Tracts 6002-2 and 6010

Barkley Lake

Dover Co: Stewart TN 37058-

Location: 3 1/2 miles south of village of Tabaccoport.

Landholding Agency: COE

Property Number: 31199010928

Status: Excess

Comment: 100.86 acres; subject to existing easements.

Tract 11516

Barkley Lake

Ashland City Co: Dickson TN 37015-

Location: 1/2 mile downstream from Cheatham Dam

Landholding Agency: COE

Property Number: 31199010929

Status: Excess

Comment: 26.25 acres; subject to existing easements.

Tract 2319

J. Percy Priest Dam and Resorvoir

Murfreesboro Co: Rutherford TN 37130-

Location: West of Buckeye Bottom Road

Landholding Agency: COE

Property Number: 31199010930

Status: Excess

Comment: 14.48 acres; subject to existing easements.

Tract 2227

J. Percy Priest Dam and Reservoir

Murfreesboro Co: Rutherford TN 37130-

Location: Old Jefferson Pike

Landholding Agency: COE

Property Number: 31199010931

Status: Excess

Comment: 2.27 acres; subject to existing easements.

Tract 2107

J. Percy Priest Dam and Reservoir

Murfreesboro Co: Rutherford TN 37130-

Location: Across Fall Creek near Fall Creek camping area.

Landholding Agency: COE

Property Number: 31199010932

Status: Excess

Comment: 14.85 acres; subject to existing easements.

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements.

Tract 1911

J. Percy Priest Dam and Reservoir

Murfreesboro Co: Rutherford TN 37130-

Location: East of Lamar Road

Landholding Agency: COE

Property Number: 31199010934

Status: Excess

Comment: 6.92 acres; subject to existing easements.

Tract 7206

Barkley Lake

Dover Co: Stewart TN 37058-

Location: 2½ miles SE of Dover, TN.

Landholding Agency: COE

Property Number: 31199010936

Status: Excess

Comment: 10.15 acres; subject to existing easements.

Tracts 8813, 8814

Barkley Lake

Cumberland Co: Stewart TN 37050-

Location: 1½ miles East of Cumberland City.

Landholding Agency: COE

Property Number: 31199010937

Status: Excess

Comment: 96 acres; subject to existing easements.

Tract 8911

Barkley Lake

Cumberland City Co: Montgomery TN 37050-

Location: 4 miles east of Cumberland City.

Landholding Agency: COE

Property Number: 31199010938

Status: Excess

Comment: 7.7 acres; subject to existing easements.

Tract 11503

Barkley Lake

Ashland City Co: Cheatham TN 37015-

Location: 2 miles downstream from Cheatham Dam.

Landholding Agency: COE

Property Number: 31199010939

Status: Excess

Comment: 1.1 acres; subject to existing easements.

Tracts 11523, 11524

Barkley Lake

Ashland City Co: Cheatham TN 37015-

Location: 2½ miles downstream from Cheatham Dam.

Landholding Agency: COE

Property Number: 31199010940

Status: Excess

Comment: 19.5 acres; subject to existing easements.

Tract 6410

Barkley Lake

Bumpus Mills Co: Stewart TN 37028-

Location: 4½ miles SW. of Bumpus Mills.

Landholding Agency: COE

Property Number: 31199010941

Status: Excess

Comment: 17 acres; subject to existing easements.

Tract 9707

Barkley Lake

Palmyer Co: Montgomery TN 37142-

Location: 3 miles NE of Palmyer, TN. Highway 149

Landholding Agency: COE

Property Number: 31199010943

Status: Excess

Comment: 6.6 acres; subject to existing easements.

Tract 6949

Barkley Lake

Dover Co: Stewart TN 37058-

Location: 1½ miles SE of Dover, TN.

Landholding Agency: COE

Property Number: 31199010944

Status: Excess

Comment: 29.67 acres; subject to existing easements.

Tracts 6005 and 6017

Barkley Lake

Dover Co: Stewart TN 37058-

Location: 3 miles south of Village of Tobaccoport.

Landholding Agency: COE

Property Number: 31199011173

Status: Excess

Comment: 5 acres; subject to existing easements.

Tracts K-1191, K-1135

Old Hickory Lock and Dam

Hartsville Co: Trousdale TN 37074-

Landholding Agency: COE

Property Number: 31199130007

Status: Underutilized

Comment: 54 acres, (portion in floodway), most recent use—recreation

Tract A-102

Dale Hollow Lake & Dam Project

Canoe Ridge, State Hwy 52

Celina Co: Clay TN 38551-

Landholding Agency: COE

Property Number: 31199140006

Status: Underutilized

Comment: 351 acres, most recent use—hunting, subject to existing easements

Tract A-120

Dale Hollow Lake & Dam Project

Swann Ridge, State Hwy No. 53

Celina Co: Clay TN 38551-

Landholding Agency: COE

Property Number: 31199140007

Status: Underutilized

Comment: 883 acres, most recent use—hunting, subject to existing easements

Tract D-185

Dale Hollow Lake & Dam Project

Ashburn Creek, Hwy No. 53

Livingston Co: Clay TN 38570-

Landholding Agency: COE

Property Number: 31199140010

Status: Underutilized

Comment: 97 acres, most recent use—hunting, subject to existing easements

Texas

Land

Olin E. Teague Veterans Center

1901 South 1st Street

Temple Co: Bell TX 76504-

Landholding Agency: VA

Property Number: 97199010079

Status: Underutilized

Comment: 13 acres, portion formerly landfill, portion near flammable materials, railroad crosses property, potential utilities.

Wisconsin

VA Medical Center

County Highway E

Tomah Co: Monroe WI 54660-

Landholding Agency: VA

Property Number: 97199010054

Status: Underutilized

Comment: 12.4 acres, serves as buffer between center and private property, no utilities.

Suitable/Unavailable Properties

Buildings (by State)

Hawaii

Bldg. 2601NS

Moanalua Prop/Naval Station

Pearl Harbor Co: Honolulu HI 96860-

Landholding Agency: Navy

Property Number: 77200410010

Status: Unutilized

Comment: 275 sq. ft., concrete

Bldg. 2611NS

Moanalua Prop/Naval Station

Pearl Harbor Co: Honolulu HI 96860-

Landholding Agency: Navy

Property Number: 77200410015

Status: Unutilized

Comment: 840 sq. ft., concrete, possible lead based paint

Bldg. 2638NS

Moanalua Prop/Naval Station

Pearl Harbor Co: Honolulu HI 96860-

Landholding Agency: Navy

Property Number: 77200410016

Status: Unutilized

Comment: 2904 sq. ft., concrete

Bldg. 2643NS

Moanalua Prop/Naval Station

Pearl Harbor Co: Honolulu HI 96860-

Landholding Agency: Navy

Property Number: 77200410017

Status: Unutilized

Comment: 1956 sq. ft., concrete

Bldg. 2644NS

Moanalua Prop/Naval Station

Pearl Harbor Co: Honolulu HI 96860-

Landholding Agency: Navy

Property Number: 77200410018

Status: Unutilized

Comment: 2460 sq. ft., concrete

Bldg. 2645NS

Moanalua Prop/Naval Station

Pearl Harbor Co: Honolulu HI 96860-

Landholding Agency: Navy

Property Number: 77200410019

Status: Unutilized

Comment: 2625 sq. ft., concrete

Bldg. 2647NS

Moanalua Prop/Naval Station

Pearl Harbor Co: Honolulu HI 96860-

Landholding Agency: Navy

Property Number: 77200410020

Status: Unutilized

Comment: 2800 sq. ft., concrete

Bldg. 2650NS

Moanalua Prop/Naval Station

Pearl Harbor Co: Honolulu HI 96860-

Landholding Agency: Navy

Property Number: 77200410021

Status: Unutilized

Comment: 2190 sq. ft., concrete

Bldg. 284

Naval Station

Pearl Harbor Co: Honolulu HI 96860-4100

Landholding Agency: Navy

Property Number: 77200420031

Status: Unutilized

Comment: 22,304 sq. ft., possible asbestos/lead paint, most recent use—office

Bldg. 285

Naval Station

Pearl Harbor Co: Honolulu HI 96860-4100

Landholding Agency: Navy

Property Number: 77200420032

Status: Unutilized

Comment: 960 sq. ft., possible asbestos/lead paint, most recent use—storage

Idaho

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; one floor wood frame; most recent use—residence.

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence.

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence.

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence.

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame.

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence.

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence.

Montana

VA MT Healthcare

210 S. Winchester

Miles City Co: Custer MT 59301-

Landholding Agency: VA

Property Number: 97200030001

Status: Underutilized

Comment: 18 buildings, total sq. ft. = 123,851, presence of asbestos, most recent use—clinic/office/food production

Ohio

Bldg.—Berlin Lake

7400 Bedell Road

Berlin Center Co: Mahoning OH 44401-9797

Landholding Agency: COE

Property Number: 31199640001

Status: Unutilized

Comment: 1420 sq. ft., 2-story brick w/garage and basement, most recent use—residential, secured w/alternate access

Pennsylvania

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site.

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site.

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed

Wisconsin

Former Lockmaster's Dwelling

DePere Lock

100 James Street

De Pere Co: Brown WI 54115-

Landholding Agency: COE

Property Number: 31199011526

Status: Unutilized

Comment: 1224 sq. ft.; 2 story brick/wood frame residence; needs rehab; secured area with alternate access.

Bldg. 2

VA Medical Center

5000 West National Ave.

Milwaukee WI 53295-

Landholding Agency: VA

Property Number: 97199830002

Status: Underutilized

Comment: 133,730 sq. ft., needs rehab, presence of asbestos/lead paint, most recent use—storage

Land (by State)

Hawaii

Lots

Moanalua Prop/Naval Station

43B1, B3, C1, C4, 65A

Pearl Harbor Co: Honolulu HI 96860-

Landholding Agency: Navy

Property Number: 77200410008

Status: Unutilized

Comment: 18-acre site

Property 100001AE

Naval Station

Pearl Harbor Co: Honolulu HI 96818-

Landholding Agency: Navy

Property Number: 77200420015

Status: Unutilized

Comment: 1.39 acres w/improvement

Property 100001AU

Naval Station

Pearl Harbor Co: Honolulu HI 96818-

Landholding Agency: Navy

Property Number: 77200420016

Status: Unutilized

Comment: 2.77 acres w/improvement

Property 100019AA

Naval Station

Pearl Harbor Co: Honolulu HI 96818-

Landholding Agency: Navy

Property Number: 77200420017

Status: Unutilized

Comment: 4.48 acres w/improvement

Property 100019AB

Naval Station

Pearl Harbor Co: Honolulu HI 96818-

Landholding Agency: Navy

Property Number: 77200420018

Status: Unutilized

Comment: 3.15 acres w/improvement

Property 100021AC

Naval Station

Pearl Harbor Co: Honolulu HI 96818-

Landholding Agency: Navy

Property Number: 77200420019

Status: Unutilized

Comment: 2.57 acres w/improvement

Property 100021AD

Naval Station

Pearl Harbor Co: Honolulu HI 96818-

Landholding Agency: Navy

Property Number: 77200420020

Status: Unutilized

Comment: 2.77 acres w/improvement

PSD Parcel

Naval Station

Pearl Harbor Co: Honolulu HI 96860-4100

Landholding Agency: Navy

Property Number: 77200420033

Status: Unutilized

Comment: 8.35 acres

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions.

Iowa

38 acres

VA Medical Center

1515 West Pleasant St.

Knoxville Co: Marion IA 50138-

Landholding Agency: VA

Property Number: 97199740001

Status: Unutilized

Comment: golf course

Michigan

VA Medical Center

5500 Armstrong Road

Battle Creek Co: Calhoun MI 49016-

Landholding Agency: VA

Property Number: 97199010015

Status: Underutilized

Comment: 20 acres, used as exercise trails and storage areas, potential utilities

New York

VA Medical Center

Fort Hill Avenue

Canandaigua Co: Ontario NY 14424-

Landholding Agency: VA

Property Number: 97199010017

Status: Underutilized

Comment: 27.5 acres, used for school ballfield and parking, existing utilities easements, portion leased

Pennsylvania

East Branch Clarion River Lake

Wilcox Co: Elk PA

Location: Free camping area on the right bank off entrance roadway.

Landholding Agency: COE

Property Number: 31199011012

Status: Underutilized

Comment: 1 acre; most recent use—free campground

Dashields Locks and Dam

(Glenwillard, PA)

Crescent Twp. Co: Allegheny PA 15046-0475

Landholding Agency: COE

Property Number: 31199210009

Status: Unutilized

Comment: 0.58 acres, most recent use—baseball field

VA Medical Center

New Castle Road

Butler Co: Butler PA 16001-

Landholding Agency: VA

Property Number: 97199010016

Status: Underutilized

Comment: Approx. 9.29 acres, used for patient recreation, potential utilities.

Land No. 645

VA. Medical Center

Highland Drive

Pittsburgh Co: Allegheny PA 15206-

Location: Between Campania and Wiltsie Streets.

Landholding Agency: VA

Property Number: 97199010080

Status: Unutilized

Comment: 90.3 acres, heavily wooded, property includes dump area and numerous site storm drain outfalls.

Land—34.16 acres

VA Medical Center

1400 Black Horse Hill Road

Coatesville Co: Chester PA 19320-

Landholding Agency: VA

Property Number: 97199340001

Status: Underutilized

Comment: 34.16 acres, open field, most recent use—recreation/buffer

Suitable/To Be Excessed

Land (by State)

Georgia

Lake Sidney Lanier

Co: Forsyth GA 30130-

Location: Located on Two Mile Creek adj. to State Route 369

Landholding Agency: COE

Property Number: 31199440010

Status: Unutilized

Comment: 0.25 acres, endangered plant species

Lake Sidney Lanier-3 parcels

Gainesville Co: Hall GA 30503-

Location: Between Gainesville H.S. and State Route 53 By-Pass

Landholding Agency: COE

Property Number: 31199440011

Status: Unutilized

Comment: 3 parcels totalling 5.17 acres, most recent use—buffer zone, endangered plant species

Kansas

Parcel #1

Fall River Lake

Section 26

Co: Greenwood KS

Landholding Agency: COE

Property Number: 31199010065

Status: Unutilized

Comment: 126.69 acres; most recent use—recreation and leased cottage sites.

Parcel No. 2, El Dorado Lake

Approx. 1 mi east of the town of El Dorado

Co: Butler KS

Landholding Agency: COE

Property Number: 31199210005

Status: Unutilized

Comment: 11 acres, part of a relocated railroad bed, rural area

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres.

Tennessee

Tract D-456

Cheatham Lock and Dam

Ashland Co: Cheatham TN 37015-

Location: Right downstream bank of Sycamore Creek.

Landholding Agency: COE

Property Number: 31199010942

Status: Excess

Comment: 8.93 acres; subject to existing easements.

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land

Unsuitable Properties

Buildings (by State)

Alabama

Bldg. 7

VA Medical Center

Tuskegee Co: Macon AL 36083-

Landholding Agency: VA

Property Number: 97199730001

Status: Underutilized

Reason: Secured Area

Bldg. 8

VA Medical Center

Tuskegee Co: Macon AL 36083-

Landholding Agency: VA

Property Number: 97199730002

Status: Underutilized

Reason: Secured Area

Alaska

Warehouse

Naval Arctic Research Lab

Cape Sabine AK

Landholding Agency: Navy

Property Number: 77200320001

Status: Excess

Reason: Extensive deterioration

Operations Bldg.

Naval Arctic Research Lab

Cape Sabine AK

Landholding Agency: Navy

Property Number: 77200320002

Status: Excess

Reason: Extensive deterioration

Warehouse

Naval Arctic Research Lab

Point McIntyre AK

Landholding Agency: Navy

Property Number: 77200320019

Status: Excess

Reason: Extensive deterioration

Garage

Naval Arctic Research Lab

Point McIntyre AK

Landholding Agency: Navy

Property Number: 77200320020

Status: Excess

Reason: Extensive deterioration

Operations Bldg.

Naval Arctic Research Lab

Point McIntyre AK

Landholding Agency: Navy

Property Number: 77200320021

Status: Excess

Reason: Extensive deterioration

Arkansas

Dwelling

Bull Shoals Lake/Dry Run Road

Oakland Co: Marion AR 72661-

Landholding Agency: COE

Property Number: 31199820001

Status: Unutilized

Reason: Extensive deterioration

Helena Casting Plant

Helena Co: Phillips AR 72342-

Landholding Agency: COE

Property Number: 31200220001

Status: Unutilized

Reason: Extensive deterioration

California

Soil & Materials Testing Lab

Sausalito CA 00000

Landholding Agency: COE

Property Number: 31199920002

Status: Excess

Reason: Contamination

Bldgs. M03, MO14, MO17

Sandia National Lab

Livermore Co: Alameda CA 94550-

Landholding Agency: Energy

Property Number: 41200220001

Status: Excess

Reason: Extensive deterioration

Bldgs. 9163, 962, 9621

Sandia National Lab

Livermore Co: Alameda CA 94551-

Landholding Agency: Energy

Property Number: 41200420001

Status: Unutilized

Reason: Secured Area

Trailer 067E

Lawrence Berkeley National Lab

Berkeley Co: Alameda CA 94720-

Landholding Agency: Energy

Property Number: 41200420002

Status: Excess

Reason: Extensive deterioration

Bldg. 29D

Lawrence Berkeley Natl Lab

Berkeley Co: Alameda CA 94720-

Landholding Agency: Energy

Property Number: 41200430068

Status: Excess

Reason: Extensive deterioration

Bldg. 29D

Berkeley National Lab

Berkeley Co: Alameda CA 94720-

Landholding Agency: Energy

Property Number: 41200430070

Status: Excess

Reason: Extensive deterioration

Bldg. 5B7

Marine Corps Recruit Depot

San Diego CA 92140-

Landholding Agency: Navy

Property Number: 77199930089

Status: Unutilized

Reason: Extensive deterioration

Bldg. 23025

Marine Corps Air Station

Miramar CA 92132-

Landholding Agency: Navy

Property Number: 77200030001

Status: Unutilized

Reason: Secured Area

Bldg. 23027

Marine Corps Air Station

Miramar CA 92132-

Landholding Agency: Navy

Property Number: 77200030002

Status: Unutilized

Reason: Secured Area

Bldg. 33023

Naval Air Weapons Station

China Lake CA 93555-6001

Landholding Agency: Navy

Property Number: 77200120115

Status: Excess

Reason: Extensive deterioration

Bldg. 6

Navy Marine Corps Rsv Ctr

Sacramento CA 95828-

Landholding Agency: Navy

Property Number: 77200210017

Status: Unutilized

Reason: Secured Area

Bldg. 799

Naval Air Station

North Island CA

Landholding Agency: Navy

Property Number: 77200210064

Status: Excess

Reason: Extensive deterioration

Bldg. 799

Naval Air Station

North Island CA

Landholding Agency: Navy

Property Number: 77200210124

Status: Excess

Reason: Extensive deterioration

Bldg. 41308

Marine Corps Base

Camp Pendleton CA 92055-

Landholding Agency: Navy

Property Number: 77200220031

Status: Excess

Reason: Extensive deterioration

Bldgs. 154, 157

Navy Region South West

San Diego CA

Landholding Agency: Navy

Property Number: 77200220072

Status: Excess

Reason: Extensive deterioration

Bldg. P-1019

Marine Corps Base

Camp Pendleton CA 92055-

Landholding Agency: Navy

Property Number: 77200220073

Status: Excess

Reason: Extensive deterioration

Bldg. P-4039

Marine Corps Base

Camp Pendleton CA 92055-

Landholding Agency: Navy

Property Number: 77200220074

Status: Excess

Reason: Extensive deterioration

Bldg. P-5011

Marine Corps Base

Camp Pendleton CA 92055-

Landholding Agency: Navy

Property Number: 77200220075

Status: Excess

Reason: Extensive deterioration

Bldg. P7058

Marine Corps Base

Camp Pendleton CA 92055-

Landholding Agency: Navy

Property Number: 77200220076

Status: Excess

Reason: Extensive deterioration

Bldgs. 18412, 18413, 18414

Marine Warfare Training Ctr

Camp Pendleton CA 92055-

Landholding Agency: Navy

Property Number: 77200230040

Status: Excess

Reason: Extensive deterioration

Bldg. 394

Space & Naval Warfare Systems Center

San Diego CA

Landholding Agency: Navy

Property Number: 77200240041

Status: Unutilized

Reason: Extensive deterioration

Bldg. 428

Space & Naval Warfare Systems Center

San Diego CA

Landholding Agency: Navy

Property Number: 77200240042

Status: Unutilized

Reason: Extensive deterioration

Bldg. 513

Naval Postgraduate School

Monterey CA 93943—

Landholding Agency: Navy

Property Number: 77200310004

Status: Excess

Reason: Extensive deterioration

Bldg. 1232

Marine Corps Base

Camp Pendleton CA 92055-

Landholding Agency: Navy

Property Number: 77200310036

Status: Excess

Reason: Extensive deterioration

Bldg. 2297

Marine Corps Base

Camp Pendleton CA 92055-

Landholding Agency: Navy

Property Number: 77200310037

Status: Excess

Reason: Extensive deterioration

Bldg. 25037

Marine Corps Base

Camp Pendleton CA 92055-

Landholding Agency: Navy

Property Number: 77200310038

Status: Excess

Reason: Extensive deterioration

Bldg. 25168

Marine Corps Base

Camp Pendleton CA 92055-

Landholding Agency: Navy

Property Number: 77200310039

Status: Excess

Reason: Extensive deterioration

Bldg. 31339

Marine Corps Base

Camp Pendleton CA 92055-

Landholding Agency: Navy

Property Number: 77200310040

Status: Excess

Reason: Extensive deterioration

Bldg. 31350

Marine Corps Base

Camp Pendleton CA 92055-

Landholding Agency: Navy

Property Number: 77200310041

Status: Excess

Reason: Extensive deterioration

Bldg. 31628

Marine Corps Base

Camp Pendleton CA 92055-

Landholding Agency: Navy

Property Number: 77200310042

Status: Excess

Reason: Extensive deterioration

Bldg. 31629

Marine Corps Base

Camp Pendleton CA 92055-

Landholding Agency: Navy

Property Number: 77200310043

Status: Excess

Reason: Extensive deterioration

Bldg. 31753

Marine Corps Base

Camp Pendleton CA 92055-

Landholding Agency: Navy

Property Number: 77200310044

Status: Excess

Reason: Extensive deterioration

Bldg. 31754

Marine Corps Base

Camp Pendleton CA 92055-

Landholding Agency: Navy

Property Number: 77200310045

Status: Excess

Reason: Extensive deterioration

Bldg. 31764

Marine Corps Base

Camp Pendleton CA 92055-

Landholding Agency: Navy

Property Number: 77200310046

Status: Unutilized

Reason: Extensive deterioration

Bldg. 52540

Marine Corps Base

Camp Pendleton CA 92055-

Landholding Agency: Navy

Property Number: 77200310047

Status: Excess

Reason: Extensive deterioration

Bldg. 220178

Marine Corps Base

Camp Pendleton CA 92055-

Landholding Agency: Navy

Property Number: 77200310048

Status: Excess

Reason: Extensive deterioration

Bldg. 232

Naval Air Facility

El Centro CA 92243-

Landholding Agency: Navy

Property Number: 77200310055

Status: Unutilized

Reason: Extensive deterioration

Bldg. 2203

Marine Corps Base

Camp Pendleton CA

Landholding Agency: Navy

Property Number: 77200320022

Status: Excess

Reason: Extensive deterioration

Bldg. 2683

Marine Corps Base

Camp Pendleton CA 92055-

Landholding Agency: Navy

Property Number: 77200320023

Status: Excess

Reason: Extensive deterioration

Bldg. 2685

Marine Corps Base

Camp Pendleton CA 92055-

Landholding Agency: Navy

Property Number: 77200320024

Status: Excess

Reason: Extensive deterioration

Bldg. 2692

Marine Corps Base

Camp Pendleton CA 92055-

Landholding Agency: Navy

Property Number: 77200320025

Status: Excess

Reason: Extensive deterioration

Bldg. 20735

Marine Corps Base

Camp Pendleton CA 92055-

Landholding Agency: Navy

Property Number: 77200320026

Status: Excess

Reason: Extensive deterioration

Bldg. 21546

Marine Corps Base

Camp Pendleton CA 92055-

Landholding Agency: Navy

Property Number: 77200320027

Status: Excess

Reason: Extensive deterioration

Bldg. 26034

Marine Corps Base

Camp Pendleton CA 92055-

Landholding Agency: Navy

Property Number: 77200320028

Status: Excess

Reason: Extensive deterioration

Bldg. 141MG

Naval Recreation Center

Naval Base

San Diego CA

Landholding Agency: Navy

Property Number: 77200320054

Status: Excess

Reason: Extensive deterioration

Bldg. 56

Naval Air Station

Lemoore CA

Landholding Agency: Navy

Property Number: 77200330001

Status: Excess

Reasons: Secured Area; Extensive deterioration

Structure 63

Naval Air Station

Lemoore CA

Landholding Agency: Navy

Property Number: 77200330002

Status: Excess

Reason: Secured Area

Structure 64

Naval Air Station

Lemoore CA

Landholding Agency: Navy

Property Number: 77200330003

Status: Excess

Reason: Secured Area

Structure 65

Naval Air Station

Lemoore CA

Landholding Agency: Navy

Property Number: 77200330004

Status: Excess

Reason: Secured Area

Bldg. 70

Naval Air Station

Lemoore CA

Landholding Agency: Navy

Property Number: 77200330005

Status: Excess

Reasons: Secured Area; Extensive deterioration

Bldg. 75

Naval Air Station

Lemoore CA

Landholding Agency: Navy

Property Number: 77200330006

Status: Excess

Reasons: Secured Area; Extensive deterioration

Bldg. 776

Naval Air Station

Lemoore CA

Landholding Agency: Navy

Property Number: 77200330007

Status: Excess

Reasons: Secured Area; Extensive deterioration

Bldg. 818

Naval Air Station

Lemoore CA

Landholding Agency: Navy

Property Number: 77200330008

Status: Excess

Reasons: Secured Area; Extensive deterioration

Bldg. 827

Naval Air Station

Lemoore CA

Landholding Agency: Navy

Property Number: 77200330009

Status: Excess

Reasons: Secured Area; Extensive deterioration

Bldg. 931

Naval Air Station

Lemoore CA

Landholding Agency: Navy

Property Number: 77200330010

Status: Excess

Reasons: Secured Area; Extensive deterioration

Bldg. 935

Naval Air Station

Lemoore CA

Landholding Agency: Navy

Property Number: 77200330011

Status: Excess

Reasons: Secured Area; Extensive deterioration

Bldg. 742

Naval Air Station

Lemoore CA

Landholding Agency: Navy

Property Number: 77200330015

Status: Excess

Reason: Secured Area

Bldg. 743

Naval Air Station

Lemoore CA

Landholding Agency: Navy

Property Number: 77200330016

Status: Excess

Reasons: Secured Area; Extensive deterioration

Bldg. 744

Naval Air Station

Lemoore CA

Landholding Agency: Navy

Property Number: 77200330017

Status: Excess

Reason: Secured Area

Bldg. 745

Naval Air Station

Lemoore CA

Landholding Agency: Navy

Property Number: 77200330018

Status: Excess

Reasons: Secured Area; Extensive deterioration

Bldg. 746

Naval Air Station

Lemoore CA

Landholding Agency: Navy

Property Number: 77200330019

Status: Excess

Reason: Secured Area

Bldg. 751

Naval Air Station

Lemoore CA

Landholding Agency: Navy

Property Number: 77200330020

Status: Excess

Reason: Secured Area

Bldg. 754

Naval Air Station

Lemoore CA

Landholding Agency: Navy

Property Number: 77200330021

Status: Excess

Reasons: Secured Area; Extensive deterioration

Bldg. 483

Naval Air Station

North Island

San Diego CA

Landholding Agency: Navy

Property Number: 77200330022

Status: Excess

Reason: Extensive deterioration

Bldg. 490

Naval Air Station

North Island

San Diego CA 92135-7040

Landholding Agency: Navy

Property Number: 77200330023

Status: Excess

Reason: Extensive deterioration

Bldg. 606

Naval Air Station

North Island

San Diego CA

Landholding Agency: Navy

Property Number: 77200330024

Status: Excess

Reasons: Secured Area; Extensive deterioration

Bldg. 620

Naval Air Station

North Island

San Diego CA 92135-7040

Landholding Agency: Navy

Property Number: 77200330025

Status: Excess

Reasons: Secured Area; Extensive deterioration

Bldg. 697

Naval Air Station

North Island

San Diego CA 92135-7040

Landholding Agency: Navy

Property Number: 77200330026

Status: Excess

Reasons: Secured Area; Extensive deterioration

Bldg. 76

Space & Naval Warfare

San Diego CA

Landholding Agency: Navy

Property Number: 77200330027

Status: Excess

Reason: Extensive deterioration

Bldgs. 15 & 16

Fleet ASW Training Center

San Diego CA

Landholding Agency: Navy

Property Number: 77200330028

Status: Excess

Reason: Extensive deterioration

Bldgs. 20 & 21

Fleet ASW Training Center

San Diego CA

Landholding Agency: Navy

Property Number: 77200330029

Status: Excess

Reason: Extensive deterioration

Bldg. 23

Fleet ASW Training Center

San Diego CA

Landholding Agency: Navy

Property Number: 77200330030

Status: Excess

Reason: Extensive deterioration

Bldg. 28

Fleet ASW Training Center

San Diego CA

Landholding Agency: Navy

Property Number: 77200330031

Status: Excess

Reason: Extensive deterioration

Bldg. 32

Fleet ASW Training Center

San Diego CA

Landholding Agency: Navy

Property Number: 77200330032

Status: Excess

Reason: Extensive deterioration

Bldgs. 37 & 39

Fleet ASW Training Center

San Diego CA

Landholding Agency: Navy

Property Number: 77200330033

Status: Excess

Reason: Extensive deterioration

Bldg. 63

Fleet ASW Training Center

San Diego CA

Landholding Agency: Navy

Property Number: 77200330034

Status: Excess

Reason: Extensive deterioration

Bldg. 69

Fleet ASW Training Center

San Diego CA

Landholding Agency: Navy

Property Number: 77200330035

Status: Excess

Reason: Extensive deterioration

Bldg. 2043

Fleet ASW Training Center

San Diego CA

Landholding Agency: Navy

Property Number: 77200330036

Status: Excess

Reason: Extensive deterioration

Bldg. 116

Naval Submarine Base

San Diego CA

Landholding Agency: Navy

Property Number: 77200330037

Status: Excess

Reason: Extensive deterioration

Bldg. 508

Naval Submarine Base

San Diego CA

Landholding Agency: Navy

Property Number: 77200330038

Status: Excess

Reason: Extensive deterioration

Bldg. 19

Naval Submarine Base

San Diego CA

Landholding Agency: Navy

Property Number: 77200330039

Status: Excess

Reason: Extensive deterioration

Bldgs. 62341 & 62342

Marine Corps Base

Camp Pendleton CA 92055-

Landholding Agency: Navy

Property Number: 77200330040

Status: Excess

Reason: Extensive deterioration

Bldg. 1361

Marine Corps Base

Camp Pendleton CA 92055-

Landholding Agency: Navy

Property Number: 77200340001

Status: Excess

Reason: Extensive deterioration

Bldg. 22135

Marine Corps Base

Camp Pendleton CA 92055-

Landholding Agency: Navy

Property Number: 77200340002

Status: Excess

Reason: Extensive deterioration

Bldg. 22136

Marine Corps Base

Camp Pendleton CA 92055-

Landholding Agency: Navy

Property Number: 77200340003

Status: Excess

Reason: Extensive deterioration

Bldg. 22144

Marine Corps Base

Camp Pendleton CA 92055-

Landholding Agency: Navy

Property Number: 77200340004

Status: Excess

Reason: Extensive deterioration

Bldg. 22147

Marine Corps Base

Camp Pendleton CA 92055-

Landholding Agency: Navy

Property Number: 77200340005

Status: Excess

Reason: Extensive deterioration

Bldg. 22148

Marine Corps Base

Camp Pendleton CA 92055-

Landholding Agency: Navy

Property Number: 77200340006

Status: Excess

Reason: Extensive deterioration

Bldg. 22149

Marine Corps Base

Camp Pendleton CA 92055-

Landholding Agency: Navy

Property Number: 77200340007

Status: Excess

Reason: Extensive deterioration

Bldg. 21595

Marine Corps Base

Camp Pendleton CA 92055-

Landholding Agency: Navy

Property Number: 77200410002

Status: Excess

Reason: Extensive deterioration

Bldg. 210583

Marine Corps Base

Camp Pendleton CA 92055-

Landholding Agency: Navy

Property Number: 77200410003

Status: Excess

Reason: Extensive deterioration

Bldg. P7057

Marine Corps Base

Camp Pendleton CA 92055-

Landholding Agency: Navy

Property Number: 77200410024

Status: Excess

Reason: Extensive deterioration

Bldg. 26

Fleet ASW Training Center

San Diego CA

Landholding Agency: Navy

Property Number: 77200410034

Status: Excess

Reason: Secured Area

Bldgs. 64, 65, 66

Fleet Combat Training Center

San Diego CA

Landholding Agency: Navy

Property Number: 77200410035

Status: Excess

Reason: Secured Area

Bldgs. 2537, 2538

Marine Corps Base

Camp Pendleton CA 92055-

Landholding Agency: Navy

Property Number: 77200410037

Status: Excess

Reason: Extensive deterioration

Bldg. 18416

Marine Corps Base

Camp Pendleton CA 92055-

Landholding Agency: Navy

Property Number: 77200410038

Status: Excess

Reason: Extensive deterioration

Bldg. 33439

Marine Corps Base

Camp Pendledton CA 92055-

Landholding Agency: Navy

Property Number: 77200410039

Status: Excess

Reason: Extensive deterioration

Bldg. 43299

Marine Corps Base

Camp Pendleton CA 92055-

Landholding Agency: Navy

Property Number: 77200410040

Status: Excess

Reason: Extensive deterioration

Bldg. CH1078

Naval Base

Oxnard Co: Ventura CA 93042-5000

Landholding Agency: Navy

Property Number: 77200420001

Status: Unutilized

Reason: Extensive deterioration

Bldg. 1223

Marine Corps Base

Camp Pendleton CA 92055-

Landholding Agency: Navy

Property Number: 77200420002

Status: Excess

Reason: Extensive deterioration

Bldg. 2514

Marine Corps Base

Camp Pendleton CA 92055-

Landholding Agency: Navy

Property Number: 77200420003

Status: Excess

Reason: Extensive deterioration

Bldg. 14103

Marine Corps Base

Camp Pendleton CA 92055-

Landholding Agency: Navy

Property Number: 77200420004

Status: Excess

Reason: Extensive deterioration

Bldg. 14104

Marine Corps Base

Camp Pendleton CA 92055-

Landholding Agency: Navy

Property Number: 77200420005

Status: Excess

Reason: Extensive deterioration

Bldg. 27604

Marine Corps Base

Camp Pendleton CA 92055-

Landholding Agency: Navy

Property Number: 77200420006

Status: Excess

Reason: Extensive deterioration

Bldg. 43311

Marine Corps Base

Camp Pendleton CA 92055-

Landholding Agency: Navy

Property Number: 77200420007

Status: Excess

Reason: Extensive deterioration

Bldg. 22150

Marine Corps Base

Camp Pendleton CA 92055-

Landholding Agency: Navy

Property Number: 77200420008

Status: Excess

Reason: Extensive deterioration

Bldg. 22154

Marine Corps Base

Camp Pendleton CA 92055-

Landholding Agency: Navy

Property Number: 77200420009

Status: Excess

Reason: Extensive deterioration

Bldg. 22156

Marine Corps Base

Camp Pendleton CA 92055-

Landholding Agency: Navy

Property Number: 77200420010

Status: Excess

Reason: Extensive deterioration

Bldg. 210582

Marine Corps Base

Camp Pendleton CA 92055-

Landholding Agency: Navy

Property Number: 77200420011

Status: Excess

Reason: Extensive deterioration

Bldg. 62458

Marine Corps Base

Camp Pendleton CA 92055-

Landholding Agency: Navy

Property Number: 77200420021

Status: Excess

Reason: Extensive deterioration

Bldg. 2660

Marine Corps Base

Camp Pendleton CA 92055-

Landholding Agency: Navy

Property Number: 77200420022

Status: Excess

Reason: Extensive deterioration

Bldg. 1223

Marine Corps Base

Camp Pendleton CA 92055-

Landholding Agency: Navy

Property Number: 77200420023

Status: Excess

Reasons: Secured Area; Extensive deterioration

Bldg. 2514

Marine Corps Base

Camp Pendleton CA 92055-

Landholding Agency: Navy

Property Number: 77200420024

Status: Excess

Reasons: Secured Area; Extensive deterioration

Bldg. 2660

Marine Corps Base

Camp Pendleton CA 92055-

Landholding Agency: Navy

Property Number: 77200420025

Status: Excess

Reasons: Secured Area; Extensive deterioration

Bldgs. 14103, 14104

Marine Corps Base

Camp Pendleton CA 92055-

Landholding Agency: Navy

Property Number: 77200420026

Status: Excess

Reasons: Secured Area; Extensive deterioration

Bldg. 27604

Marine Corps Base

Camp Pendleton CA 92055-

Landholding Agency: Navy

Property Number: 77200420027

Status: Excess

Reasons: Secured Area; Extensive deterioration

Bldg. 43311

Marine Corps Base

Camp Pendleton CA 92055-

Landholding Agency: Navy

Property Number: 77200420028

Status: Excess

Reasons: Secured Area; Extensive deterioration

Bldg. 178

Naval Air Facility

El Centro CA 92243-

Landholding Agency: Navy

Property Number: 77200420035

Status: Unutilized

Reasons: Within 2000 ft. of flammable or explosive material; Secured Area; Extensive deterioration

Bldg. 187

Naval Air Facility

El Centro CA 92243-

Landholding Agency: Navy

Property Number: 77200420036

Status: Unutilized

Reasons: Within 2000 ft. of flammable or explosive material; Secured Area; Extensive deterioration

Bldg. 197

Naval Air Facility

El Centro CA 92243-

Landholding Agency: Navy

Property Number: 77200420037

Status: Unutilized

Reasons: Within 2000 ft. of flammable or explosive material; Secured Area; Extensive deterioration

Bldg. 972

Naval Air Station

Lemoore CA

Landholding Agency: Navy

Property Number: 77200420039

Status: Excess

Reason: Extensive deterioration

Bldgs. 26, 27, 28

Naval Outlying Landing Field

Imperial Beach CA

Landholding Agency: Navy

Property Number: 77200420040

Status: Excess

Reason: Extensive deterioration

Bldg. 99

Naval Base

San Diego CA

Landholding Agency: Navy

Property Number: 77200420041

Status: Excess

Reason: Extensive deterioration

Bldg. 197

Naval Base

San Diego CA

Landholding Agency: Navy

Property Number: 77200420042

Status: Excess

Reason: Extensive deterioration

Bldg. 3139

Naval Base

San Diego CA

Landholding Agency: Navy

Property Number: 77200420043

Status: Excess

Reason: Extensive deterioration

Bldg. 135

Naval Base

San Diego CA

Landholding Agency: Navy

Property Number: 77200420044

Status: Excess

Reason: Extensive deterioration

Bldg. 253

Naval Base

San Diego CA

Landholding Agency: Navy

Property Number: 77200420045

Status: Excess

Reason: Extensive deterioration

Bldg. 68

Naval Weapons Station

Seal Beach CA 90740-5000

Landholding Agency: Navy

Property Number: 77200420046

Status: Unutilized

Reason: Extensive deterioration

Bldgs. 72-73

Naval Weapons Station

Seal Beach CA 90740-5000

Landholding Agency: Navy

Property Number: 77200420047

Status: Unutilized

Reason: Extensive deterioration

Bldg. 76

Naval Weapons Station

Seal Beach CA 90740-5000

Landholding Agency: Navy

Property Number: 77200420048

Status: Unutilized

Reason: Extensive deterioration

Bldgs. 81-84

Naval Weapons Station

Seal Beach CA 90740-5000

Landholding Agency: Navy

Property Number: 77200420049

Status: Unutilized

Reason: Extensive deterioration

Bldg. 91

Naval Weapons Station

Seal Beach CA 90740-5000

Landholding Agency: Navy

Property Number: 77200420050

Status: Unutilized

Reason: Extensive deterioration

Bldgs. 93-94

Naval Weapons Station

Seal Beach CA 90740-5000

Landholding Agency: Navy

Property Number: 77200420051

Status: Unutilized

Reason: Extensive deterioration

Bldgs. 98-104

Naval Weapons Station

Seal Beach CA 90740-5000

Landholding Agency: Navy

Property Number: 77200420052

Status: Unutilized

Reason: Extensive deterioration

Bldg. 108

Naval Weapons Station

Seal Beach CA 90740-5000

Landholding Agency: Navy

Property Number: 77200420057

Status: Unutilized

Reason: Extensive deterioration

Bldg. 599

Naval Weapons Station

Seal Beach CA 90740-5000

Landholding Agency: Navy

Property Number: 77200420058

Status: Unutilized

Reason: Extensive deterioration

Bldg. 89

Naval Base

San Diego Co: CA

Landholding Agency: Navy

Property Number: 77200420059

Status: Excess

Reason: Extensive deterioration

Bldg. 128

Naval Base

San Diego Co: CA

Landholding Agency: Navy

Property Number: 77200420060

Status: Excess

Reason: Extensive deterioration

Bldg. 249

Naval Base

San Diego Co: CA

Landholding Agency: Navy

Property Number: 77200420061

Status: Excess

Reason: Extensive deterioration

Bldg. 250

Naval Base

San Diego Co: CA

Landholding Agency: Navy

Property Number: 77200420062

Status: Excess

Reason: Extensive deterioration

Bldg. 357

Naval Base

San Diego Co: CA

Landholding Agency: Navy

Property Number: 77200420063

Status: Excess

Reason: Extensive deterioration

Bldg. 467

Naval Base

San Diego Co: CA

Landholding Agency: Navy

Property Number: 77200420064

Status: Excess

Reason: Extensive deterioration

Bldg. 469

Naval Base

San Diego Co: CA

Landholding Agency: Navy

Property Number: 77200420065

Status: Excess

Reason: Extensive deterioration

Bldgs. 620 & 497

Fleet Anti-Submarine

Warfare Center

San Diego Co: CA

Landholding Agency: Navy

Property Number: 77200430028

Status: Unutilized

Reason: Extensive deterioration

Bldg. 68

Naval Air Station

Lemoore Co: CA

Landholding Agency: Navy

Property Number: 77200430049

Status: Unutilized

Reason: Secured Area

Bldg. 500

Naval Air Station

Lemoore Co: CA

Landholding Agency: Navy

Property Number: 77200430050

Status: Unutilized

Reason: Secured Area

Bldgs. 911, 912, 913

Naval Air Station

Lemoore Co: CA

Landholding Agency: Navy

Property Number: 77200430051

Status: Unutilized

Reason: Secured Area

Colorado

Bldg. 34

Grand Junction Projects Office

Grand Junction Co: Mesa CO 81503-

Landholding Agency: Energy

Property Number: 41199540001

Status: Underutilized

Reasons: Contamination; Secured Area

Bldg. 35

Grand Junction Projects Office

Grand Junction Co: Mesa CO 81503-

Landholding Agency: Energy

Property Number: 41199540002

Status: Underutilized

Reasons: Contamination; Secured Area

Bldg. 36

Grand Junction Projects Office

Grand Junction Co: Mesa CO 81503-

Landholding Agency: Energy

Property Number: 41199540003

Status: Underutilized

Reasons: Contamination Secured Area

Bldg. 727

Rocky Flats Environmental Tech Site

Golden Co: Jefferson CO 80020-

Landholding Agency: Energy

Property Number: 41199910001

Status: Unutilized

Reasons: Within 2000 ft. of flammable or explosive material; Secured Area

Bldg. 717

Rocky Flats Env. Tech Site

Golden Co: Jefferson CO 80020-

Landholding Agency: Energy

Property Number: 41199930022

Status: Underutilized

Reasons: Within 2000 ft. of flammable or explosive material; Secured Area

Bldg. 770

Rocky Flats Env. Tech Site

Golden Co: Jefferson CO 80020-

Landholding Agency: Energy

Property Number: 41199930023

Status: Underutilized

Reasons: Within 2000 ft. of flammable or explosive material; Secured Area

Bldg. 771

Rocky Flats Env. Tech Site

Golden Co: Jefferson CO 80020-

Landholding Agency: Energy

Property Number: 41199930024

Status: Underutilized

Reasons: Within 2000 ft. of flammable or explosive material; Secured Area

Bldg. 771B

Rocky Flats Env. Tech Site

Golden Co: Jefferson CO 80020-

Landholding Agency: Energy

Property Number: 41199930025

Status: Underutilized

Reasons: Within 2000 ft. of flammable or explosive material; Secured Area

Bldg. 771C

Rocky Flats Env. Tech Site

Golden Co: Jefferson CO 80020-

Landholding Agency: Energy

Property Number: 41199930026

Status: Underutilized

Reasons: Within 2000 ft. of flammable or explosive material; Secured Area

Bldg. 774

Rocky Flats Env. Tech Site

Golden Co: Jefferson CO 80020-

Landholding Agency: Energy

Property Number: 41199930029

Status: Underutilized

Reasons: Within 2000 ft. of flammable or explosive material; Secured Area

Bldg. 776

Rocky Flats Environmental Tech Site

Golden Co: Jefferson CO 80020-

Landholding Agency: Energy

Property Number: 41200010001

Status: Excess

Reasons: Within 2000 ft. of flammable or explosive material; Secured Area

Bldg. 777

Rocky Flats Environmental Tech Site

Golden Co: Jefferson CO 80020-

Landholding Agency: Energy

Property Number: 41200010002

Status: Excess

Reasons: Within 2000 ft. of flammable or explosive material; Secured Area

Bldg. 778

Rocky Flats Environmental Tech Site

Golden Co: Jefferson CO 80020-

Landholding Agency: Energy

Property Number: 41200010003

Status: Excess

Reasons: Within 2000 ft. of flammable or explosive material; Secured Area

Structure 771 TUN

Rocky Flats Environmental Tech Site

Golden Co: Jefferson CO 80020-

Landholding Agency: Energy

Property Number: 41200010006

Status: Excess

Reasons: Within 2000 ft. of flammable or explosive material; Secured Area

Bldgs. 124, 129

Rocky Flats Env. Tech. Site

Golden Co: Jefferson CO 80020-

Landholding Agency: Energy

Property Number: 41200220002

Status: Excess

Reasons: Within 2000 ft. of flammable or explosive material; Secured Area

Bldgs. 371, 374, 374A

Rocky Flats Env. Tech. Site

Golden Co: Jefferson CO 80020-

Landholding Agency: Energy

Property Number: 41200220003

Status: Excess

Reasons: Within 2000 ft. of flammable or explosive material; Secured Area

Bldgs. 561, 562

Rocky Flats Env. Tech. Site

Golden Co: Jefferson CO 80020-

Landholding Agency: Energy

Property Number: 41200220007

Status: Excess

Reasons: Within 2000 ft. of flammable or explosive material; Secured Area

Bldgs. 701, 705-708

Rocky Flats Env. Tech. Site

Golden Co: Jefferson CO 80020-

Landholding Agency: Energy

Property Number: 41200220011

Status: Excess

Reasons: Within 2000 ft. of flammable or explosive material; Secured Area

Bldgs. 714, 715, 718

Rocky Flats Env. Tech. Site

Golden Co: Jefferson CO 80020-

Landholding Agency: Energy

Property Number: 41200220012

Status: Excess

Reasons: Within 2000 ft. of flammable or explosive material; Secured Area

Bldgs. 731, 732

Rocky Flats Env. Tech. Site

Golden Co: Jefferson CO 80020-

Landholding Agency: Energy

Property Number: 41200220013

Status: Excess

Reasons: Within 2000 ft. of flammable or explosive material; Secured Area

Bldgs. 881, 881F, 881H

Rocky Flats Env. Tech. Site

Golden Co: Jefferson CO 80020-

Landholding Agency: Energy

Property Number: 41200220018

Status: Excess

Reasons: Within 2000 ft. of flammable or explosive material; Secured Area

Bldgs. 883-885, 887

Rocky Flats Env. Tech. Site

Golden Co: Jefferson CO 80020-

Landholding Agency: Energy

Property Number: 41200220019

Status: Excess

Reasons: Within 2000 ft. of flammable or explosive material; Secured Area

Bldg. 891

Rocky Flats Env. Tech. Site

Golden Co: Jefferson CO 80020-

Landholding Agency: Energy

Property Number: 41200220020

Status: Excess

Reasons: Within 2000 ft. of flammable or explosive material; Secured Area

Bldgs. 120, 120B

Rocky Flats Env Tech Site

Golden Co: Jefferson CO 80020-

Landholding Agency: Energy

Property Number: 41200340004

Status: Excess

Reason: Secured Area

Bldgs. 121, 122, 122S

Rocky Flats Env. Tech. Site

Golden Co: Jefferson CO 80020-

Landholding Agency: Energy

Property Number: 41200340005

Status: Excess

Reasons: Within 2000 ft. of flammable or explosive material; Secured Area

Bldg. 223

Rocky Flats Env Tech Site

Golden Co: Jefferson CO 80020-

Landholding Agency: Energy

Property Number: 41200340008

Status: Excess

Reasons: Within 2000 ft. of flammable or explosive material; Secured Area

Bldgs. 331, 331A

Rocky Flats Env Tech Site

Golden Co: Jefferson CO 80020-

Landholding Agency: Energy

Property Number: 41200340010

Status: Excess

Reasons: Within 2000 ft. of flammable or explosive material; Secured Area

Bldgs. 444, 445

Rocky Flats Env Tech Site

Golden Co: Jefferson CO 80020-

Landholding Agency: Energy

Property Number: 41200340013

Status: Excess

Reasons: Within 2000 ft. of flammable or explosive material; Secured Area

Bldgs. 447, 448

Rocky Flats Env Tech Site

Golden Co: Jefferson CO 80020-

Landholding Agency: Energy

Property Number: 41200340014

Status: Excess

Reasons: Within 2000 ft. of flammable or explosive material; Secured Area

Bldg. 460

Rocky Flats Env Tech Site

Golden Co: Jefferson CO 80020-

Landholding Agency: Energy

Property Number: 41200340016

Status: Excess

Reasons: Within 2000 ft. of flammable or explosive material; Secured Area

Bldgs. 920, 920B

Rocky Flats Env Tech Site

Golden Co: Jefferson CO 80020-

Landholding Agency: Energy

Property Number: 41200340019

Status: Excess

Reason: Secured Area

Connecticut

Hezekiah S. Ramsdell Farm

West Thompson Lake

North Grosvenordale Co: Windham CT 06255-9801

Landholding Agency: COE

Property Number: 31199740001

Status: Unutilized

Reasons: Floodway; Extensive deterioration

Bldgs. 25 and 26

Prospect Hill Road

Windsor Co: Hartford CT 06095-

Landholding Agency: Energy

Property Number: 41199440003

Status: Excess

Reason: Secured Area

9 Bldgs.

Knolls Atomic Power Lab, Windsor Site

Windsor Co: Hartford CT 06095-

Landholding Agency: Energy

Property Number: 41199540004

Status: Excess

Reason: Secured Area

Bldg. 8, Windsor Site

Knolls Atomic Power Lab

Windsor Co: Hartford CT 06095-

Landholding Agency: Energy

Property Number: 41199830006

Status: Unutilized

Reason: Extensive deterioration

Bldgs. A92, A93, A94

Naval Submarine Base

Groton Co: New London CT 06349-

Landholding Agency: Navy

Property Number: 77200340008

Status: Unutilized

Reasons: Within 2000 ft. of flammable or explosive material; Secured Area

Florida

Bldg. SF-15

Sub-Office Operations

Clewiston Co: Hendry FL 33440-

Landholding Agency: COE

Property Number: 31200430003

Status: Unutilized

Reasons: Secured Area; Extensive deterioration

Bldg. SF-16

Sub-Office Operations

Clewiston Co: Hendry FL 33440-

Landholding Agency: COE

Property Number: 31200430004

Status: Unutilized

Reason: Secured Area

Bldg. SF-17

Sub-Office Operations

Clewiston Co: Hendry FL 33440-

Landholding Agency: COE

Property Number: 31200430005

Status: Unutilized

Reasons: Secured Area; Extensive deterioration

Bldg. C-26

Naval Air Station

Key West Co: Monroe FL 33040-

Landholding Agency: Navy

Property Number: 77200240043

Status: Unutilized

Reason: Extensive deterioration

Bldg. F-44

Naval Air Station

Key West Co: Monroe FL 33040-

Landholding Agency: Navy

Property Number: 77200240044

Status: Unutilized

Reason: Extensive deterioration

Bldg. 292

Naval Air Facility

Key West Co: Monroe FL 33040-

Landholding Agency: Navy

Property Number: 77200310058

Status: Unutilized

Reason: Extensive deterioration

Bldg. 1481

Naval Air Station

Milton FL 32570-6001

Landholding Agency: Navy

Property Number: 77200310059

Status: Excess

Reasons: Within 2000 ft. of flammable or explosive material; Secured Area; Extensive deterioration

8 Bldgs.

Naval Air Station

Milton FL 32570-6001

Location: 1440, 1440A, 1437, 1444, 1444A, 1444G, 2927, 2886

Landholding Agency: Navy

Property Number: 77200320055

Status: Excess

Reasons: Within 2000 ft. of flammable or explosive material; Secured Area; Extensive deterioration

Bldg. 607B

Naval Air Station

Pensacola Co: Escambia FL 32508-

Landholding Agency: Navy

Property Number: 77200410004

Status: Unutilized

Reason: Secured Area

Bldg. 1404

Naval Air Station

Milton FL 32570-6008

Landholding Agency: Navy

Property Number: 77200420029

Status: Excess

Reasons: Within 2000 ft. of flammable or explosive material; Secured Area; Extensive deterioration

Bldg. 583

Naval Air Station

Jacksonville Co: Duval FL 32212-

Landholding Agency: Navy

Property Number: 77200420030

Status: Unutilized

Reason: Extensive deterioration

Bldg. 9

Naval Air Station

Jacksonville Co: Duval FL 32212-

Landholding Agency: Navy

Property Number: 77200430030

Status: Underutilized

Reason: Secured Area

Bldgs. 553 & 554

Naval Air Station

Jacksonville Co: Duval FL 32212-

Landholding Agency: Navy

Property Number: 77200430031

Status: Underutilized

Reason: Secured Area

Bldg. 582

Naval Air Station

Jacksonville Co: Duval FL 32212-

Landholding Agency: Navy

Property Number: 77200430032

Status: Underutilized

Reason: Secured Area

Bldg. 590

Naval Air Station

Jacksonville Co: Duval FL 32212-

Landholding Agency: Navy

Property Number: 77200430033

Status: Underutilized

Reason: Secured Area

Bldg. 808

Naval Air Station

Jacksonville Co: Duval FL 32212-

Landholding Agency: Navy

Property Number: 77200430034

Status: Underutilized

Reason: Secured Area

Bldg. 1019

Naval Station Mayport

Jacksonville Co: Duval FL 32228-

Landholding Agency: Navy

Property Number: 77200430035

Status: Unutilized

Reasons: Secured Area; Extensive deterioration

Bldg. 1032

Naval Station Mayport

Jacksonville Co: Duval FL 32228-

Landholding Agency: Navy

Property Number: 77200430036

Status: Unutilized

Reasons: Secured Area; Extensive deterioration

Bldg. 1065

Naval Station Mayport

Jacksonville Co: Duval FL 32228-

Landholding Agency: Navy

Property Number: 77200430037

Status: Unutilized

Reasons: Secured Area; Extensive deterioration

Bldg. 1404

Naval Air Station

Milton Co: FL 32570-

Landholding Agency: Navy

Property Number: 77200430042

Status: Excess

Reasons: Within 2000 ft. of flammable or explosive material; Secured Area; Extensive deterioration

Bldgs. 673, 1877

Naval Air Station

Jacksonville Co: Duval FL 32212-

Landholding Agency: Navy

Property Number: 77200430052

Status: Unutilized

Reason: Secured Area

Georgia

Prop. ID HAR18015

Hartwell Project

Hartwell GA 30643-

Landholding Agency: COE

Property Number: 31200310001

Status: Unutilized

Reason: Extensive deterioration

Prop. ID RBR17830

Russell Dam Dr.

Elberton GA 30635-

Landholding Agency: COE

Property Number: 31200310002

Status: Unutilized

Reason: Secured Area

Prop. ID RBR17832

Russell Dam Drive

Elberton GA 30635-

Landholding Agency: COE

Property Number: 31200310003

Status: Unutilized

Reason: Secured Area

Bldg. #WRSH18

West Point Lake

West Point Co: GA 31833-

Landholding Agency: COE

Property Number: 31200430006

Status: Unutilized

Reason: Secured Area

Bldg. W03

West Point Lake

West Point Co: GA 31833-

Landholding Agency: COE

Property Number: 31200430007

Status: Unutilized

Reasons: Within 2000 ft. of flammable or explosive material; Secured Area; Extensive deterioration

Bldg. 14

Naval Air Station

Marietta Co: Cobb GA 30060-

Landholding Agency: Navy

Property Number: 77200310049

Status: Unutilized

Reasons: Within airport runway clear zone; Secured Area; Extensive deterioration

Bldg. 15

Naval Air Station

Marietta Co: Cobb GA 30060-

Landholding Agency: Navy

Property Number: 77200310050

Status: Unutilized

Reasons: Within airport runway clear zone; Secured Area; Extensive deterioration

Bldg. 109

Naval Air Station

Marietta Co: Cobb GA 30060-

Landholding Agency: Navy

Property Number: 77200310051

Status: Unutilized

Reasons: Secured Area; Extensive deterioration

Bldg. 80

Naval Air Station

Marietta Co: Cobb GA 30060-

Landholding Agency: Navy

Property Number: 77200410036

Status: Excess

Reasons: Within 2000 ft. of flammable or explosive material; Secured Area; Extensive deterioration

17 Bldgs.

Naval Air Station

Marietta Co: Cobb GA 30060—

Location: 50-52, 61-61, 55-59, 66-69, 86-87, 206

Landholding Agency: Navy

Property Number: 77200420066

Status: Excess

Reasons: Within 2000 ft. of flammable or explosive material; Secured Area

Guam

Bldg. 138

Naval Forces, Marianas

Marianas GU 96540-

Landholding Agency: Navy

Property Number: 77200210100

Status: Unutilized

Reason: Secured Area

Bldg. 460

Naval Forces, Marianas

Marianas GU 96540-

Landholding Agency: Navy

Property Number: 77200210101

Status: Unutilized

Reason: Secured Area

Bldg. 1741

Naval Forces, Marianas

Marianas GU 96540-

Landholding Agency: Navy

Property Number: 77200210102

Status: Unutilized

Reason: Secured Area

Bldg. 1742

Naval Forces, Marianas

Marianas GU 96540-

Landholding Agency: Navy

Property Number: 77200210103

Status: Underutilized

Reason: Secured Area

Bldg. 1743

Naval Forces, Marianas

Marianas GU 96540-

Landholding Agency: Navy

Property Number: 77200210104

Status: Underutilized

Reason: Secured Area

Bldg. 6012

Naval Forces, Marianas

Marianas GU 96540-

Landholding Agency: Navy

Property Number: 77200210105

Status: Unutilized

Reason: Secured Area

Bldg. 6011

Naval Forces, Marianas

Marianas GU 96540-

Landholding Agency: Navy

Property Number: 77200220024

Status: Unutilized

Reason: Secured Area

Bldgs. 23, 25 29

US Naval Ship Repair Facility

Marianas GU

Landholding Agency: Navy

Property Number: 77200320003

Status: Unutilized

Reasons: Secured Area; Extensive deterioration

Bldgs. 31, 36, 38

US Naval Ship Repair Facility

Marianas GU

Landholding Agency: Navy

Property Number: 77200320004

Status: Unutilized

Reasons: Secured Area; Extensive deterioration

Bldgs. 93-1, 94

US Naval Ship Repair Facility

Marianas GU

Landholding Agency: Navy

Property Number: 77200320005

Status: Unutilized

Reasons: Secured Area; Extensive deterioration

Bldgs. 2001A, 2004

US Naval Ship Repair Facility

Marianas GU

Landholding Agency: Navy

Property Number: 77200320006

Status: Unutilized

Reasons: Secured Area; Extensive deterioration

Bldgs. 2008, 2062

US Naval Ship Repair Facility

Marianas GU

Landholding Agency: Navy

Property Number: 77200320007

Status: Unutilized

Reasons: Secured Area; Extensive deterioration

Bldgs. 2010, 2013, 2028

US Naval Ship Repair Facility

Marianas GU

Landholding Agency: Navy

Property Number: 77200320008

Status: Unutilized

Reasons: Secured Area; Extensive deterioration

Bldgs. 2039-2044

US Naval Ship Repair Facility

Marianas GU

Landholding Agency: Navy

Property Number: 77200320009

Status: Unutilized

Reasons: Secured Area; Extensive deterioration

Bldg. 2049

US Naval Ship Repair Facility

Marianas GU

Landholding Agency: Navy

Property Number: 77200320010

Status: Unutilized

Reasons: Secured Area; Extensive deterioration

Bldgs. 2053, 2054, 2055

US Naval Ship Repair Facility

Marianas GU

Landholding Agency: Navy

Property Number: 77200320011

Status: Unutilized

Reasons: Secured Area; Extensive deterioration

Bldgs. 2061, 2068, 2069

US Naval Ship Repair Facility

Marianas GU

Landholding Agency: Navy

Property Number: 77200320012

Status: Unutilized

Reasons: Secured Area; Extensive deterioration

Bldgs. 2070, 2071, 2074

US Naval Ship Repair Facility

Marianas GU

Landholding Agency: Navy

Property Number: 77200320013

Status: Unutilized

Reasons: Secured Area; Extensive deterioration

Bldg. 2081

US Naval Ship Repair Facility

Marianas GU

Landholding Agency: Navy

Property Number: 77200320014

Status: Unutilized

Reasons: Secured Area; Extensive deterioration

Bldgs. 2100, 2102

US Naval Ship Repair Facility

Marianas GU

Landholding Agency: Navy

Property Number: 77200320015

Status: Unutilized

Reasons: Secured Area; Extensive deterioration

Bldgs. 201, 202

Naval Forces

Marianas Co: Waterfront GU

Landholding Agncy: Navy

Property Number: 77200410025

Status: Excess

Reason: Extensive deterioration

Bldg. 151

Naval Forces

Marianas Co: Waterfront GU

Landholding Agency: Navy

Property Number: 77200410026

Status: Excess

Reason: Extensive deterioration

Bldg. 262

Naval Forces

Marianas Co: Waterfront GU

Landholding Agency: Navy

Property Number: 77200410027

Status: Excess

Reason: Extensive deterioration

Bldg. 369A

Naval Forces

Marianas Co: Waterfront GU

Landholding Agency: Navy

Property Number: 77200410028

Status: Excess

Reason: Extensive deterioration

Bldg. 739

Naval Forces

Marianas Co: Waterfront GU

Landholding Agency: Navy

Property Number: 77200410029

Status: Excess

Reason: Extensive deterioration

Bldg. 741

Naval Forces

Marianas Co: Waterfront GU

Landholding Agency: Navy

Property Number: 77200410030

Status: Excess

Reason: Extensive deterioration

Bldg. 865

Naval Forces

Marianas Co: Waterfront GU

Landholding Agency: Navy

Property Number: 77200410031

Status: Excess

Reason: Extensive deterioration

Bldg. 3011

Naval Forces

Marianas Co: Waterfront GU

Landholding Agency: Navy

Property Number: 77200410032

Status: Excess

Reason: Extensive deterioration

Bldg. 464

Naval Forces

Marianas Co: Waterfront GU

Landholding Agency: Navy

Property Number: 77200410041

Status: Excess

Reason: Extensive deterioration

22 Bldgs.

COMNAVMARIANAS

S. Finegayan Co: GU

Location: A1218-A1220, A1222-A1224, A1241-1249, A1250-A1252, A1256-A1259

Landholding Agency: Navy

Property Number: 77200430040

Status: Excess

Reason: Extensive deterioration

9 Bldgs.

COMNAVMARIANAS

N. Finegayan Co: GU

Location: 180, 182, 184, 186, C179, C219, C221, C240, C242

Landholding Agency: Navy

Property Number: 77200430041

Status: Excess

Reason: Extensive deterioration

Hawaii

Bldg. 9

Navy Public Works Center

Kolekole Road

Lualualei Co: Honolulu HI 96782-

Landholding Agency: Navy

Property Number: 77199530009

Status: Excess

Reasons: Within 2000 ft. of flammable or explosive material; Secured Area

Bldg. X5

Nanumea Road

Pearl Harbor Co: Honolulu HI 96782-

Landholding Agency: Navy

Property Number: 77199530010

Status: Excess

Reason: Secured Area

Bldg. SX30

Nanumea Road

Pearl Harbor Co: Honolulu HI 96860-

Landholding Agency: Navy

Property Number: 77199530011

Status: Excess

Reason: Secured Area

Bldg. Q13

Naval Station, Ford Island

Pearl Harbor Co: Honolulu HI 96860-

Landholding Agency: Navy

Property Number: 77199640035

Status: Unutilized

Reason: Extensive deterioration

Bldg. Q14

Naval Station, Ford Island

Pearl Harbor Co: Honolulu HI 96860-

Landholding Agency: Navy

Property Number: 77199640036

Status: Unutilized

Reason: Extensive deterioration

Bldg. 40

Naval Magazine Lualualei

Co: Oahu HI 96792-4301

Landholding Agency: Navy

Property Number: 77199830028

Status: Unutilized

Reason: Extensive deterioration

Bldg. 50

Naval Magazine Lualualei

Co: Oahu HI 96792-4301

Landholding Agency: Navy

Property Number: 77199830029

Status: Unutilized

Reason: Extensive deterioration

Bldg. Q76

Naval Magazine Lualualei

Co: Oahu HI 96792-4301

Landholding Agency: Navy

Property Number: 77199830030

Status: Unutilized

Reason: Extensive deterioration

Bldg. Q334

Naval Magazine Lualualei

Co: Oahu HI 96792-4301

Landholding Agency: Navy

Property Number: 77199830031

Status: Unutilized

Reason: Extensive deterioration

Bldg. Q410

Naval Magazine Lualualei

Co: Oahu HI 96792-4301

Landholding Agency: Navy

Property Number: 77199830034

Status: Unutilized

Reason: Extensive deterioration

Bldg. Q422

Naval Magazine Lualualei

Co: Oahu HI 96792-4301

Landholding Agency: Navy

Property Number: 77199830035

Status: Unutilized

Reason: Extensive deterioration

Bldg. 429

Naval Magazine Lualualei

Co: Oahu HI 96792-4301

Landholding Agency: Navy

Property Number: 77199830036

Status: Unutilized

Reason: Extensive deterioration

Bldg. 431

Naval Magazine Lualualei

Co: Oahu HI 96792-4301

Landholding Agency: Navy

Property Number: 77199830037

Status: Unutilized

Reason: Extensive deterioration

Bldg. 447

Naval Magazine Lualualei

Co: Oahu HI 96792-4301

Landholding Agency: Navy

Property Number: 77199830038

Status: Unutilized

Reason: Extensive deterioration

Facility 19

Naval Station

Pearl Harbor Co: Honolulu HI 96860-

Landholding Agency: Navy

Property Number: 77199840045

Status: Excess

Reason: Secured Area

Bldg. T47

Naval Shipyard

Pearl Harbor Co: Honolulu HI 96860-5350

Landholding Agency: Navy

Property Number: 77200240045

Status: Unutilized

Reason: Extensive deterioration

Bldg. 621

Naval Station, Pearl Harbor

Honolulu HI 96860-

Landholding Agency: Navy

Property Number: 77200310001

Status: Excess

Reason: Extensive deterioration

Bldg. 2603NS

Naval Station

Pearl Harbor Co: Honolulu HI 96860-

Landholding Agency: Navy

Property Number: 77200410005

Status: Unutilized

Reason: Extensive deterioration

Bldg. 2604NS

Naval Station

Pearl Harbor Co: Honolulu HI 96860-

Landholding Agency: Navy

Property Number: 77200410006

Status: Unutilized

Reason: Extensive deterioration

Bldg. 2612NS

Naval Station

Pearl Harbor Co: Honolulu HI 96860-

Landholding Agency: Navy

Property Number: 77200410007

Status: Unutilized

Reason: Extensive deterioration

Bldg. 2605NS

Moanalua Prop/Naval Station

Pearl Harbor Co: Honolulu HI 96860-

Landholding Agency: Navy

Property Number: 77200410011

Status: Unutilized

Reason: Extensive deterioration

Bldg. 2606NS

Moanalua Prop/Naval Station

Pearl Harbor Co: Honolulu HI 96860-

Landholding Agency: Navy

Property Number: 77200410012

Status: Unutilized

Reason: Extensive deterioration

Bldgs. 2608NS, 2609NS

Moanalua Prop/Naval Station

Pearl Harbor Co: Honolulu HI 96860-

Landholding Agency: Navy

Property Number: 77200410013

Status: Unutilized

Reason: Extensive deterioration

Bldg. 2610NS

Moanalua Prop/Naval Station

Pearl Harbor Co: Honolulu HI 96860-

Landholding Agency: Navy

Property Number: 77200410014

Status: Unutilized

Reason: Extensive deterioration

Bldg. 79

Naval Station

Ford Island Co: Pearl Harbor HI 96860-

Landholding Agency: Navy

Property Number: 77200430029

Status: Underutilized

Reason: Secured Area

Idaho

Bldg. AFD0070

Albeni Falls Dam

Oldtown Co: Bonner ID 83822-

Landholding Agency: COE

Property Number: 31199910001

Status: Unutilized

Reason: Extensive deterioration

Bldg. PBF-621

Idaho National Engineering Laboratory

Scoville Co: Butte ID 83415-

Landholding Agency: Energy

Property Number: 41199610001

Status: Unutilized Secured Area

Bldg. CPP-691

Idaho National Engineering Laboratory

Scoville Co: Butte ID 83415-

Landholding Agency: Energy

Property Number: 41199610003

Status: Unutilized

Reason: Secured Area

Bldg. CPP-608

Idaho National Engineering Laboratory

Scoville Co: Butte ID 83415-

Landholding Agency: Energy

Property Number: 41199610006

Status: Unutilized

Reason: Secured Area

Bldg. TAN-636

Idaho National Engineering Laboratory

Scoville Co: Butte ID 83415-

Landholding Agency: Energy

Property Number: 41199610008

Status: Unutilized

Reason: Secured Area

Bldg. TAN-670

Idaho National Engineering Laboratory

Scoville Co: Butte ID 83415-

Landholding Agency: Energy

Property Number: 41199610010

Status: Unutilized

Reason: Secured Area

Bldg. TRA-669

Idaho National Engineering Laboratory

Scoville Co: Butte ID 83415-

Landholding Agency: Energy

Property Number: 41199610013

Status: Unutilized

Reason: Secured Area

Bldg. TAN-637

Idaho National Engineering Laboratory

Scoville Co: Butte ID 83415-

Landholding Agency: Energy

Property Number: 41199610014

Status: Unutilized

Reason: Secured Area

Bldg. TAN-635

Idaho National Engineering Laboratory

Scoville Co: Butte ID 83415-

Landholding Agency: Energy

Property Number: 41199610015

Status: Unutilized

Reason: Secured Area

Bldg. TAN-651

Idaho National Engineering Laboratory

Scoville Co: Butte ID 83415-

Landholding Agency: Energy

Property Number: 41199610017

Status: Unutilized

Reason: Secured Area

Bldg. TRA-673

Idaho National Engineering Laboratory

Scoville Co: Butte ID 83415-

Landholding Agency: Energy

Property Number: 41199610018

Status: Unutilized

Reason: Secured Area

Bldg. PBF-620

Idaho National Engineering Laboratory

Scoville Co: Butte ID 83415-

Landholding Agency: Energy

Property Number: 41199610019

Status: Unutilized

Reason: Secured Area

Bldg. PBF-619

Idaho National Engineering Laboratory

Scoville Co: Butte ID 83415-

Landholding Agency: Energy

Property Number: 41199610022

Status: Unutilized

Reason: Secured Area

Bldg. PBF-624

Idaho National Engineering Laboratory

Scoville Co: Butte ID 83415-

Landholding Agency: Energy

Property Number: 41199610023

Status: Unutilized

Reason: Secured Area

Bldg. PBF-625

Idaho National Engineering Laboratory

Scoville Co: Butte ID 83415-

Landholding Agency: Energy

Property Number: 41199610024

Status: Unutilized

Reason: Secured Area

Bldg. PBF-629

Idaho National Engineering Laboratory

Scoville Co: Butte ID 83415-

Landholding Agency: Energy

Property Number: 41199610025

Status: Unutilized

Reason: Secured Area

Bldg. PBF-604

Idaho National Engineering Laboratory

Scoville Co: Butte ID 83415-

Landholding Agency: Energy

Property Number: 41199610026

Status: Unutilized

Reason: Secured Area

Bldg. TRA-641

Idaho National Engineering Laboratory

Scoville Co: Butte ID 83415-

Landholding Agency: Energy

Property Number: 41199610034

Status: Unutilized

Reason: Secured Area

Bldg. CF-606

Idaho National Engineering Laboratory

Scoville Co: Butte ID 83415-

Landholding Agency: Energy

Property Number: 41199610037

Status: Unutilized

Reason: Secured Area

8 Bldgs.

Idaho Natl Engineering & Environmental Lab

Test Reactor North

Scoville Co: Butte ID 83415-

Location: TRA 643, 644, 655, 660, 704-706, 755

Landholding Agency: Energy

Property Number: 41199830003

Status: Excess

Reasons: Within 2000 ft. of flammable or explosive material; Secured Area

Bldg. TAN 616

Idaho Natl Eng & Env Lab

Scoville Co: Butte ID 83415-

Landholding Agency: Energy

Property Number: 41200320007

Status: Excess

Reason: Contamination

Bldg. PBF627

Idaho Natl Eng & Env Lab

Scoville Co: Butte ID 83415-

Landholding Agency: Energy

Property Number: 41200330008

Status: Excess

Reason: Secured Area

Bldg. PBF634

Idaho Natl Eng & Env Lab

Scoville Co: Butte ID 83415-

Landholding Agency: Energy

Property Number: 41200330009

Status: Excess

Reason: Secured Area

TAN 648

Idaho Natl Eng & Env Lab

Scoville Co: Butte ID 83415-

Landholding Agency: Energy

Property Number: 41200410001

Status: Excess

Reason: Contamination

Bldg. CPP T1/T5

Idaho Natl Eng & Env Lab

Scoville Co: Butte ID 83415-

Landholding Agency: Energy

Property Number: 41200410008

Status: Excess

Reason: Secured Area

Bldg. CPDTB1

Idaho Natl Eng & Env Lab

Scoville Co: Butte ID 83415-

Landholding Agency: Energy

Property Number: 41200410009

Status: Excess

Reason: Secured Area

Bldgs. CPPTB4, CPPTB6

Idaho Natl Eng & Env Lab

Scoville Co: Butte ID 83415-

Landholding Agency: Energy

Property Number: 41200410010

Status: Excess

Reason: Secured Area

Bldgs. CPP617, CPP619

Idaho Natl Eng & Env Lab

Scoville Co: Butte ID 83415-

Landholding Agency: Energy

Property Number: 41200410011

Status: Excess

Reason: Secured Area

Bldg. CPP620A

Idaho Natl Eng & Env Lab

Scoville Co: Butte ID 83415-

Landholding Agency: Energy

Property Number: 41200410012

Status: Excess

Reason: Secured Area

Bldg. CPP637/620

Idaho Natl Eng & Env Lab

Scoville Co: Butte ID 83415-

Landholding Agency: Energy

Property Number: 41200410013

Status: Excess

Reason: Secured Area

Bldgs. CPP638, CPP642

Idaho Natl Eng & Env Lab

Scoville Co: Butte ID 83415-

Landholding Agency: Energy

Property Number: 41200410014

Status: Excess

Reason: Secured Area

Bldgs. CPP656, 664

Idaho Natl Eng & Env Lab

Scoville Co: Butte ID 83415-

Landholding Agency: Energy

Property Number: 41200410015

Status: Excess

Reason: Secured Area

Bldgs. CPP665, CPP672

Idaho Natl Eng & Env Lab

Scoville Co: Butte ID 83415-

Landholding Agency: Energy

Property Number: 41200410016

Status: Excess

Reason: Secured Area

Bldgs. CPP682, CPP693

Idaho Natl Eng & Env Lab

Scoville Co: Butte ID 83415-

Landholding Agency: Energy

Property Number: 41200410017

Status: Excess

Reason: Secured Area

Bldgs. CPP695, CPP702

Idaho Natl Eng & Env Lab

Scoville Co: Butte ID 83415-

Landholding Agency: Energy

Property Number: 41200410018

Status: Excess

Reason: Secured Area

Bldgs. CPP710, CPP712

Idaho Natl Eng & Env Lab

Scoville Co: Butte ID 83415-

Landholding Agency: Energy

Property Number: 41200410019

Status: Excess

Reason: Secured Area

Bldg. CPP743

Idaho Natl Eng & Env lab

Scoville Co: Butte ID 83415-

Landholding Agency: Energy

Property Number: 41200410020

Status: Excess

Reason: Secured Area

Bldgs. CPP1616, 1630

Idaho Natl Eng & Env Lab

Scoville Co: Butte ID 83415-

Landholding Agency: Energy

Property Number: 41200410021

Status: Excess

Reason: Secured Area

Bldgs. CPP1647, 1653

Idaho Natl Eng & Env Lab

Scoville Co: Butte ID 83415-

Landholding Agency: Energy

Property Number: 41200410022

Status: Excess

Reason: Secured Area

Bldg. CPP1677

Idaho Natl Eng & Env Lab

Scoville Co: Butte ID 83415-

Landholding Agency: Energy

Property Number: 41200410023

Status: Excess

Reason: Secured Area

Bldgs. TAN640, TAN641

Idaho Natl Eng & Env Lab

Scoville Co: Butte ID 83415-

Landholding Agency: Energy

Property Number: 41200410024

Status: Excess

Reason: Secured Area

Bldgs. TAN642, TAN644

Idaho Natl Eng & Env Lab

Scoville Co: Butte ID 83415-

Landholding Agency: Energy

Property Number: 41200410025

Status: Excess

Reason: Secured Area

Bldgs. TAN645, TAN646

Idaho Natl Eng & Env Lab

Scoville Co: Butte ID 83415-

Landholding Agency: Energy

Property Number: 41200410026

Status: Excess

Reason: Secured Area

Bldgs. TAN652, TAN728

Idaho Natl Eng & Env Lab

Scoville Co: Butte ID 83415-

Landholding Agency: Energy

Property Number: 41200410027

Status: Excess

Reason: Secured Area

Bldg. TAN731

Idaho Natl Eng & Env Lab

Scoville Co: Butte ID 83415-

Landholding Agency: Energy

Property Number: 41200410028

Status: Excess

Reason: Secured Area

Bldgs. Tan 603, Tan 608

Idaho Natl Eng & Env Lab

Scoville Co: Butte ID 83415-

Landholding Agency: Energy

Property Number: 41200410030

Status: Excess

Reason: Secured Area

Bldg. Tan 624

Idaho Natl Eng & Env Lab

Scoville Co: Butte ID 83415

Landholding Agency: Energy

Property Number: 41200410031

Status: Excess

Reason: Secured Area

Bldgs. Tan 630, Tan 633

Idaho Natl Eng & Env Lab

Scoville Co: Butte ID 83415-

Landholding Agency: Energy

Property Number: 41200410032

Status: Excess

Reason: Secured Area

Bldgs. Tan 649, Tan 650

Idaho Natl Eng & Env Lab

Scoville Co: Butte ID 83415-

Landholding Agency: Energy

Property Number: 41200410033

Status: Excess

Reason: Secured Area

Bldg. 694

Idaho Natl Eng & Env Lab

Scoville Co: Butte ID 83415-

Landholding Agency: Energy

Property Number: 41200410034

Status: Excess

Reason: Secured Area

Bldg. Tan 719

Idaho Natl Eng & Env Lab

Scoville Co: ID ID 83415-

Landholding Agency: Energy

Property Number: 41200410035

Status: Excess

Reason: Secured Area

Bldgs. Tan 725, Tan 726

Idaho Natl Eng & Env Lab

Scoville Co: Butte ID 83415-

Landholding Agency: Energy

Property Number: 41200410036

Status: Excess

Reason: Secured Area

Bldg. TAN 628

Idaho Natl Eng & Env Lab

Scoville Co: Butte ID 83415-

Landholding Agency: Energy

Property Number: 41200420003

Status: Excess

Reason: Secured Area

Bldg. TRA 611

Idaho Natl Eng & Env Lab

Scoville Co: Butte ID 83415-

Landholding Agency: Energy

Property Number: 41200420004

Status: Excess

Reason: Secured Area

Bldg. TRA 624/732

Idaho Natl Eng & Env Lab

Scoville Co: Butte ID 83415-

Landholding Agency: Energy

Property Number: 41200420005

Status: Excess

Reason: Secured Area

Bldg. TRA 647

Idaho Natl Eng & Env Lab

Scoville Co: Butte ID 83415-

Landholding Agency: Energy

Property Number: 41200420006

Status: Excess

Reason: Secured Area

Bldgs. TRA651, TRA656

Idaho Natl Eng & Env Lab

Scoville Co: Butte ID 83415-

Landholding Agency: Energy

Property Number: 41200420007

Status: Excess

Reason: Secured Area

Bldg. TRA 663

Idaho Natl Eng & Env Lab

Scoville Co: Butte ID 83415-

Landholding Agency: Energy

Property Number: 41200420008

Status: Excess

Reason: Secured Area

Bldg. TRA 779

Idaho Natl Eng & Env Lab

Scoville Co: Butte ID 83415-

Landholding Agency: Energy

Property Number: 41200420009

Status: Excess

Reason: Secured Area

Bldg. PBF 731

Idaho Natl Eng & Env Laboratory

Scovile Co: Butte ID 83415-

Landholding Agency: Energy

Property Number: 41200420023

Status: Excess

Reason: Secured Area

Federal Building

1415 Dover Hwy

Sandpoint Co: ID 83864-

Landholding Agency: GSA

Property Number: 54200430008

Status: Surplus

Reason: Within 2000 ft. of flammable or explosive material

GSA Number: 9-G-ID-547

Illinois

Bldgs. T032, T034

Fermi Natl Lab

Batavia Co: DuPage IL 60510-

Landholding Agency: Energy

Property Number: 41200410004

Status: Excess

Reason: Extensive deterioration

Bldgs. 329, 317B

Argonne Natl Laboratory

Argonne Co: DuPage IL 60439-

Landholding Agency: Energy

Property Number: 41200420024

Status: Excess

Reason: Secured Area

Bldg. 415

Naval Training Center 201 N. Decatur Ave.

Great Lakes IL

Landholding Agency: Navy

Property Number: 77199840023

Status: Unutilized

Reason: Secured Area

Bldg. 1015

Naval Training Center 201 N. Decatur Ave.

Great Lakes IL

Landholding Agency: Navy

Property Number: 77199840024

Status: Unutilized

Reason: Secured Area

Bldg. 1016

Naval Training Center 201 N. Decatur Ave.

Great Lakes IL

Landholding Agency: Navy

Property Number: 77199840025

Status: Unutilized

Reason: Secured Area

Bldg. 910

Naval Training Center

Great Lakes IL 60088-5000

Landholding Agency: Navy

Property Number: 77199920055

Status: Unutilized

Reason: Secured Area

Bldg. 800

Naval Training Center

Great Lakes IL 60088-5000

Landholding Agency: Navy

Property Number: 77199920056

Status: Unutilized

Reason: Secured Area

Bldg. 1000

Naval Training Center

Great Lakes IL 60088-5000

Landholding Agency: Navy

Property Number: 77199920057

Status: Unutilized

Reason: Secured Area

Bldg. 1200

Naval Training Center

Great Lakes IL 60088-5000

Landholding Agency: Navy

Property Number: 77199920058

Status: Unutilized

Reason: Secured Area

Bldg. 1400

Naval Training Center

Great Lakes IL 60088-5000

Landholding Agency: Navy

Property Number: 77199920059

Status: Unutilized

Reason: Secured Area

Bldg. 1600

Naval Training Center

Great Lakes IL 60088-5000

Landholding Agency: Navy

Property Number: 77199920060

Status: Unutilized

Reason: Secured Area

Bldg. 2600

Naval Training Center

Great Lakes IL 60088-5000

Landholding Agency: Navy

Property Number: 77199920061

Status: Unutilized

Reason: Secured Area

Indiana

Bldg. 12

Naval Air Warfare

Crane Co: Martin IN 47522-

Landholding Agency: Navy

Property Number: 77200330041

Status: Excess

Reason: Extensive deterioration

Bldg. 2517

Naval Air Warfare

Crane Co: Martin IN 47522-

Landholding Agency: Navy

Property Number: 77200330042

Status: Excess

Reason: Extensive deterioration

Bldg. BH2

Naval Air Warfare

Crane Co: Martin IN 47522-

Landholding Agency: Navy

Property Number: 77200330043

Status: Excess

Reason: Extensive deterioration

Bldg. 21, VA Medical Center

East 38th Street

Marion Co: Grant IN 46952-

Landholding Agency: VA

Property Number: 97199230001

Status: Excess

Reason: Extensive deterioration

Bldg. 22, VA Medical Center

East 38th Street

Marion Co: Grant IN 46952-

Landholding Agency: VA

Property Number: 97199230002

Status: Excess

Reason: Extensive deterioration

Bldg. 62, VA Medical Center

East 38th Street

Marion Co: Grant IN 46952-

Landholding Agency: VA

Property Number: 97199230003

Status: Excess

Reason: Extensive deterioration

Iowa

Treatment Plant

South Fork Park

Mystic Co: Appanoose IA 52574-

Landholding Agency: COE

Property Number: 31200220002

Status: Excess

Reason: Extensive deterioration

Storage Bldg.

Rathbun Project

Moravia Co: Appanoose IA 52571-

Landholding Agency: COE

Property Number: 31200330001

Status: Excess

Reason: Extensive deterioration

Bldg.

Island View Park

Rathbun Project

Centerville Co: Appanoose IA 52544-

Landholding Agency: COE

Property Number: 31200330002

Status: Excess

Reason: Extensive deterioration

Tract 137

Camp Dodge

Johnston Co: Polk IA 50131-1902

Landholding Agency: COE

Property Number: 31200410001

Status: Excess

Reason: Extensive deterioration

Kansas

No. 01017

Kanopolis Project

Marquette Co: Ellsworth KS 67456-

Landholding Agency: COE

Property Number: 31200210001

Status: Unutilized

Reason: Extensive deterioration

No. 01020

Kanopolis Project

Marquette Co: Ellsworth KS 67456-

Landholding Agency: COE

Property Number: 31200210002

Status: Unutilized

Reason: Extensive deterioration

No. 61001

Kanopolis Project

Marquette Co: Ellsworth KS 67456-

Landholding Agency: COE

Property Number: 31200210003

Status: Unutilized

Reason: Extensive deterioration

Bldg. #1

Kanopolis Project

Marquette Co: Ellsworth KS 67456-

Landholding Agency: COE

Property Number: 31200220003

Status: Excess

Reason: Extensive deterioration

Bldg. #2

Kanopolis Project

Marquette Co: Ellsworth KS 67456-

Landholding Agency: COE

Property Number: 31200220004

Status: Excess

Reason: Extensive deterioration

Bldg. #4

Kanopolis Project

Marquette Co: Ellsworth KS 67456-

Landholding Agency: COE

Property Number: 31200220005

Status: Excess

Reason: Extensive deterioration

Comfort Station

Clinton Lake Project

Lawrence Co: Douglas KS 66049-

Landholding Agency: COE

Property Number: 31200220006

Status: Excess

Reason: Extensive deterioration

Privie

Perry Lake

Perry Co: Jefferson KS 66074-

Landholding Agency: COE

Property Number: 31200310004

Status: Unutilized

Reason: Extensive deterioration

Shower

Perry Lake

Perry Co: Jefferson KS 66073-

Landholding Agency: COE

Property Number: 31200310005

Status: Unutilized

Reason: Extensive deterioration

Tool Shed

Perry Lake

Perry Co: Jefferson KS 66073-

Landholding Agency: COE

Property Number: 31200310006

Status: Unutilized

Reason: Extensive deterioration

Bldg. M37

Minooka Park

Sylvan Grove Co: Russell KS 67481-

Landholding Agency: COE

Property Number: 31200320002

Status: Excess

Reason: Extensive deterioration

Bldg. M38

Minooka Park

Sylvan Grove Co: Russell KS 67481-

Landholding Agency: COE

Property Number: 31200320003

Status: Excess

Reason: Extensive deterioration

Bldg. L19

Lucas Park

Sylvan Grove Co: Russell KS 67481-

Landholding Agency: COE

Property Number: 31200320004

Status: Unutilized

Reason: Extensive deterioration

2 Bldgs.

Tuttle Creek Lake

Near Shelters #3 & #4

Riley KS 66502-

Landholding Agency: COE

Property Number: 31200330003

Status: Excess

Reason: Extensive deterioration

6 Bldgs.

Cottonwood Point/Hillsboro Cove

Marion Co: Coffey KS 66861-

Landholding Agency: COE

Property Number: 31200340001

Status: Excess

Reason: Extensive deterioration

20 Bldgs.

Riverside

Burlington Co: Coffey KS 66839-8911

Landholding Agency: COE

Property Number: 31200340002

Status: Excess

Reason: Extensive deterioration

2 Bldgs.

Canning Creek/Richey Cove

Council Grove Co: Morris KS 66846-9322

Landholding Agency: COE

Property Number: 31200340003

Status: Excess

Reason: Extensive deterioration

6 Bldgs.

Santa Fe Trail/Outlet Channel

Council Grove Co: Morris KS 66846-

Landholding Agency: COE

Property Number: 31200340004

Status: Excess

Reason: Extensive deterioration

Residence

Melvern Lake Project

Melvern Co: Osage KS 66510-

Landholding Agency: COE

Property Number: 31200340005

Status: Excess

Reason: Extensive deterioration

2 Bldgs.

Management Park

Vassar KS 66543-

Landholding Agency: COE

Property Number: 31200340006

Status: Excess

Reason: Extensive deterioration

Bldg.

Hickory Campground

Lawrence KS 66049-

Landholding Agency: COE

Property Number: 31200340007

Status: Excess

Reason: Extensive deterioration

Bldg.

Rockhaven Park Area

Lawrence KS 66049-

Landholding Agency: COE

Property Number: 31200340008

Status: Excess

Reason: Extensive deterioration

Bldg.

Overlook Park Area

Lawrence KS 66049-

Landholding Agency: COE

Property Number: 31200340009

Status: Excess

Reason: Extensive deterioration

Bldg.

Walnut Campground

Lawrence KS 66049-

Landholding Agency: COE

Property Number: 31200340010

Status: Excess

Reason: Extensive deterioration

Bldg.

Cedar Ridge Campground

Lawrence KS 66049-

Landholding Agency: COE

Property Number: 31200340011

Status: Excess

Reason: Extensive deterioration

Bldg.

Woodridge Park Area

Lawrence KS 66049-

Landholding Agency: COE

Property Number: 31200340012

Status: Excess

Reason: Extensive deterioration

8 Bldgs.

Tuttle Cove Park

Manhattan Co: Riley KS 66502-

Landholding Agency: COE

Property Number: 31200410002

Status: Unutilized

Reason: Extensive deterioration

2 Bldgs.

Old Garrison Campground

Pottawatomie KS

Landholding Agency: COE

Property Number: 31200410003

Status: Unutilized

Reason: Extensive deterioration

2 Bldgs.

School Creek ORV Area

Junction City KS 66441-

Landholding Agency: COE

Property Number: 31200410004

Status: Excess

Reason: Extensive deterioration

Bldg.

Slough Creek Park

Perry Co: Jefferson KS 66073-

Landholding Agency: COE

Property Number: 31200410005

Status: Excess

Reason: Extensive deterioration

Bldg.

Spillway Boat Ramp

Sylvan Grove Co: KS 67481-

Landholding Agency: COE

Property Number: 31200430008

Status: Excess

Reason: Extensive deterioration

Bldg.

Minooka Park Area

Sylvan Grove Co: KS 67481-

Landholding Agency: COE

Property Number: 31200430009

Status: Excess

Reason: Extensive deterioration

Bldg.

Lucas Park Area

Sylvan Grove Co: KS 67481-

Landholding Agency: COE

Property Number: 31200430010

Status: Excess

Reason: Extensive deterioration

Bldg.

Sylvan Park Area

Sylvan Grove Co: KS 67481-

Landholding Agency: COE

Property Number: 31200430011

Status: Excess

Reason: Extensive deterioration

Bldg.

North Outlet Area

Junction City Co: KS 66441-

Landholding Agency: COE

Property Number: 31200430012

Status: Excess

Reason: Extensive deterioration

Kentucky

Spring House

Kentucky River Lock and Dam No. 1

Highway 320

Carrollton Co: Carroll KY 41008-

Landholding Agency: COE

Property Number: 21199040416

Status: Unutilized

Reason: Spring House

6-Room Dwelling

Green River Lock and Dam No. 3

Rochester Co: Butler KY 42273-

Location: Off State Hwy 369, which runs off of Western Ky. Parkway

Landholding Agency: COE

Property Number: 31199120010

Status: Unutilized

Reason: Floodway

2-Car Garage

Green River Lock and Dam No. 3

Rochester Co: Butler KY 42273-

Location: Off State Hwy 369, which runs off of Western Ky. Parkway

Landholding Agency: COE

Property Number: 31199120011

Status: Unutilized

Reason: Floodway

Office and Warehouse

Green River Lock and Dam No. 3

Rochester Co: Butler KY 42273-

Location: Off State Hwy 369, which runs off of Western Ky. Parkway

Landholding Agency: COE

Property Number: 31199120012

Status: Unutilized

Reason: Floodway

2 Pit Toilets

Green River Lock and Dam No. 3

Rochester Co: Butler KY 42273-

Landholding Agency: COE

Property Number: 31199120013

Status: Unutilized

Reason: Floodway

Tract 1379

Barkley Lake & Dam

Eddyville Co: Lyon KY 42038-

Landholding Agency: COE

Property Number: 31200420001

Status: Unutilized

Reason: Landlocked

Tract 4300

Barkley Lake & Dam

Cadiz Co: Trigg KY 42211-

Landholding Agency: COE

Property Number: 31200420002

Status: Unutilized

Reason: Floodway

Tracts 317, 318, 319

Barkley Lake & Dam

Grand Rivers Co: Lyon KY 42045-

Landholding Agency: COE

Property Number: 31200420003

Status: Unutilized

Reason: Floodway

Louisiana

Weeks Island Facility

New Iberia Co: Iberia Parish LA 70560-

Landholding Agency: Energy

Property Number: 41199610038

Status: Underutilized

Reason: Secured Area

Maine

Bldg. M-4

Portsmouth Naval Shipyard

Kittery Co: York ME 03904-

Landholding Agency: Navy

Property Number: 77200240012

Status: Excess

Reason: Secured Area

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York ME 03904-

Landholding Agency: Navy

Property Number: 77200240015

Status: Excess

Reason: Secured Area

Bldg. M-11

Portsmouth Naval Shippyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reasons: Within 2000 ft. of flammable or explosive material; Secured Area

Bldg. 33

Portsmouth Naval Shipyard

Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material; Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Bldg. 150

Portsmouth Naval Shipyard

Kittery Co: York ME

Landholding Agency: Navy

Property Number: 77200340040

Status: Excess

Reason: Extensive deterioration

Maryland

Bldg. 503A

Naval Air Station

Patuxent River MD

Landholding Agency: Navy

Property Number: 77200330012

Status: Excess

Reason: Extensive deterioration

Bldgs. 200068, 200069

JHU Applied Physics Lab

Laurel Co: Howard MD 20723-

Landholding Agency: Navy

Property Number: 77200340015

Status: Excess

Reason: Extensive deterioration

4 Bldgs.

JHU Applied Physics lab 200075, 200076, 200077, 200079

Laurel Co: Howard MD 20723-

Landholding Agency: Navy

Property Number: 77200340016

Status: Excess

Reason: Extensive deterioration

Bldgs. 200083, 200086

JHU Applied Physics Lab

Laurel Co: Howard MD 20723-

Landholding Agency: Navy

Property Number: 77200340017

Status: Excess

Reason: Extensive deterioration

Bldgs. 200087, 200088, 200089

JHU Applied Physics Lab

Laurel Co: Howard MD 20723-

Landholding Agency: Navy

Property Number: 77200340018

Status: Excess

Reason: Extensive deterioration

5 Bldgs.

JHU Applied Physics Lab 200091, 200095, 200096, 200098, 200099

Laurel Co: Howard MD 20723-

Landholding Agency: Navy

Property Number: 77200340019

Status: Excess

Reason: Extensive deterioration

Bldgs. 200101, 200106, 200107

JHU Applied Physics Lab

Laurel Co: Howard MD 20773-

Landholding Agency: Navy

Property Number: 77200340020

Status: Excess

Reason: Extensive deterioration

Bldgs. 200108, 200109, 200110

JHU Applied Physics Lab

Laurel Co: Howard MD 20723-

Landholding Agency: Navy

Property Number: 77200340021

Status: Excess

Reason: Extensive deterioration

Bldgs. 200120, 200121, 200122

JHU Applied Physics Lab

Laurel Co: Howard MD 20773-

Landholding Agency: Navy

Property Number: 77200340022

Status: Excess

Reason: Extensive deterioration

Bldgs. 200124, 200125, 200126

JHU Applied Physics Lab

Laurel Co: Howard MD 20773-

Landholding Agency: Navy

Property Number: 77200340023

Status: Excess

Reason: Extensive deterioration

Bldgs. 200128, 200133

JHU Applied Physics Lab

Laurel Co: Howard MD 20723-

Landholding Agency: Navy

Property Number: 77200340024

Status: Excess

Reason: Extensive deterioration

Bldgs. 200137, 200138

JHU Applied Physics Lab

Laurel Co: Howard MD 20773-

Landholding Agency: Navy

Property Number: 77200340025

Status: Excess

Reason: Extensive deterioration

Bldg. 461

Naval Air Station

Patuxent River Co: MD

Landholding Agency: Navy

Property Number: 77200430038

Status: Excess

Reason: Extensive deterioration

Massachusetts

Westview Street Wells

Lexington MA 02173-

Landholding Agency: VA

Property Number: 97199920001

Status: Unutilized

Reason: Extensive deterioration

Mississippi

Bldgs. 239, 240

Naval Air Station

Meridian Co: Lauderdale MS 39309-

Landholding Agency: Navy

Property Number: 77200240060

Status: Unutilized

Reason: Secured Area

Bldg. 248

Naval Air Station

Meridian Co: Lauderdale MS 39309-

Landholding Agency: Navy

Property Number: 77200240061

Status: Unutilized

Reason: Secured Area

Bldg. 412

Naval Air Station

Meridian Co: Lauderdale MS 39309-

Landholding Agency: Navy

Property Number: 77200240062

Status: Unutilized

Reason: Secured Area

146 Units

Naval Air Station

Meridian MS 39309-

Landholding Agency: Navy

Property Number: 77200310005

Status: Unutilized

Reason: Secured Area

Bldgs. H-1-2004

Naval Air Station

Meridian MS 39309-

Landholding Agency: Navy

Property Number: 77200420053

Status: Unutilized

Reasons: Secured Area; Extensive deterioration

Bldg. 6, Boiler Plant

Biloxi VA Medical Center

Gulfport Co: Harrison MS 39531-

Landholding Agency: VA

Property Number: 97199410001

Status: Unutilized

Reason: Floodway

Bldg. 67

Biloxi VA Medical Center

Gulfport Co: Harrison MS 39531-

Landholding Agency: VA

Property Number: 97199410008

Status: Unutilized

Reason: Extensive deterioration

Bldg. 68

Biloxi VA Medical Center

Gulfport Co: Harrison MS 39531-

Landholding Agency: VA

Property Number: 97199410009

Status: Unutilized

Reason: Extensive deterioration

Missouri

Rec Office

Harry S. Truman Dam & Reservoir

Osceola Co: St. Clair MO 64776-

Landholding Agency: COE

Property Number: 31200110001

Status: Unutilized

Reason: Extensive deterioration

Privy/Nemo Park

Pomme de Terre Lake

Hermitage MO 65668-

Landholding Agency: COE

Property Number: 31200120001

Status: Excess

Reason: Extensive deterioration

Privy No. 1/Bolivar Park

Pomme de Terre Lake

Hermitage MO 65668-

Landholding Agency: COE

Property Number: 31200120002

Status: Excess

Reason: Extensive deterioration

Privy No. 2/Bolivar Park

Pomme de Terre Lake

Hermitage MO 65668-

Landholding Agency: COE

Property Number: 31200120003

Status: Excess

Reason: Extensive deterioration

#07004, 60006, 60007

Crabtree Cove/Stockton Area

Stockton MO 65785-

Landholding Agency: COE

Property Number: 31200220007

Status: Excess

Reason: Extensive deterioration

Bldg.

Old Mill Park Area

Stockton MO 65785-

Landholding Agency: COE

Property Number: 31200310007

Status: Excess

Reason: Extensive deterioration

Stockton Lake Proj. Ofc.

Stockton Co: Cedar MO 65785-

Landholding Agency: COE

Property Number: 31200330004

Status: Unutilized

Reason: Extensive deterioration

House

Tract 1105

Thurnau Mitigation Site

Craig Co: Holt MO 64437-

Landholding Agency: COE

Property Number: 31200420005

Status: Unutilized

Reason: Extensive deterioration

30x36 Barn

Tract 1105

Thurnau Mitigation Site

Craig Co: Holt MO 64437-

Landholding Agency: COE

Property Number: 31200420006

Status: Unutilized

Reason: Extensive deterioration

30x26 Barn

Tract 1105

Thurnau Mitigation Site

Craig Co: Holt MO 64437-

Landholding Agency: COE

Property Number: 31200420007

Status: Unutilized

Reason: Extensive deterioration

30x10 Shed

Tract 1105

Thurnau Mitigation Site

Craig Co: Holt MO 64437-

Landholding Agency: COE

Property Number: 31200420008

Status: Unutilized

Reason: Extensive deterioration

30x26 Shed

Tract 1105

Thurnau Mitigation Site

Craig Co: Holt MO 64437-

Landholding Agency: COE

Property Number: 31200420009

Status: Unutilized

Reason: Extensive deterioration

9x9 Shed

Tract 1105

Thurnau Mitigation Site

Craig Co: Holt MO 64437-

Landholding Agency: COE

Property Number: 31200420010

Status: Unutilized

Reason: Extensive deterioration

Tract 1111

Thurnau Mitigation Site

Craig Co: Holt MO 64437-

Landholding Agency: COE

Property Number: 31200420011

Status: Excess

Reason: Extensive deterioration

Shower

Pomme de Terre Lake

Hermitage Co: Polk MO 65668-

Landholding Agency: COE

Property Number: 31200420012

Status: Unutilized

Reason: Extensive deterioration

11 Bldgs.

Warsaw Co: MO 65355-

Location: Fairfield, Tally Bend, Cooper Creek, Shawnee Bend

Landholding Agency: COE

Property Number: 31200430013

Status: Excess

Reason: Extensive deterioration

2 Storage Bldgs.

District Service Base

St. Louis Co: MO

Landholding Agency: COE

Property Number: 31200430014

Status: Excess

Reason: Extensive deterioration

Bldg. 3

VA Medical Center

Jefferson Barracks Division

St. Louis MO 63125-

Landholding Agency: VA

Property Number: 97200340001

Status: Underutilized

Reason: Secured Area

Bldg. 4

VA Medical Center

Jefferson Barracks Division

St. Louis MO

Landholding Agency: VA

Property Number: 97200340002

Status: Underutilized

Reason: Secured Area

Bldg. 27

VA Medical Center

Jefferson Barracks Division

St. Louis MO 63125-

Landholding Agency: VA

Property Number: 97200340003

Status: Underutilized

Reason: Secured Area

Bldg. 28

VA Medical Center

Jefferson Barracks Division

St. Louis MO 63125-

Landholding Agency: VA

Property Number: 97200340004

Status: Underutilized

Reason: Secured Area

Bldg. 29

VA Medical Center

Jefferson Barracks Division

St. Louis MO 63125-

Landholding Agency: VA

Property Number: 97200340005

Status: Underutilized

Reason: Secured Area

Bldg. 50

VA Medical Center

Jefferson Barracks Division

St. Louis MO 63125-

Landholding Agency: VA

Property Number: 97200340006

Status: Underutilized

Reason: Secured Area

Nebraska

Vault Toilets

Harlan County Project

Republican NE 68971-

Landholding Agency: COE

Property Number: 31200210006

Status: Unutilized

Reason: Extensive deterioration

Patterson Treatment Plant

Harlan County Project

Republican NE 68971-

Landholding Agency: COE

Property Number: 31200210007

Status: Unutilized

Reason: Extensive deterioration

#30004

Harlan County Project

Republican Co: Harlan NE 68971-

Landholding Agency: COE

Property Number: 31200220008

Status: Unutilized

Reason: Extensive deterioration

#3005, 3006

Harlan County Project

Republican Co: Harlan NE 68971-

Landholding Agency: COE

Property Number: 31200220009

Status: Unutilized

Reason: Extensive deterioration

Nevada

28 Facilities

Nevada Test Site

Mercury Co: Nye NV 89023-

Landholding Agency: Energy

Property Number: 41200310018

Status: Excess

Reasons: Contamination; Secured Area

31 Bldgs./Facilities

Nellis AFB

Tonopah Test Range

Tonopah Co: Nye NV 89049-

Landholding Agency: Energy

Property Number: 41200330003

Status: Unutilized

Reason: Secured Area

42 Bldgs.

Nellis Air Force Base

Tonopah Co: Nye NV 89049-

Location: 49-01, NM104, NM105, 03-35A-H, 03-35J-N, 03-36A-C, 03-36E-H, 03-36J-N, 03-36R, 03-37, 15036, 03-44A-D, 03-46, 03-47, 03-49, 03-88, 03-89, 03-90

Landholding Agency: Energy

Property Number: 41200410029

Status: Unutilized

Reason: Secured Area

7 Bldgs.

Naval Air Station 101, 103, 201, 203, 202, 204, 206

Fallon Co: Churchill NV 89406-

Landholding Agency: Navy

Property Number: 77200420013

Status: Unutilized

Reasons: Within airport runway clear zone; Secured Area

Bldg. 735B

Naval Air Station

Fallon Co: Churchill NV 89406-

Landholding Agency: Navy

Property Number: 77200420014

Status: Unutilized

Reasons: Secured Area; Extensive deterioration

New Hampshire

Bldg. 40

Portsmouth Naval Shipyard

Portsmouth NH 03804-5000

Landholding Agency: Navy

Property Number: 77200240031

Status: Excess

Reasons: Within 2000 ft. of flammable or explosive material; Secured Area

New Jersey

Bldg. 263

Naval Air Engineering Station

Lakehurst Co: Ocean NJ 08733-5000

Landholding Agency: Navy

Property Number: 77200310002

Status: Unutilized

Reason: Extensive deterioration

Bldg. GB-1

Naval Weapons Station

Colts Neck NJ 07722-

Landholding Agency: Navy

Property Number: 77200310013

Status: Unutilized

Reason: Extensive deterioration

Bldg. D-5

Naval Weapons Station

Colts Neck NJ 07722-

Landholding Agency: Navy

Property Number: 77200310014

Status: Unutilized

Reason: Extensive deterioration

Bldg. 6A

Naval Weapons Station

Colts Neck NJ 07722-

Landholding Agency: Navy

Property Number: 77200310015

Status: Unutilized

Reason: Extensive deterioration

Bldg. C-14

Naval Weapons Station

Colts Neck NJ 07722-

Landholding Agency: Navy

Property Number: 77200310016

Status: Unutilized

Reason: Extensive deterioration

Bldg. C-31

Naval Weapons Station

Colts Neck NJ 07722-

Landholding Agency:Navy

Property Number: 77200310017

Status: Unutilized

Reason: Extensive deterioration

Bldg. C-36

Naval Weapons Station

Colts Neck NJ 07722-

Landholding Agency: Navy

Property Number: 77200310018

Status: Unutilized

Reason: Extensive deterioration

Bldg. S-179

Naval Weapons Station

Colts Neck NJ 07722-

Landholding Agency: Navy

Property Number: 77200310019

Status: Unutilized

Reason: Extensive deterioration

Bldg. 531

Naval Weapons Station

Colts Neck NJ 07722-

Landholding Agency: Navy

Property Number: 77200310020

Status: Unutilized

Reason: Extensive deterioration

Bldg. 569

Naval Weapons Station

Colts Neck NJ 07722-

Landholding Agency: Navy

Property Number: 77200310021

Status: Unutilized

Reason: Extensive deterioration

Bldg. 570

Naval Weapons Station

Colts Neck NJ 07722-

Landholding Agency: Navy

Property Number: 77200310022

Status: Unutilized

Reason: Extensive deterioration

Bldg. 589

Naval Weapons Station

Colts Neck NJ 07722-

Landholding Agency: Navy

Property Number: 77200310023

Status: Unutilized

Reason: Extensive deterioration

New Mexico

Bldgs. 9252, 9268

Kirtland Air Force Base

Albuquerque Co: Bernalillo NM 87185-

Landholding Agency: Energy

Property Number: 41199430002

Status: Unutilized

Reason: Extensive deterioration

Tech Area II

Kirtland Air Force Base

Albuquerque Co: Bernalillo NM 87105-

Landholding Agency: Energy

Property Number: 41199630004

Status: Unutilized

Reasons: Within 2000 ft. of flammable or explosive material; Secured Area; Extensive deterioration

Bldg. 26, TA-33

Los Alamos National Laboratory

Los Alamos NM 87545-

Landholding Agency: Energy

Property Number: 41199810004

Status: Unutilized

Reasons: Secured Area; Extensive deterioration

Bldg. 2, TA-21

Los Alamos National Laboratory

Los Alamos NM 87545-

Landholding Agency: Energy

Property Number: 41199810008

Status: Underutilized

Reason: Secured Area

Bldg. 5, TA-21

Los Alamos National Laboratory

Los Alamos NM 87545-

Landholding Agency: Energy

Property Number: 41199810011

Status: Unutilized

Reason: Secured Area

Bldg. 21, TA-21

Los Alamos National Laboratory

Los Alamos NM 87545-

Landholding Agency: Energy

Property Number: 41199810012

Status: Unutilized

Reason: Secured Area

Bldg. 116, TA-21

Los Alamos National Laboratory

Los Alamos NM 87545-

Landholding Agency: Energy

Property Number: 41199810013

Status: Unutilized

Reason: Secured Area

Bldg. 228, TA-21

Los Alamos National Laboratory

Los Alamos NM 87545-

Landholding Agency: Energy

Property Number: 41199810015

Status: Unutilized

Reason: Secured Area

Bldg. 286, TA-21

Los Alamos National Laboratory

Los Alamos NM 87545-

Landholding Agency: Energy

Property Number: 41199810016

Status: Unutilized

Reason: Secured Area

Bldg. 516, TA-16

Los Alamos National Laboratory

Los Alamos NM 87545-

Landholding Agency: Energy

Property Number: 41199810021

Status: Unutilized

Reasons: Within 2000 ft. of flammable or explosive material; Secured Area; Extensive deterioration

Bldg. 517, TA-16

Los Alamos National Laboratory

Los Alamos NM 87545-

Landholding Agency: Energy

Property Number: 41199810022

Status: Unutilized

Reasons: Within 2000 ft. of flammable or explosive material; Secured Area; Extensive deterioration

Bldg. 31

Los Alamos National Lab

Los Alamos NM 87545-

Landholding Agency: Energy

Property Number: 41199930003

Status: Unutilized

Reasons: Secured Area; Extensive deterioration

Bldg. 21, TA-2

Los Alamos National Lab

Los Alamos NM 87545-

Landholding Agency: Energy

Property Number: 41199940001

Status: Unutilized

Reason: Secured Area

Bldg. 38, TA-14

Los Alamos National Lab

Los Alamos NM 87545-

Landholding Agency: Energy

Property Number: 41199940004

Status: Unutilized

Reasons: Secured Area; Extensive deterioration

Bldg. 8, TA-15

Los Alamos National Lab

Los Alamos NM 87545-

Landholding Agency: Energy

Property Number: 41199940005

Status: Unutilized

Reasons: Secured Area; Extensive deterioration

Bldg. 9, TA-15

Los Alamos National Lab

Los Alamos NM 87545-

Landholding Agency: Energy

Property Number: 41199940006

Status: Unutilized

Reason: Secured Area

Bldg. 22, TA-15

Los Alamos National Lab

Los Alamos NM 87545-

Landholding Agency: Energy

Property Number: 41199940007

Status: Unutilized

Reason: Secured Area

Bldg. 141, TA-15

Los Alamos National Lab

Los Alamos NM 87545-

Landholding Agency: Energy

Property Number: 41199940008

Status: Unutilized

Reason: Secured Area

Bldg. 44, TA-15

Los Alamos National Lab

Los Alamos NM 87545-

Landholding Agency: Energy

Property Number: 41199940009

Status: Unutilized

Reason: Secured Area

Bldg. 2, TA-18

Los Alamos National Lab

Los Alamos NM 87545-

Landholding Agency: Energy

Property Number: 41199940010

Status: Unutilized

Reasons: Secured Area; Extensive deterioration

Bldg. 5, TA-18

Los Alamos National Lab

Los Alamos NM 87545-

Landholding Agency: Energy

Property Number: 41199940011

Status: Unutilized

Reasons: Secured Area; Extensive deterioration

Bldg. 186, TA-18

Los Alamos National Lab

Los Alamos NM 87545-

Landholding Agency: Energy

Property Number: 41199940012

Status: Unutilized

Reasons: Secured Area; Extensive deterioration

Bldg. 188, TA-18

Los Alamos National Lab

Los Alamos NM 87545-

Landholding Agency: Energy

Property Number: 41199940013

Status: Unutilized

Reasons: Secured Area; Extensive deterioration

Bldg. 44, TA-36

Los Alamos National Lab

Los Alamos NM 87545-

Landholding Agency: Energy

Property Number: 41199940015

Status: Unutilized

Reasons: Secured Area; Extensive deterioration

Bldg. 45, TA-36

Los Alamos National Lab

Los Alamos NM 87545-

Landholding Agency: Energy

Property Number: 41199940016

Status: Unutilized

Reasons: Secured Area; Extensive deterioration

Bldg. 19, TA-40

Los Alamos National Lab

Los Alamos NM 87545-

Landholding Agency: Energy

Property Number: 41199940017

Status: Unutilized

Reasons: Secured Area; Extensive deterioration

Bldg. 43, TA-40

Los Alamos National Lab

Los Alamos NM 87545-

Landholding Agency: Energy

Property Number: 41199940018

Status: Unutilized

Reasons: Secured Area; Extensive deterioration

Bldg. 258, TA-46

Los Alamos National Lab

Los Alamos NM 87545-

Landholding Agency: Energy

Property Number: 41199940019

Status: Unutilized

Reasons: Secured Area; Extensive deterioration

TA-3, Bldg. 208

Los Alamos National Lab

Los Alamos NM 87545-

Landholding Agency: Energy

Property Number: 41200010010

Status: Unutilized

Reasons: Secured Area; Extensive deterioration

TA-6, Bldg. 1

Los Alamos National Lab

Los Alamos NM 87545-

Landholding Agency: Energy

Property Number: 41200010011

Status: Unutilized

Reasons: Secured Area; Extensive deterioration

TA-6, Bldg. 2

Los Alamos National Lab

Los Alamos NM 87545-

Landholding Agency: Energy

Property Number: 41200010012

Status: Unutilized

Reasons: Secured Area; Extensive deterioration

TA-6, Bldg. 3

Los Alamos National Lab

Los Alamos NM 87545-

Landholding Agency: Energy

Property Number: 41200010013

Status: Unutilized

Reasons: Secured Area; Extensive deterioration

TA-6, Bldg. 5

Los Alamos National Lab

Los Alamos NM 87545-

Landholding Agency: Energy

Property Number: 41200010014

Status: Unutilized

Reasons: Secured Area; Extensive deterioration

TA-6, Bldg. 6

Los Alamos National Lab

Los Alamos NM 87545-

Landholding Agency: Energy

Property Number: 41200010015

Status: Unutilized

Reason: Secured Area

TA-6, Bldg. 7

Los Alamos National Lab

Los Alamos NM 87545-

Landholding Agency: Energy

Property Number: 41200010016

Status: Unutilized

Reason: Secured Area

TA-6, Bldg. 8

Los Alamos National Lab

Los Alamos NM 87545-

Landholding Agency: Energy

Property Number: 41200010017

Status: Unutilized

Reasons: Secured Area; Extensive deterioration

TA-6, Bldg. 9

Los Alamos National Lab

Los Alamos NM 87545-

Landholding Agency: Energy

Property Number: 41200010018

Status: Unutilized

Reason: Secured Area

TA-14, Bldg. 5

Los Alamos National Lab

Los Alamos NM 87545-

Landholding Agency: Energy

Property Number: 41200010019

Status: Unutilized

Reason: Secured Area

TA-21, Bldg. 150

Los Alamos National Lab

Los Alamos NM 87545-

Landholding Agency: Energy

Property Number: 41200010020

Status: Unutilized

Reason: Secured Area

Bldg. 149, TA-21

Los Alamos National Lab

Los Alamos NM 87545-

Landholding Agency: Energy

Property Number: 41200010024

Status: Unutilized

Reason: Secured Area

Bldg. 312, TA-21

Los Alamos National Lab

Los Alamos NM 87545-

Landholding Agency: Energy

Property Number: 41200010025

Status: Unutilized

Reason: Secured Area

Bldg. 313, TA-21

Los Alamos National Lab

Los Alamos NM 87545-

Landholding Agency: Energy

Property Number: 41200010026

Status: Unutilized

Reason: Secured Area

Bldg. 314, TA-21

Los Alamos National Lab

Los Alamos NM 87545-

Landholding Agency: Energy

Property Number: 41200010027

Status: Unutilized

Reason: Secured Area

Bldg. 315, TA-21

Los Alamos National Lab

Los Alamos NM 87545-

Landholding Agency: Energy

Property Number: 41200010028

Status: Unutilized

Reason: Secured Area

Bldg. 1, TA-8

Los Alamos National Lab

Los Alamos NM 87545-

Landholding Agency: Energy

Property Number: 41200010029

Status: Unutilized

Reason: Secured Area

Bldg. 2, TA-8

Los Alamos National Lab

Los Alamos NM 87545-

Landholding Agency: Energy

Property Number: 41200010030

Status: Unutilized

Reasons: Secured Area; Extensive deterioration

Bldg. 3, TA-8

Los Alamos National Lab

Los Alamos NM 87545-

Landholding Agency: Energy

Property Number: 41200020001

Status: Unutilized

Reasons: Secured Area; Extensive deterioration

Bldg. 51, TA-9

Los Alamos National Lab

Los Alamos NM 87545-

Landholding Agency: Energy

Property Number: 41200020002

Status: Unutilized

Reason: Secured Area

Bldg. 30, TA-14

Los Alamos National Lab

Los Alamos NM 87545-

Landholding Agency: Energy

Property Number: 41200020003

Status: Unutilized

Reason: Secured Area

Bldg. 16, TA-3

Los Alamos National Lab

Los Alamos NM 87545-

Landholding Agency: Energy

Property Number: 41200020009

Status: Unutilized

Reason: Secured Area

Bldg. 339, TA-16

Los Alamos National Lab

Los Alamos NM 87545-

Landholding Agency: Energy

Property Number: 41200020010

Status: Unutilized

Reason: Secured Area

Bldg. 340, TA-16

Los Alamos National Lab

Los Alamos NM 87545-

Landholding Agency: Energy

Property Number: 41200020011

Status: Unutilized

Reason: Secured Area

Bldg. 341, TA-16

Los Alamos National Lab

Los Alamos NM 87545-

Landholding Agency: Energy

Property Number: 41200020012

Status: Unutilized

Reason: Secured Area

Bldg. 342, TA-16

Los Alamos National Lab

Los Alamos NM 87545-

Landholding Agency: Energy

Property Number: 41200020013

Status: Unutilized

Reason: Secured Area

Bldg. 343, TA-16

Los Alamos National Lab

Los Alamos NM 87545-

Landholding Agency: Energy

Property Number: 41200020014

Status: Unutilized

Reason: Secured Area

Bldg. 345, TA-16

Los Alamos National Lab

Los Alamos NM 87545-

Landholding Agency: Energy

Property Number: 41200020015

Status: Unutilized

Reason: Secured Area

Bldg. 48, TA-55

Los Alamos National Lab

Los Alamos NM 87545-

Landholding Agency: Energy

Property Number: 41200020017

Status: Unutilized

Reason: Secured Area

Bldg. 125, TA-55

Los Alamos National Lab

Los Alamos NM 87545-

Landholding Agency: Energy

Property Number: 41200020018

Status: Unutilized

Reason: Secured Area

Bldg. 162, TA-55

Los Alamos National Lab

Los Alamos NM 87545-

Landholding Agency: Energy

Property Number: 41200020019

Status: Unutilized

Reason: Secured Area

Bldg. 22, TA-33

Los Alamos National Lab

Los Alamos NM 87545-

Landholding Agency: Energy

Property Number: 41200020022

Status: Unutilized

Reasons: Secured Area; Extensive deterioration

Bldg. 23, TA-49

Los Alamos National Lab

Los Alamos NM 87545-

Landholding Agency: Energy

Property Number: 41200020023

Status: Unutilized

Reason: Secured Area

Bldg. 37, TA-53

Los Alamos National Lab

Los Alamos NM 87545-

Landholding Agency: Energy

Property Number: 41200020024

Status: Unutilized

Reason: Secured Area

Bldg. 121, TA-49

Los Alamos National Lab

Los Alamos NM 87545-

Landholding Agency: Energy

Property Number: 41200020025

Status: Unutilized

Reason: Secured Area

5 Bldgs.

Kirtland AFB

Sandia Natl Lab

Albuquerque Co: Bernalillo NM 87185-

Location: 9927, 9970, 6730, 6731, 6555

Landholding Agency: Energy

Property Number: 41200210014

Status: Excess

Reason: Extensive deterioration

6 Bldgs.

Kirtland AFB

Sandia Natl Lab

Albuquerque Co: Bernalillo NM 87185-

Location: 6725, 841, 884, 892, 893, 9800

Landholding Agency: Energy

Property Number: 41200210015

Status: Excess

Reason: Extensive deterioration

TA-53, Bldg. 61

Los Alamos National Lab

Los Alamos NM 87545-

Landholding Agency: Energy

Property Number: 41200220023

Status: Unutilized

Reason: Extensive deterioration

TA-53, Bldg. 63

Los Alamos National Lab

Los Alamos NM 87545-

Landholding Agency: Energy

Property Number: 41200220024

Status: Unutilized

Reason: Extensive deterioration

TA-53, Bldg. 65

Los Alamos National Lab

Los Alamos NM 87545-

Landholding Agency: Energy

Property Number: 41200220025

Status: Unutilized

Reason: Extensive deterioration

Bldg. B117

Kirtland Operations

Albuquerque Co: Bernalillo NM 87117-

Landholding Agency: Energy

Property Number: 41200220032

Status: Excess

Reason: Extensive deterioration

Bldg. B118

Kirtland Operations

Albuquerque Co: Bernalillo NM 87117-

Landholding Agency: Energy

Property Number: 41200220033

Status: Excess

Reason: Extensive deterioration

Bldg. B119

Kirtland Operations

Albuquerque Co: Bernalillo NM 87117-

Landholding Agency: Energy

Property Number: 41200220034

Status: Excess

Reason: Extensive deterioration

Bldg. 6721

Kirtland AFB

Albuquerque Co: Bernalillo NM 87185-

Landholding Agency: Energy

Property Number: 41200220042

Status: Unutilized

Reason: Extensive deterioration

6 Bldgs.

Kirtland Air Force Base

#852, 874, 9939A, 6536, 6636, 833A

Albuquerque NM 87185-

Landholding Agency: Energy

Property Number: 41200230001

Status: Excess

Reason: Secured Area

Bldg. 805

Kirtland Air Force Base

Albuquerque Co: Bernalillo NM 87185-

Landholding Agency: Energy

Property Number: 41200240001

Status: Unutilized

Reason: Secured Area

Bldg. 8898

Kirtland Air Force Base

Albuquerque Co: Bernalillo NM 87185-

Landholding Agency: Energy

Property Number: 41200240002

Status: Unutilized

Reason: Secured Area

8 Bldgs., TA-16

Los Alamos National Lab

195, 220-226

Los Alamos NM 87545-

Landholding Agency: Energy

Property Number: 41200240003

Status: Unutilized

Reason: Secured Area

Bldg. 2, TA-11

Los Alamos National Lab

Los Alamos NM 87545-

Landholding Agency: Energy

Property Number: 41200240004

Status: Unutilized

Reason: Secured Area

Bldg. 4, TA-41

Los Alamos National Lab

Los Alamos NM 87545-

Landholding Agency: Energy

Property Number: 41200240005

Status: Unutilized

Reason: Secured Area

Bldg. 16, TA-41

Los Alamos National Lab

Los Alamos NM 87545-

Landholding Agency: Energy

Property Number: 41200240006

Status: Unutilized

Reason: Secured Area

Bldg. 30, TA-41

Los Alamos National Lab

Los Alamos NM 87545-

Landholding Agency: Energy

Property Number: 41200240007

Status: Unutilized

Reason: Secured Area

Bldg. 53, TA-41

Los Alamos National Lab

Los Alamos NM 87545-

Landholding Agency: Energy

Property Number: 41200240008

Status: Unutilized

Reason: Secured Area

Bldg. 2, TA-33

Los Alamos National Lab

Los Alamos NM 87545-

Landholding Agency: Energy

Property Number: 41200310001

Status: Unutilized

Reasons: Secured Area; Extensive deterioration

Bldgs. 228, 286, TA-21

Los Alamos National Lab

Los Alamos NM 87545

Landholding Agency: Energy

Property Number: 41200310002

Status: Unutilized

Reason: Secured Area

Bldg. 116, TA-21

Los Alamos National Lab

Los Alamos NM 87545-

Landholding Agency: Energy

Property Number: 41200310003

Status: Unutilized

Reason: Secured Area

Bldgs. 1, 2, 3, 4, 5, TA-28

Los Alamos National Lab

Los Alamos NM 87545-

Landholding Agency: Energy

Property Number: 41200310004

Status: Unutilized

Reason: Secured Area

Bldgs. 447, 1483

Los Alamos Natl Laboratory

Los Alamos NM

Landholding Agency: Energy

Property Number: 41200410002

Status: Excess

Reasons: Secured Area; Extensive deterioration

Bldgs. 870C & 9830

Kirtland AFB

Albuquerque Co: Bernalillo NM 87185-

Landholding Agency: Energy

Property Number: 41200410037

Status: Excess

Reason: Secured Area

Bldg. N149

Naval Air Warfare

White Sands NM 88002-

Landholding Agency: Navy

Property Number: 77200110104

Status: Excess

Reason: Extensive deterioration

New York

Warehouse

Whitney Lake Project

Whitney Point Co: Broome NY 13862-0706

Landholding Agency: COE

Property Number: 31199630007

Status: Unutilized

Reason: Extensive deterioration

Bldg. 0088

Brookhaven Natl Laboratory

Upton Co: Suffolk NY 11973-

Landholding Agency: Energy

Property Number: 41200410005

Status: Excess

Reason: Extensive deterioration

Bldg. 0207

Brookhaven Natl Laboratory

Upton Co: Suffolk NY 11973-

Landholding Agency: Energy

Property Number: 41200410006

Status: Excess

Reason: Extensive deterioration

Bldgs. 0457, 0458

Brookhaven Natl Laboratory

Upton Co: Suffolk NY 11973-

Landholding Agency: Energy

Property Number: 41200410007

Status: Excess

Reason: Extensive deterioration

North Carolina

Prop. ID WKS20350

Scott Reservoir Project

Wilkesboro NC 28697-7462

Landholding Agency: COE

Property Number: 31200310008

Status: Unutilized

Reason: Extensive deterioration

Bldg. #2-17009

Cape Fear River Lock/Dam

Elizabeth Co: Bladen NC 28337-

Landholding Agency: COE

Property Number: 31200420013

Status: Unutilized

Reason: Extensive deterioration

10 Bldgs.

Kerr Scott Project

Wilkesboro Co: Wilkes NC 28697-7462

Location: WKS16334-16335, 17334-17337, 18227-18228, 18864-18865

Landholding Agency: COE

Property Number: 31200420014

Status: Unutilized

Reason: Extensive deterioration

5 Bldgs.

Kerr Scott Project

Wilkesboro Co: Wilkes NC 28697-7462

Location: WKS15830, 17268, 18687, 18875, 26808

Landholding Agency: COE

Property Number: 31200420015

Status: Unutilized

Reason: Extensive deterioration

Bldgs. WKS16426, 16427, 25928

Kerr Scott Project

Wilkesboro Co: Wilkes NC 28697-7462

Landholding Agency: COE

Property Number: 31200420016

Status: Unutilized

Reason: Extensive deterioration

Bldgs. WKS18234, 18337

Kerr Scott Project

Wilkesboro Co: Wilkes NC 28697-7462

Landholding Agency: COE

Property Number: 31200420017

Status: Unutilized

Reason: Extensive deterioration

Bldg. WKS18691

Kerr Scott Project

Wilkesboro Co: Wilkes NC 28697-7462

Landholding Agency: COE

Property Number: 31200420018

Status: Unutilized

Reason: Extensive deterioration

Bldg. 9

VA Medical Center 1100 Tunnel Road

Asheville Co: Buncombe NC 28805-

Landholding Agency: VA

Property Number: 97199010008

Status: Unutilized

Reason: Extensive deterioration

Ohio

Bldg. 77

Fernald Environmental Management Project

Fernald Co: Hamilton OH 45013-

Landholding Agency: Energy

Property Number: 41199840003

Status: Excess

Reasons: Within 2000 ft. of flammable or explosive material; Secured Area

Bldg. 82A

Fernald Environmental Mgmt Project

Fernald Co: Hamilton OH 45013-

Landholding Agency: Energy

Property Number: 41199910018

Status: Excess

Reasons: Within 2000 ft. of flammable or explosive material; Secured Area

Bldg. 16

RMI Environmental Services

Ashtabula OH 44004-

Landholding Agency: Energy

Property Number: 41199930016

Status: Unutilized

Reason: Secured Area

Bldg. 22B

Fernald Env. Mgmt. Proj.

Hamilton OH 45013-9402

Landholding Agency: Energy

Property Number: 41200020026

Status: Unutilized

Reasons: Within 2000 ft. of flammable or explosive material; Secured Area

Bldg. 53A

Fernald Env. Mgmt. Project

Fernald Co: Hamilton OH 45013-9402

Landholding Agency: Energy

Property Number: 41200120009

Status: Excess

Reason: Secured Area

Bldg. 8G

Fernald Environmental Mgmt Project

Hamilton OH 45013-

Landholding Agency: Energy

Property Number: 41200210003

Status: Excess

Reason: Secured Area

Bldg. 8H

Fernald Environmental Mgmt Project

Hamilton OH 45013-

Landholding Agency: Energy

Property Number: 41200210004

Status: Excess

Reason: Secured Area

Bldg. 94A

Fernald Environmental Mgmt Project

Hamilton OH 45013-

Landholding Agency: Energy

Property Number: 41200210005

Status: Excess

Reason: Secured Area

Bldg. 11

Fernald Env. Mgmt. Proj.

Hamilton OH 45013-

Landholding Agency: Energy

Property Number: 41200220026

Status: Excess

Reason: Secured Area

Bldg. 14A

Fernald Env. Mgmt. Proj

Hamilton OH 45013-

Landholding Agency: Energy

Property Number: 41200220027

Status: Excess

Reason: Secured Area

Bldg. 15C

Fernald Env. Mgmt. Proj.

Hamilton OH 45013-

Landholding Agency: Energy

Property Number: 41200220029

Status: Excess

Reason: Secured Area

Bldg. 20K

Fernald Env. Mgmt. Proj.

Hamilton OH 45013-

Landholding Agency: Energy

Property Number: 41200220030

Status: Excess

Reason: Secured Area

Bldg. 53B

Fernald Env. Mgmt. Proj.

Hamilton OH 45013-

Landholding Agency: Energy

Property Number: 41200220031

Status: Excess

Reason: Secured Area

Modular Ofc. Bldg.

RMI

Ashtabula OH 44004-

Landholding Agency: Energy

Property Number: 41200310008

Status: Excess

Reason: Contamination

Modular Lab Bldg.

RMI

Ashtabula OH 44004-

Landholding Agency: Energy

Property Number: 41200310009

Status: Excess

Reason: Contamination

Soil Storage Bldg.

RMI

Ashtabula OH 44004-

Landholding Agency: Energy

Property Number: 41200310010

Status: Excess

Reason: Contamination

Soil Washing Bldg.

RMI

Ashtabula OH 44004-

Landholding Agency: Energy

Property Number: 41200310011

Status: Excess

Reason: Contamination

Bldg. 16B

Fernald Env. Mgmt. Proj.

Hamilton Co: Butler OH 45013-

Landholding Agency: Energy

Property Number: 41200310012

Status: Excess

Reasons: Contamination; Secured Area

Bldg. 24C

Fernald Env. Mgmt. Proj.

Hamilton Co: Butler OH 45013-

Landholding Agency: Energy

Property Number: 41200310013

Status: Excess

Reasons: Contamination; Secured Area

Bldg. 50

Fernald Env. Mgmt. Proj.

Hamilton Co: Butler OH 45013-

Landholding Agency: Energy

Property Number: 41200310015

Status: Excess

Reasons: Contamination; Secured Area

Bldg. 52A

Fernald Env. Mgmt. Proj.

Hamilton Co: Butler OH 45013-

Landholding Agency: Energy

Property Number: 41200310016

Status: Excess

Reasons: Contamination; Secured Area

Bldg. 52B

Fernald Env. Mgmt. Proj.

Hamilton Co: Butler OH 45013-

Landholding Agency: Energy

Property Number: 41200310017

Status: Excess

Reasons: Contamination; Secured Area

Bldg. 116

VA Medical Center

Dayton Co: Montgomery OH 45428-

Landholding Agency: VA

Property Number: 97199920002

Status: Unutilized

Reason: Extensive deterioration

Bldg. 402

VA Medical Center

Dayton Co: Montgomery OH 45428-

Landholding Agency: VA

Property Number: 97199920004

Status: Unutilized

Reason: Extensive deterioration

Bldg. 105

VA Medical Center

Dayton Co: Montgomery OH 45428-

Landholding Agency: VA

Property Number: 97199920005

Status: Unutilized

Reason: Extensive deterioration

Oklahoma

Comfort Station

LeFlore Landing PUA

Sallisaw Co: LeFlore OK 74955-9445

Landholding Agency: COE

Property Number: 31200240008

Status: Excess

Reason: Extensive deterioration

Comfort Station

Braden Bend PUA

Sallisaw Co: LeFlore OK 74955-9445

Landholding Agency: COE

Property Number: 31200240009

Status: Excess

Reason: Extensive deterioration

Water Treatment Plant

Salt Creek Cove

Sawyer Co: Choctaw OK 74756-0099

Landholding Agency: COE

Property Number: 31200240010

Status: Excess

Reason: Extensive deterioration

Water Treatment Plant

Wilson Point

Sawyer Co: Choctaw OK 74756-0099

Landholding Agency: COE

Property Number: 31200240011

Status: Excess

Reason: Extensive deterioration

2 Comfort Stations

Landing PUA/Juniper Point PUA

Stigler Co: McIntosh OK 74462-9440

Landholding Agency: COE

Property Number: 31200240012

Status: Excess

Reason: Extensive deterioration

Filter Plant/Pumphouse

South PUA

Stigler Co: McIntosh OK 74462-9440

Landholding Agency: COE

Property Number: 31200240013

Status: Excess

Reason: Extensive deterioration

Filter Plant/Pumphouse

North PUA

Stigler Co: McIntosh OK 74462-9440

Landholding Agency: COE

Property Number: 31200240014

Status: Excess

Reason: Extensive deterioration

Filter Plant/Pumphouse

Juniper Point PUA

Stigler Co: McIntosh OK 74462-9440

Landholding Agency: COE

Property Number: 31200240015

Status: Excess

Reason: Extensive deterioration

Comfort Station

Juniper Point PUA

Stigler Co: McIntosh OK 74462-9440

Landholding Agency: COE

Property Number: 31200240016

Status: Excess

Reason: Extensive deterioration

Comfort Station

Brooken Cove PUA

Stigler Co: McIntosh OK 74462-9440

Landholding Agency: COE

Property Number: 31200240017

Status: Excess

Reason: Extensive deterioration

2 Bldgs.

Outlet Channel/Walker Creek

Waurika OK 73573-0029

Landholding Agency: COE

Property Number: 31200340013

Status: Excess

Reason: Extensive deterioration

2 Bldgs.

Damsite South

Stigler OK 74462-9440

Landholding Agency: COE

Property Number: 31200340014

Status: Excess

Reason: Extensive deterioration

19 Bldgs.

Kaw Lake

Ponca City OK 74601-9962

Landholding Agency: COE

Property Number: 31200340015

Status: Excess

Reason: Extensive deterioration

30 Bldgs.

Keystone Lake

Sand Springs OK 74063-9338

Landholding Agency: COE

Property Number: 31200340016

Status: Excess

Reason: Extensive deterioration

13 Bldgs.

Oologah Lake

Oologah OK 74053-0700

Landholding Agency: COE

Property Number: 31200340017

Status: Excess

Reason: Extensive deterioration

14 Bldgs.

Pine Creek Lake

Valliant OK 74764-9801

Landholding Agency: COE

Property Number: 31200340018

Status: Excess

Reason: Extensive deterioration

6 Bldgs.

Sardis Lake

Clayton OK 74536-9729

Landholding Agency: COE

Property Number: 31200340019

Status: Excess

Reason: Extensive deterioration

24 Bldgs.

Skiatook Lake

Skiatook OK 74070-9803

Landholding Agency: COE

Property Number: 31200340020

Status: Excess

Reason: Extensive deterioration

40 Bldgs.

Eufaula Lake

Stigler OK 74462-5135

Landholding Agency: COE

Property Number: 31200340021

Status: Excess

Reason: Extensive deterioration

2 Bldgs.

Holiday Cove

Stigler OK 74462-5135

Landholding Agency: COE

Property Number: 31200340022

Status: Excess

Reason: Extensive deterioration

18 Bldgs.

Fort Gibson

Ft. Gibson Co: Wagoner OK 74434-0370

Landholding Agency: COE

Property Number: 31200340023

Status: Excess

Reason: Extensive deterioration

2 Bldgs.

Fort Supply

Ft. Supply Co: Woodward OK 73841-0248

Landholding Agency: COE

Property Number: 31200340024

Status: Excess

Reason: Extensive deterioration

Game Bird House

Fort Supply Lake

Ft. Supply Co: Woodward OK 73841-0248

Landholding Agency: COE

Property Number: 31200340025

Status: Excess

Reason: Extensive deterioration

11 Bldgs.

Hugo Lake

Sawyer OK 74756-0099

Landholding Agency: COE

Property Number: 31200340026

Status: Excess

Reason: Extensive deterioration

5 Bldgs.

Birch Cove/Twin Cove

Skiatook OK 74070-9803

Landholding Agency: COE

Property Number: 31200340027

Status: Excess

Reason: Extensive deterioration

2 Bldgs.

Fairview Group Camp

Canton OK 73724-0069

Landholding Agency: COE

Property Number: 31200340028

Status: Excess

Reason: Extensive deterioration

2 Bldgs.

Chouteau & D Bluff

Gore Co: Wagoner OK 74935-9404

Landholding Agency: COE

Property Number: 31200340029

Status: Excess

Reason: Extensive deterioration

2 Bldgs.

Newt Graham L&D

Gore OK 74935-9404

Landholding Agency: COE

Property Number: 31200340030

Status: Excess

Reason: Extensive deterioration

6 Bldgs.

Damsite/Fisherman's Landing

Sallisaw OK 74955-9445

Landholding Agency: COE

Property Number: 31200340031

Status: Excess

Reason: Extensive deterioration

10 Bldgs.

Webbers Falls Lake

Gore OK 74435-5541

Landholding Agency: COE

Property Number: 31200340032

Status: Excess

Reason: Extensive deterioration

14 Bldgs.

Copan Lake

Copan OK 74022-9762

Landholding Agency: COE

Property Number: 31200340033

Status: Excess

Reason: Extensive deterioration

Oregon

2 Floating Docks

Rogue River

Gold Beach Co: Curry OR 97444-

Landholding Agency: COE

Property Number: 31200430015

Status: Excess

Reason: Floodway

Industrial Warehouse

2760 Yeon Avenue

Portland Co: OR 97210-

Landholding Agency: GSA

Property Number: 54200430009

Status: Surplus

Reason: Within 2000 ft. of flammable or explosive material

GSA Number: 9-G-OR-741

Bldg. 30

Naval Weapons Systems Training

Boardman Co: Morrow OR

Landholding Agency: Navy

Property Number: 77200210070

Status: Unutilized

Reason: Secured Area

Bldg. 31

11 Bldgs.

Naval Weapons Systems Training

Boardman Co: Morrow OR

Landholding Agency: Navy

Property Number: 77200210071

Status: Unutilized

Reason: Secured Area

Bldg. 32

Naval Weapons Systems Training

Boardman Co: Morrow OR

Landholding Agency: Navy

Property Number: 77200210072

Status: Unutilized

Reason: Secured Area

Bldg. 33

Naval Weapons Systems Training

Boardman Co: Morrow OR

Landholding Agency: Navy

Property Number: 77200210073

Status: Unutilized

Reason: Secured Area

Bldg. 35

Naval Weapons Systems Training

Boardman Co: Morrow OR

Landholding Agency: Navy

Property Number: 77200210074

Status: Unutilized

Reason: Secured Area

Bldg. 37

Naval Weapons Systems Training

Boardman Co: Morrow OR

Landholding Agency: Navy

Property Number: 77200210075

Status: Unutilized

Reason: Secured Area

Pennsylvania

Z-Bldg.

Bettis Atomic Power Lab

West Mifflin Co: Allegheny PA 15122-0109

Landholding Agency: Energy

Property Number: 41199720002

Status: Excess

Reason: Extensive deterioration

Bldg. 619

Naval Surface Warfare Center

Philadelphia PA 19112-

Landholding Agency: Navy

Property Number: 77200320063

Status: Excess

Reason: Within 2000 ft. of flammable or explosive material

Bldg. 106

Naval Support Activity

Mechanicsburg Co: Cumberland PA 17055-0788

Landholding Agency: Navy

Property Number: 77200330013

Status: Excess

Reason: Extensive deterioration

Bldg. 906

Naval Support Activity

Mechanicsburg Co: Cumberland PA 17055-0788

Landholding Agency: Navy

Property Number: 77200330014

Status: Excess

Reason: Extensive deterioration

Bldg. 567

Naval Surface Warfare Center

Philadelphia PA 19112-

Landholding Agency: Navy

Property Number: 77200330060

Status: Excess

Reason: Within 2000 ft. of flammable or explosive material

South Carolina

Prop. ID JST18895

Thurmond Project

Clarks Hill Co: McCormick SC

Landholding Agency: COE

Property Number: 31200310010

Status: Unutilized

Reason: Extensive deterioration

5 Bldgs.

Thurmond Project

Clarks Hill Co: McCormick SC

Location: JST15781, JST15784, JST15864, JST15866, TST15868

Landholding Agency: COE

Property Number: 31200310011

Status: Unutilized

Reason: Extensive deterioration

Prop. ID JST17133

Thurmond Project

Clarks Hill Co: McCormick SC

Landholding Agency: COE

Property Number: 31200310012

Status: Unutilized

Reason: Extensive deterioration

Prop. ID JST18428

Thurmond Project

Clarks Hill Co: McCormick SC

Landholding Agency: COE

Property Number: 31200310013

Status: Unutilized

Reason: Extensive deterioration

Bldg.

Fishing Creek/Deer Run

Clarks Hill SC 29821-0010

Landholding Agency: COE

Property Number: 31200340034

Status: Excess

Reason: Extensive deterioration

Bldg. 701-6G

Jackson Barricade

Jackson SC

Landholding Agency: Energy

Property Number: 41200420010

Status: Unutilized

Reason: Secured Area

Bldg. 211-000F

Nuclear Materials Processing Facility

Aiken SC 29802-

Landholding Agency: Energy

Property Number: 41200420011

Status: Excess

Reason: Secured Area

Bldg. 211-001F

Nuclear Materials Processing Facility

Aiken SC 29802-

Landholding Agency: Energy

Property Number: 41200420012

Status: Excess

Reason: Secured Area

Bldg. 211-002F

Nuclear Materials Processing Facility

Aiken SC 29802-

Landholding Agency: Energy

Property Number: 41200420013

Status: Excess

Reason: Secured Area

Bldg. 221-25F

Nuclear Materials Processing Facility

Aiken SC 29802-

Landholding Agency: Energy

Property Number: 41200420014

Status: Excess

Reason: Secured Area

Bldg. 221-001F

Nuclear Materials Processing Facility

Aiken SC 29802-

Landholding Agency: Energy

Property Number: 41200420015

Status: Excess

Reason: Secured Area

Bldg. 704-D

Federal Reserve Site

Aiken SC 29802-

Landholding Agency: Energy

Property Number: 41200420016

Status: Excess

Reason: Secured Area

Bldg. 703-F

Savannah River Operations

Aiken SC 29802-

Landholding Agency: Energy

Property Number: 41200420019

Status: Unutilized

Reason: Secured Area

Bldg. 721-A

Savannah River Operations

Aiken SC 29802-

Landholding Agency: Energy

Property Number: 41200420020

Status: Unutilized

Reason: Secured Area

Bldg. 724-A

Savannah River Operations

Aiken SC 29802-

Landholding Agency: Energy

Property Number: 41200420021

Status: Unutilized

Reason: Secured Area

Bldg. 730-M

Savannah River Operations

Aiken SC 29802-

Landholding Agency: Energy

Property Number: 41200420022

Status: Unutilized

Reason: Secured Area

Bldgs. 183-1R, 183-2R

Savannah River Operations

Aiken SC 29802-

Landholding Agency: Energy

Property Number: 41200420025

Status: Unutilized

Reason: Secured Area

Bldg. 186-C

Savannah River Operations

Aiken SC 29802-

Landholding Agency: Energy

Property Number: 41200420026

Status: Unutilized

Reason: Secured Area

Bldgs. 186-K, 186-1K

Savannah River Operations

Aiken SC 29802-

Landholding Agency: Energy

Property Number: 41200420027

Status: Unutilized

Reason: Secured Area

Bldgs. 186-P, 186-1P

Savannah River Operations

Aiken SC 29802-

Landholding Agency: Energy

Property Number: 41200420028

Status: Unutilized

Reason: Secured Area

Bldg. 190-C

Savannah River Operations

Aiken SC 29802-

Landholding Agency: Energy

Property Number: 41200420029

Status: Unutilized

Reason: Secured Area

Bldg. 190-K

Savannah River Operations

Aiken SC 29802-

Landholding Agency: Energy

Property Number: 41200420030

Status: Unutilized

Reason: Secured Area

Bldg. 190-P

Savannah River Operations

Aiken SC 29802-

Landholding Agency: Energy

Property Number: 41200420031

Status: Unutilized

Reason: Secured Area

Bldg. 186-R

Savannah River Site

Aiken Co: SC

Landholding Agency: Energy

Property Number: 41200430063

Status: Unutilized

Reason: Secured Area

Bldg. 190-R

Savannah River Site

Aiken Co: SC

Landholding Agency: Energy

Property Number: 41200430064

Status: Unutilized

Reason: Secured Area

Bldg. 230-H

Savannah River Site

Aiken Co: SC

Landholding Agency: Energy

Property Number: 41200430065

Status: Unutilized

Reason: Secured Area

4 Bldgs.

Savannah River Site

#281-2F, 281-5F, 285-F, 285-5F

Aiken Co: SC

Landholding Agency: Energy

Property Number: 41200430066

Status: Unutilized

Reason: Secured Area

Bldgs. 711-3N, 717-12N

Savannah River Site

Aiken Co: SC

Landholding Agency: Energy

Property Number: 41200430067

Status: Unutilized

Reason: Secured Area

Bldgs. 186L, 190L

Savannah River Site

Aiken Co: SC 29802-

Landholding Agency: Energy

Property Number: 41200430069

Status: Unutilized

Reason: Secured Area

Bldg. 7

Naval Weapons Station

Goose Creek Co: Berkeley SC 29445-

Landholding Agency: Navy

Property Number: 77200040030

Status: Unutilized

Reason: Secured Area

Bldgs. 314

Naval Weapons Station

Goose Creek Co: Berkeley SC 29445-

Landholding Agency: Navy

Property Number: 77200040031

Status: Unutilized

Reason: Secured Area

17 Bldgs.

Naval Weapons Station

Goose Creek Co: Berkeley SC 29445-

Landholding Agency: Navy

Property Number: 77200320017

Status: Unutilized

Reasons: Within 2000 ft. of flammable or explosive material; Secured Area

South Dakota

Mobile Home

Tract L-1295

Oahe Dam

Potter SD 00000-

Landholding Agency: COE

Property Number: 31200030001

Status: Excess

Reason: Extensive deterioration

Tennessee

Bldgs. 204

Cordell Hull Lake and Dam Project.

Defeated Creek Recreation Area

Carthage Co: Smith TN 37030-

Location: US Highway 85

Landholding Agency: COE

Property Number: 31199011499

Status: Unutilized

Reason: Floodway

Tract 2618 (Portion)

Cordell Hull Lake and Dam Project

Roaring River Recreation Area

Gainesboro Co: Jackson TN 38562-

Location: TN Highway 135

Landholding Agency: COE

Property Number: 31199011503

Status: Underutilized

Reason: Floodway

Water Treatment Plant

Dale Hollow Lake & Dam Project

Obey River Park, State Hwy 42

Livingston Co: Clay TN 38351-

Landholding Agency: COE

Property Number: 31199140011

Status: Excess

Reason: Water treatment plant

Water Treatment Plant

Dale Hollow Lake & Dam Project

Lillydale Recreation Area, State Hwy 53

Livingston Co: Clay TN 38351-

Landholding Agency: COE

Property Number: 31199140012

Status: Excess

Reason: Water treatment plant

Water Treatment Plant

Dale Hollow Lake & Dam Project

Willow Grove Recreational Area, Hwy No. 53

Livingston Co: Clay TN 38351-

Landholding Agency: COE

Property Number: 31199140013

Status: Excess

Reason: Water treatment plant

Comfort Station/Land

Cook Campground

Nashville Co: Davidson TN 37214-

Landholding Agency: COE

Property Number: 31200420024

Status: Unutilized

Reason: Floodway

Tracts 915, 920, 931C-1

Cordell Hull Dam/Reservoir

Cathage Co: Smith TN 37030-

Landholding Agency: COE

Property Number: 31200430016

Status: Unutilized

Reasons: Floodway; landlocked

Bldg. 3004

Oak Ridge National Lab

Oak Ridge Co: Roane TN 37831-

Landholding Agency: Energy

Property Number: 41199710002

Status: Unutilized

Reasons: Secured Area; Extensive deterioration

Bldgs. 9714-3, 9714-4, 9983-AY

Y-12 Pistol Range

Oak Ridge Co: Anderson TN 37831-

Landholding Agency: Energy

Property Number: 41199720004

Status: Unutilized

Reason: Secured Area

5 Bldgs.

K-724, K-725, K-1031, K-1131, K-1410

East Tennessee Technology Park

Oak Ridge Co: Roane TN 37831-

Landholding Agency: Energy

Property Number: 41199730001

Status: Unutilized

Reason: Extensive deterioration

Bldg. 9418-1

Y-12 Plant

Oak Ridge Co: Anderson TN 37831-

Landholding Agency: Energy

Property Number: 41199810026

Status: Unutilized

Reasons: Secured Area; Extensive deterioration

Bldg. 9825

Y-12 Plant

Oak Ridge Co: Anderson TN 37831-

Landholding Agency: Energy

Property Number: 41199810027

Status: Unutilized

Reason: Secured Area

17 Bldgs.

Oak Ridge Tech Park

Oak Ridge Co: Roane TN 37831-

Location: K-801, A-D, H, K-891, K-892, K1025A-E, K-1064B-E, H, K, L, K1206-E

Landholding Agency: Energy

Property Number: 41200310007

Status: Unutilized

Reasons: Secured Area; Extensive deterioration

Bldg. SC-3

ORISE

Oak Ridge Co: Anderson TN 37831-

Landholding Agency: Energy

Property Number: 41200340001

Status: Unutilized

Reasons: Secured Area; Extensive deterioration

5 Bldgs.

Naval Support Activity

430, 434, 762, 1765, 397

Millington TN 38054-

Landholding Agency: Navy

Property Number: 77200330045

Status: Excess

Reason: Secured Area

Texas

Comfort Station

Overlook PUA

Powderly Co: Lamar TX 75473-9801

Landholding Agency: COE

Property Number: 31200240018

Status: Excess

Reason: Extensive deterioration

58 Bldgs.

Texoma Lake

Denison TX 75020-6425

Landholding Agency: COE

Property Number: 31200340035

Status: Excess

Reason: Extensive deterioration

Zone 5, Bldg. FS-18

Pantex Plant

Amarillo Co: Carson TX 79120-

Landholding Agency: Energy

Property Number: 41200220044

Status: Unutilized

Reasons: Within 2000 ft. of flammable or explosive material; Secured Area

Zone 12, Bldg. 12-20

Pantex Plant

Amarillo Co: Carson TX 79120-

Landholding Agency: Energy

Property Number: 41200220053

Status: Unutilized

Reasons: Within 2000 ft. of flammable or explosive material; Secured Area

Bldgs. 12-017E, 12-019E

Pantex Plant

Amarillo Co: Carson TX 79120-

Landholding Agency: Energy

Property Number: 41200320010

Status: Unutilized

Reasons: Within 2000 ft. of flammable or explosive material; Secured Area

5 Bldgs.

Pantex Plant

#10-002, 11-009, 12-013, 12-078, 12-R-078

Amarillo Co: Carson TX 79120-

Landholding Agency: Energy

Property Number: 41200410003

Status: Unutilized

Reasons: Within 2000 ft. of flammable or explosive material; Secured Area

Bldg. 15-016

Pantex Plant

Amarillo Co: Carson TX 79120-

Landholding Agency: Energy

Property Number: 41200420017

Status: Unutilized

Reason: Secured Area

Bldg. 4-052P

Pantex Plant

Amarillo Co: Carson TX 79120-

Landholding Agency: Energy

Property Number: 41200420018

Status: Unutilized

Reason: Secured Area

Bldg. 113

Naval Air Station

Corpus Christi Co: Nueces TX 78419-

Landholding Agency: Navy

Property Number: 77200310054

Status: Excess

Reason: Within 2000 ft. of flammable or explosive material

Facility 13

Naval Air Station

Corpus Christi Co: Nueces TX 78419-5021

Landholding Agency: Navy

Property Number: 77200320051

Status: Excess

Reason: Extensive deterioration

Facility 94

Naval Air Station

Corpus Christi Co: Nueces TX 78419-5021

Landholding Agency: Navy

Property Number: 77200320052

Status: Excess

Reason: Extensive deterioration

Facility 1777

Naval Air Station

Corpus Christi Co: Nueces TX 78419-5021

Landholding Agency: Navy

Property Number: 77200320053

Status: Excess

Reason: Extensive deterioration

Bldg. 1302

Naval Air Station

Ft. Worth Co: Tarrant TX 76127-6200

Landholding Agency: Navy

Property Number: 77200330046

Status: Unutilized

Reasons: Secured Area; Extensive deterioration

Bldg. 1320

Naval Air Station

Ft. Worth Co: Tarrant TX 76127-6200

Landholding Agency: Navy

Property Number: 77200330047

Status: Unutilized

Reasons: Secured Area; Extensive deterioration

Bldg. 1509

Naval Air Station

Ft. Worth Co: Tarrant TX 76127-

Landholding Agency: Navy

Property Number: 77200330048

Status: Unutilized

Reasons: Secured Area; Extensive deterioration

Bldg. 39

Naval Air Station

Corpus Christi Co: Nueces TX 78419-5021

Landholding Agency: Navy

Property Number: 77200420034

Status: Excess

Reason: Extensive deterioration

Bldg. 1423

Naval Air Station

Ft. Worth Co: Tarant TX-

Landholding Agency: Navy

Property Number: 77200420054

Status: Unutilized

Reasons: Secured Area; Extensive deterioration

Bldg. 1560

Naval Air Station

Ft. Worth Co: Tarrant TX

Landholding Agency: Navy

Property Number: 77200420055

Status: Unutilized

Reasons: Secured Area; Extensive deterioration

Virginia

Bldg. O2

Naval Weapons Station

Yorktown Co: York VA 23691-

Landholding Agency: Navy

Property Number: 77199810073

Status: Excess

Reason: Extensive deterioration

Bldg. 449

Norfolk Naval Shipyard

Portsmouth VA 23709-

Landholding Agency: Navy

Property Number: 77199920068

Status: Excess

Reason: Extensive deterioration

Bldg. 450

Norfolk Naval Shipyard

Portsmouth VA 23709-

Landholding Agency: Navy

Property Number: 77199920069

Status: Excess

Reason: Extensive deterioration

Bldg. 451

Norfolk Naval Shipyard

Portsmouth VA 23709-

Landholding Agency: Navy

Property Number: 77199920070

Status: Excess

Reason: Extensive deterioration

Bldg. 453

Norfolk Naval Shipyard

Portsmouth VA 23709-

Landholding Agency: Navy

Property Number: 77199920071

Status: Excess

Reason: Extensive deterioration

Bldg. 454

Norfolk Naval Shipyard

Portsmouth VA 23709-

Landholding Agency: Navy

Property Number: 77199920072

Status: Excess

Reason: Extensive deterioration

Bldg. 708

Norfolk Naval Shipyard

Portsmouth VA 23709-

Landholding Agency: Navy

Property Number: 77199920073

Status: Excess

Reason: Extensive deterioration

Bldg. 709

Norfolk Naval Shipyard

Portsmouth VA 23709-

Landholding Agency: Navy

Property Number: 77199920074

Status: Excess

Reason: Extensive deterioration

Bldg. 710

Norfolk Naval Shipyard

Portsmouth VA 23709-

Landholding Agency: Navy

Property Number: 77199920075

Status: Excess

Reason: Extensive deterioration

Bldg. 711

Norfolk Naval Shipyard

Portsmouth VA 23709-

Landholding Agency: Navy

Property Number: 77199920076

Status: Excess

Reason: Extensive deterioration

Bldg. 712

Norfolk Naval Shipyard

Portsmouth VA 23709-

Landholding Agency: Navy

Property Number: 77199920077

Status: Excess

Reason: Extensive deterioration

Bldg. 713

Norfolk Naval Shipyard

Portsmouth VA 23709-

Landholding Agency: Navy

Property Number: 77199920078

Status: Excess

Reason: Extensive deterioration

Bldg. 714

Norfolk Naval Shipyard

Portsmouth VA 23709-

Landholding Agency: Navy

Property Number: 77199920079

Status: Excess

Reason: Extensive deterioration

Bldg. 715

Norfolk Naval Shipyard

Portsmouth VA 23709-

Landholding Agency: Navy

Property Number: 77199920080

Status: Excess

Reason: Extensive deterioration

Bldg. 716

Norfolk Naval Shipyard

Portsmouth VA 23709-

Landholding Agency: Navy

Property Number: 77199920081

Status: Excess

Reason: Extensive deterioration

Bldg. 717

Norfolk Naval Shipyard

Portsmouth VA 23709-

Landholding Agency: Navy

Property Number: 77199920082

Status: Excess

Reason: Extensive deterioration

Bldg. 718

Norfolk Naval Shipyard

Portsmouth VA 23709-

Landholding Agency: Navy

Property Number: 77199920083

Status: Excess

Reason: Extensive deterioration

Bldg. 1454

Norfolk Naval Shipyard

Portsmouth VA 23709-

Landholding Agency: Navy

Property Number: 77199920084

Status: Excess

Reason: Extensive deterioration

Bldg. 7

Naval Weapons Station

Yorktown VA 23691-

Landholding Agency: Navy

Property Number: 77200020009

Status: Unutilized

Reasons: Within 2000 ft. of flammable or explosive material; Secured Area

Bldg. 12

Naval Weapons Station

Yorktown VA 23691-

Landholding Agency: Navy

Property Number: 77200020010

Status: Unutilized

Reasons: Within 2000 ft. of flammable or explosive material; Secured Area; Extensive deterioration

Bldg. 24

Naval Weapons Station

Yorktown VA 23691-

Landholding Agency: Navy

Property Number: 77200020011

Status: Unutilized

Reasons: Within 2000 ft. of flammable or explosive material; Secured Area

Bldg. 34

Naval Weapons Station

Yorktown VA 23691-

Landholding Agency: Navy

Property Number: 77200020012

Status: Unutilized

Reasons: Within 2000 ft. of flammable or explosive material; Secured Area

Bldg. 103B

Naval Weapons Station

Yorktown VA 23691-

Landholding Agency: Navy

Property Number: 77200120049

Status: Excess

Reasons: Secured Area; Extensive deterioration

Bldg. B402

Naval Surface Warfare Center

Dalgren Co: King George VA 22448-

Landholding Agency: Navy

Property Number: 77200120059

Status: Unutilized

Reason: Extensive deterioration

Bldg. B425

Naval Surface Warfare Center

Dalgren Co: King George VA 22448-

Landholding Agency: Navy

Property Number: 77200120060

Status: Unutilized

Reason: Extensive deterioration

Bldg. B1379

Naval Surface Warfare Center

Dahlgren Co: King George VA 22448-

Landholding Agency: Navy

Property Number: 77200130066

Status: Unutilized

Reason: Extensive deterioration

Bldg. 51

Naval Weapons Station

Yorktown VA 23691-

Landholding Agency: Navy

Property Number: 77200220054

Status: Excess

Reasons: Within 2000 ft. of flammable or explosive material; Secured Area; Extensive deterioration

Bldg. 79

Naval Weapons Station

Yorktown VA 23691-

Landholding Agency: Navy

Property Number: 77200220055

Status: Excess

Reasons: Within 2000 ft. of flammable or explosive material; Secured Area

Bldg. 89

Naval Weapons Station

Yorktown VA 23691-

Landholding Agency: Navy

Property Number: 77200220056

Status: Excess

Reasons: Within 2000 ft. of flammable or explosive material; Secured Area

5 Bldgs.

Naval Weapons Station

#90, 91, 95, 96, 101

Yorktown VA 23691-

Landholding Agency: Navy

Property Number: 77200220057

Status: Excess

Reasons: Within 2000 ft. of flammable or explosive material; Secured Area; Extensive deterioration

Bldg. 119A

Naval Weapons Station

Yorktown VA 23691-

Landholding Agency: Navy

Property Number: 77200220058

Status: Excess

Reasons: Within 2000 ft. of flammable or explosive material; Secured Area

Bldg. 378

Naval Weapons Station

Yorktown VA 23691-

Landholding Agency: Navy

Property Number: 77200220059

Status: Excess

Reasons: Within 2000 ft. of flammable or explosive material; Secured Area

Bldg. 398

Naval Weapons Station

Yorktown VA 23691-

Landholding Agency: Navy

Property Number: 77200220060

Status: Excess

Reasons: Within 2000 ft. of flammable or explosive material; Secured Area; Extensive deterioration

Bldg. 415

Naval Weapons Station

Yorktown VA 23691-

Landholding Agency: Navy

Property Number: 77200220061

Status: Excess

Reasons: Within 2000 ft. of flammable or explosive material; Secured Area; Extensive deterioration

Bldgs. 440, 441

Naval Weapons Station

Yorktown VA 23691-

Landholding Agency: Navy

Property Number: 77200220062

Status: Excess

Reasons: Within 2000 ft. of flammable or explosive material; Secured Area; Extensive deterioration

Bldg. 508

Naval Weapons Station

Yorktown VA 23691-

Landholding Agency: Navy

Property Number: 77200220063

Status: Excess

Reasons: Within 2000 ft. of flammable or explosive material; Secured Area; Extensive deterioration

Bldg. 510

Naval Weapons Station

Yorktown VA 23691-

Landholding Agency: Navy

Property Number: 77200220064

Status: Excess

Reasons: Within 2000 ft. of flammable or explosive material; Secured Area; Extensive deterioration

Bldg. 605

Naval Weapons Station

Yorktown VA 23691-

Landholding Agency: Navy

Property Number: 77200220065

Status: Excess

Reasons: Within 2000 ft. of flammable or explosive material; Secured Area

Bldg. 624

Naval Weapons Station

Yorktown VA 23691-

Landholding Agency: Navy

Property Number: 77200220066

Status: Excess

Reasons: Within 2000 ft. of flammable or explosive material; Secured Area; Extensive deterioration

Bldg. 688

Naval Weapons Station

Yorktown VA 23691-

Landholding Agency: Navy

Property Number: 77200220067

Status: Excess

Reasons: Within 2000 ft. of flammable or explosive material; Secured Area

Bldgs. 1271, 1272, 1273

Naval Weapons Station

Yorktown VA 23691-

Landholding Agency: Navy

Property Number: 77200220068

Status: Excess

Reason: Secured Area

Bldgs. 1465, 1466

Naval Weapons Station

Yorktown VA 23691-

Landholding Agency: Navy

Property Number: 77200220069

Status: Excess

Reasons: Within 2000 ft. of flammable or explosive material; Secured Area

Bldgs. 1467, 1468, 1469

Naval Weapons Station

Yorktown VA 23691-

Landholding Agency: Navy

Property Number: 77200220070

Status: Excess

Reasons: Within 2000 ft. of flammable or explosive material; Secured Area

Bldg. 1799

Naval Weapons Station

Yorktown VA 23691-

Landholding Agency: Navy

Property Number: 77200220071

Status: Excess

Reasons: Within 2000 ft. of flammable or explosive material; Secured Area

Bldg. CAD40

Naval Weapons Station

Yorktown VA 23691-

Landholding Agency: Navy

Property Number: 77200220084

Status: Excess

Reason: Secured Area

Bldg. CAD41

Naval Weapons Station

Yorktown VA 23691-

Landholding Agency: Navy

Property Number: 77200220085

Status: Excess

Reason: Secured Area

Bldg. CAD479

Naval Weapons Station

Yorktown VA 23691-

Landholding Agency: Navy

Property Number: 77200220086

Status: Excess

Reason: Secured Area

Pier R-1

Naval Weapons Station

Yorktown VA 23691-

Landholding Agency: Navy

Property Number: 77200240053

Status: Unutilized

Reasons: Within 2000 ft. of flammable or explosive material; Secured Area

Bldg. 709

Naval Weapons Station

Yorktown VA 23691-

Landholding Agency: Navy

Property Number: 77200240054

Status: Unutilized

Reasons: Within 2000 ft. of flammable or explosive material; Secured Area

Bldg. 1443/adj. bldg.

Norfolk Naval Shipyard

Portsmouth VA 23704-

Landholding Agency: Navy

Property Number: 77200320018

Status: Excess

Reason: Extensive deterioration

Bldgs. 3375, 3610-3612

Naval Amphibious Base

Little Creek

Norfolk VA 23521-

Landholding Agency: Navy

Property Number: 77200410001

Status: Excess

Reason: Extensive deterioration

Bldgs. Q-5A, Q-71

Naval Station

Norfolk Co: VA 23511-

Landholding Agency: Navy

Property Number: 77200430046

Status: Unutilized

Reason: Extensive deterioration

Bldg. W-153

Naval Station

Norfolk Co: VA 23511-

Landholding Agency: Navy

Property Number: 77200430047

Status: Unutilized

Reason: Extensive deterioration

2 Fuel Transfer Pits

Naval Station

Norfolk Co: VA 23511-

Landholding Agency: Navy

Property Number: 77200430048

Status: Unutilized

Reason: Extensive deterioration

Washington

Rec Storage Bldg.

Richland Parks

Richland Co: Benton WA 99352-

Landholding Agency: COE

Property Number: 31200240019

Status: Unutilized

Reason: Extensive deterioration

Railroad Club Bldg.

McNary Lock & Dam Proj

Richland Co: Benton WA 99352-

Landholding Agency: COE

Property Number: 31200410006

Status: Excess

Reason: Within 2000 ft. of flammable or explosive material

Bldg. 6661

Naval Submarine Base, Bangor

Silverdale Co: Kitsap WA 98315-6499

Landholding Agency: Navy

Property Number: 77199730039

Status: Unutilized

Reason: Secured Area

Bldg. 604

Manchester Fuel Department

Port Orchard WA 98366-

Landholding Agency: Navy

Property Number: 77199810170

Status: Excess

Reasons:

Within 2000 ft. of flammable or explosive material; Secured Area

Bldg. 288

Fleet Industrial Supply Center

Bremerton WA 98314-5100

Landholding Agency: Navy

Property Number: 77199810171

Status: Excess

Reasons: Within 2000 ft. of flammable or explosive material; Secured Area

Bldg. 47

Naval Radio Station T Jim Creek

Arlington Co: Snohomish WA 98223-

Landholding Agency: Navy

Property Number: 77199820056

Status: Unutilized

Reasons: Secured Area; Extensive deterioration

Bldg. 48

Naval Radio Station T Jim Creek

Arlington Co: Snohomish WA 98223-

Landholding Agency: Navy

Property Number: 77199820057

Status: Unutilized

Reasons: Secured Area; Extensive deterioration

Coal Handling Facilities

Puget Sound Naval Shipyard

#908, 919, 926-929

Bremerton WA 98314-5000

Landholding Agency: Navy

Property Number: 77199820142

Status: Excess

Reason: Within 2000 ft. of flammable or explosive material

Bldg. 193

Puget Sound Naval Shipyard

Bremerton WA 98310-

Landholding Agency: Navy

Property Number: 77199820143

Status: Unutilized

Reason: Contamination

Bldg. 202

Naval Air Station Whidbey Island

Oak Harbor WA 98278-

Landholding Agency: Navy

Property Number: 77199830019

Status: Excess

Reason: Within 2000 ft. of flammable or explosive material

Bldg. 2649

Naval Air Station Whidbey Island

Oak Harbor WA 98278-

Landholding Agency: Navy

Property Number: 77199830020

Status: Excess

Reasons: Within 2000 ft. of flammable or explosive material; Extensive deterioration

Bldgs. 35, 36

Naval Radio Station T Jim Creek

Arlington Co: Snohomish WA 98223-

Landholding Agency: Navy

Property Number: 77199830076

Status: Unutilized

Reason: Extensive deterioration

Bldg. 918

Puget Sound Naval Shipyard

Bremerton WA 98314-5000

Landholding Agency: Navy

Property Number: 77199840020

Status: Unutilized

Reasons: Within 2000 ft. of flammable or explosive material; Secured Area

Bldg. 894

Naval Undersea Warfare Center

Keyport Co: Kitsap WA 98345-7610

Landholding Agency: Navy

Property Number: 77199920085

Status: Underutilized

Reasons: Within 2000 ft. of flammable or explosive material; Secured Area

Bldg. 73

Naval Undersea Warfare Center

Keyport Co: Kitsap WA 98345-

Landholding Agency: Navy

Property Number: 77199920152

Status: Underutilized

Reasons: Within 2000 ft. of flammable or explosive material; Secured Area

Bldg. 210A

Naval Station Bremerton

Bremerton WA 98314-

Landholding Agency: Navy

Property Number: 77199930021

Status: Excess

Reasons: Within 2000 ft. of flammable or explosive material; Secured Area

Bldg. 511

Naval Station Bremerton

Bremerton WA 98314-

Landholding Agency: Navy

Property Number: 77199930022

Status: Excess

Reasons: Within 2000 ft. of flammable or explosive material; Secured Area; Extensive deterioration

Bldg. 527

Naval Station Bremerton

Bremerton WA 98314-

Landholding Agency: Navy

Property Number: 77199930023

Status: Excess

Reasons: Within 2000 ft. of flammable or explosive material; Secured Area

Bldg. 97

Naval Air Station

Whidbey Island

Oak Harbor WA 98278-

Landholding Agency: Navy

Property Number: 77199930040

Status: Unutilized

Reason: Extensive deterioration

Bldg. 331

Naval Undersea Warfare Center

Keyport Co: Kitsap WA 98345-

Landholding Agency: Navy

Property Number: 77199930041

Status: Unutilized

Reasons: Secured Area; Extensive deterioration

Bldg. 786

Naval Undersea Warfare Center

Keyport Co: Kitsap WA 98345-

Landholding Agency: Navy

Property Number: 77199930042

Status: Unutilized

Reasons: Secured Area; Extensive deterioration

Bldg. 15

Naval Air Station, Whidbey Island

Oak Harbor WA 98278-3500

Landholding Agency: Navy

Property Number: 77199930071

Status: Unutilized

Reason: Extensive deterioration

Bldg. 119

Naval Air Station, Whidbey Island

Oak Harbor WA 98278-3500

Landholding Agency: Navy

Property Number: 77199930072

Status: Unutilized

Reason: Extensive deterioration

Bldg. 853

Naval Air Station, Whidbey Island

Oak Harbor WA 98278-3500

Landholding Agency: Navy

Property Number: 77199930073

Status: Unutilized

Reason: Extensive deterioration

Bldg. 854

Naval Air Station, Whidbey Island

Oak Harbor WA 98278-3500

Landholding Agency: Navy

Property Number: 77199930074

Status: Unutilized

Reason: Extensive deterioration

Bldg. 166

Puget Sound Naval Shipyard

Bremerton WA 98314-5000

Landholding Agency: Navy

Property Number: 77199930101

Status: Excess

Reason: Secured Area

Bldg. 287

Puget Sound Naval Shipyard

Bremerton WA 98314-5000

Landholding Agency: Navy

Property Number: 77199930102

Status: Excess

Reason: Secured Area

Bldg. 418

Puget Sound Naval Shipyard

Bremerton WA 98314-5000

Landholding Agency: Navy

Property Number: 77199930103

Status: Excess

Reason: Secured Area

Bldg. 858

Puget Sound Naval Shipyard

Bremerton WA 98314-5000

Landholding Agency: Navy

Property Number: 77199930104

Status: Excess

Reason: Secured Area

Bldg. 17

Naval Radio Station

Jim Creek

Arlington WA 98223-8599

Landholding Agency: Navy

Property Number: 77200010073

Status: Excess

Reasons: Secured Area; Extensive deterioration

Bldg. 47

Naval Undersea Warfare

Keyport Co: Kitsap WA 98345-7610

Landholding Agency: Navy

Property Number: 77200010074

Status: Unutilized

Reasons: Within 2000 ft. of flammable or explosive material; Secured Area

Whitney Point Complex

Brinnon Co: Jefferson WA 98320-9899

Landholding Agency: Navy

Property Number: 77200010102

Status: Excess

Reason: Extensive deterioration

Bldg. 398

Naval Station

Bremerton WA 98314-5000

Landholding Agency: Navy

Property Number: 77200020038

Status: Unutilized

Reasons: Within 2000 ft. of flammable or explosive material; Secured Area

Bldg. 976

Naval Station

Bremerton WA 98314-5020

Landholding Agency: Navy

Property Number: 77200020039

Status: Unutilized

Reasons: Within 2000 ft. of flammable or explosive material; Secured Area; Extensive deterioration

8 Bldgs.

Naval Station

902, 903, 905, 907, 909-911, 915

Bremerton WA 98314-5020

Landholding Agency: Navy

Property Number: 77200020040

Status: Unutilized

Reasons: Within 2000 ft. of flammable or explosive material; Secured Area

Bldg. 109

Naval Weapons Station

Port Hadlock Co: Jefferson WA 98339-9723

Landholding Agency: Navy

Property Number: 77200030020

Status: Unutilized

Reasons: Within 2000 ft. of flammable or explosive material; Secured Area; Extensive deterioration

Bldg. 157

Naval Weapons Station

Port Hadlock Co: Jefferson WA 98339-9723

Landholding Agency: Navy

Property Number: 77200030021

Status: Unutilized

Reasons: Within 2000 ft. of flammable or explosive material; Secured Area; Extensive deterioration

Bldg. 161

Naval Weapons Station

Port Hadlock Co: Jefferson WA 98339-9723

Landholding Agency: Navy

Property Number: 77200030022

Status: Unutilized

Reasons: Within 2000 ft. of flammable or explosive material; Secured Area; Extensive deterioration

Bldg. 170

Naval Weapons Station

Port Hadlock Co: Jefferson WA 98339-9723

Landholding Agency: Navy

Property Number: 77200030023

Status: Unutilized

Reasons: Within 2000 ft. of flammable or explosive material; Secured Area; Extensive deterioration

Bldg. 262

Naval Weapons Station

Port Hadlock Co: Jefferson WA 98339-9723

Landholding Agency: Navy

Property Number: 77200030024

Status: Unutilized

Reasons: Within 2000 ft. of flammable or explosive material; Secured Area; Extensive deterioration

Bldg. 482

Puget Sound Naval Shipyard

Bremerton WA 98314-5000

Landholding Agency: Navy

Property Number: 77200040019

Status: Excess

Reason: Secured Area

Bldg. 529

Puget Sound Naval Shipyard

Bremerton WA 98314-5000

Landholding Agency: Navy

Property Number: 77200040020

Status: Excess

Reason: Secured Area

Bldg. 133

Naval Undersea Warfare Station

Keyport Co: Kitsap WA 98345-7610

Landholding Agency: Navy

Property Number: 77200120133

Status: Unutilized

Reasons: Within 2000 ft. of flammable or explosive material; Secured Area; Extensive deterioration

Bldg. 2511

NAS Whidbey Island

Oak Harbor Co: Island WA 98278-3500

Landholding Agency: Navy

Property Number: 77200120157

Status: Excess

Reason: Secured Area

Bldg. 98

Naval Air Station

Oak Harbor Co: Whidbey Island WA 98278-

Landholding Agency: Navy

Property Number: 77200220022

Status: Unutilized

Reasons: Within 2000 ft. of flammable or explosive material; Floodway; Extensive deterioration

Bldg. 2667

Naval Air Station

Oak Harbor Co: Whidbey Island WA 98278-

Landholding Agency: Navy

Property Number: 77200220023

Status: Unutilized

Reasons: Within 2000 ft. of flammable or explosive material; Floodway; Extensive deterioration

Bldg. 899

Puget Sound Naval Shipyard

Bremerton WA 98314-5000

Landholding Agency: Navy

Property Number: 77200230032

Status: Unutilized

Reasons: Within 2000 ft. of flammable or explosive material; Secured Area

Bldgs. 935, 936, 956, 957

Naval Station

Bremerton WA 98314-5020

Landholding Agency: Navy

Property Number: 77200230041

Status: Excess

Reasons: Within 2000 ft. of flammable or explosive material; Secured Area

Bldg. 1990

Naval Station

Everett Co: Snohomish WA 98207-5001

Landholding Agency: Navy

Property Number: 77200230044

Status: Excess

Reasons: Secured Area; Extensive deterioration

Bldg. 530

Naval Station

Bremerton WA 98314-5020

Landholding Agency: Navy

Property Number: 77200230058

Status: Excess

Reasons: Within 2000 ft. of flammable or explosive material; Secured Area

Bldg. 878

Naval Station

Bremerton WA 98314-5020

Landholding Agency: Navy

Property Number: 77200230059

Status: Excess

Reasons: Within 2000 ft. of flammable or explosive material; Secured Area

Bldg. 904

Naval Station

Fort Lawton

Everett Co: Snohomish WA 98207-5001

Landholding Agency: Navy

Property Number: 77200230060

Status: Excess

Reason: Extensive deterioration

Bldg. 66

Naval Magazine

Indian Island

Port Hadlock Co: Jefferson WA 98339-9723

Landholding Agency: Navy

Property Number: 77200240032

Status: Unutilized

Reasons: Within 2000 ft. of flammable or explosive material; Secured Area; Extensive deterioration

Bldg. 67

Naval Magazine

Indian Island

Port Hadlock Co: Jefferson WA 98339-9723

Landholding Agency: Navy

Property Number: 77200240033

Status: Unutilized

Reasons: Within 2000 ft. of flammable or explosive material; Secured Area; Extensive deterioration

Bldg. 180

Naval Magazine

Indian Island

Port Hadlock Co: Jefferson WA 98339-9723

Landholding Agency: Navy

Property Number: 77200240034

Status: Unutilized

Reasons: Within 2000 ft. of flammable or explosive material; Secured Area; Extensive deterioration

Bldg. 182

Naval Magazine

Indian Island

Port Hadlock Co: Jefferson WA 98339-9723

Landholding Agency: Navy

Property Number: 77200240035

Status: Unutilized

Reasons: Within 2000 ft. of flammable or explosive material; Secured Area; Extensive deterioration

Bldg. 214

Naval Magazine Indian Island

Port Hadlock Co: Jefferson WA 98339-9723

Landholding Agency: Navy

Property Number: 77200240036

Status: Unutilized

Reasons: Within 2000 ft. of flammable or explosive material; Secured Area; Extensive deterioration

Bldg. 273

Naval Magazine

Indian Island

Port Hadlock Co: Jefferson WA 98339-9723

Landholding Agency: Navy

Property Number: 77200240037

Status: Unutilized

Reasons: Within 2000 ft. of flammable or explosive material; Secured Area; Extensive deterioration

Bldg. 937

Naval Undersea Warfare

Keyport Co: Kitsap WA 98345-7610

Landholding Agency: Navy

Property Number: 77200240038

Status: Unutilized

Reasons: Within 2000 ft. of flammable or explosive material; Secured Area

Bldg. 2801A

Naval Undersea Warfare

Keyport Co: Kitsap WA 98345-7610

Landholding Agency: Navy

Property Number: 77200240039

Status: Unutilized

Reasons: Within 2000 ft. of flammable or explosive material; Secured Area

Bldg. 7634

Naval Undersea Warfare

Keyport Co: Kitsap WA 98345-7610

Landholding Agency: Navy

Property Number: 77200240040

Status: Unutilized

Reasons: Within 2000 ft. of flammable or explosive material; Secured Area

Bldg. 2633

Naval Air Station

Oak Harbor Co: Island WA 98278-

Landholding Agency: Navy

Property Number: 77200340052

Status: Excess

Reason: Extensive deterioration

Land (by State)

Arizona

58 acres

VA Medical Center

500 Highway 89 North

Prescott Co: Yavapai AZ 86313-

Landholding Agency: VA

Property Number: 97190630001

Status: Unutilized

Reason: Floodway

20 acres

VA Medical Center

500 Highway 89 North

Prescott Co: Yavapai AZ 86313-

Landholding Agency: VA

Property Number: 97190630002

Status: Underutilized

Reason: Floodway

California

Space Surv. Field Station

Portion/Off Heritage Road

San Diego CA 90012-1408

Landholding Agency: Navy

Property Number: 77199820049

Status: Excess

Reason: Within 2000 ft. of flammable or explosive material

Florida

Wildlife Sanctuary, VAMC

10,000 Bay Pines Blvd.

Bay Pines Co: Pinellas FL 33504-

Landholding Agency: VA

Property Number: 97199230004

Status: Underutilized

Reason: Inaccessible

Kentucky

Tract 4626

Barkley, Lake, Kentucky and Tennessee

Donaldson Creek Launching Area

Cadiz Co: Trigg KY 42211-

Location: 14 miles from US Highway 68.

Landholding Agency: COE

Property Number: 31199010030

Status: Underutilized

Reason: Floodway

Tract AA-2747

Wolf Creek Dam and Lake Cumberland

US HWY. 27 to Blue John Road

Burnside Co: Pulaski KY 42519-

Landholding Agency: COE

Property Number: 31199010038

Status: Underutilized

Reason: Floodway

Tract AA-2726

Wolf Creek Dam and Lake Cumberland

KY HWY. 80 to Route 769

Burnside Co: Pulaski KY 42519-

Landholding Agency: COE

Property Number: 31199010039

Status: Underutilized

Reason: Floodway

Tract 1358

Barkley Lake, Kentucky and Tennessee

Eddyville Recreation Area

Eddyville Co: Lyon KY 42038-

Location: US Highway 62 to state highway 93.

Landholding Agency: COE

Property Number: 31199010043

Status: Excess

Reason: Floodway

Red River Lake Project

Stanton Co: Powell KY 40380-

Location: Exit Mr. Parkway at the Stanton and Slade Interchange, then take SR Hand 15 north to SR 613.

Landholding Agency: COE

Property Number: 31199011684

Status: Unutilized

Reason: Floodway

Barren River Lock & Dam No. 1

Richardsville Co: Warren KY 42270-

Landholding Agency: COE

Property Number: 31199120008

Status: Unutilized

Reason: Floodway

Green River Lock & Dam No. 3

Rochester Co: Butler KY 42273-

Location: Off State Hwy. 369, which runs off of Western Ky. Parkway

Landholding Agency: COE

Property Number: 31199120009

Status: Unutilized

Reason: Floodway

Green River Lock & Dam No. 4

Woodbury Co: Butler KY 42288-

Location: Off State Hwy 403, which is off State Hwy 231

Landholding Agency: COE

Property Number: 31199120014

Status: Underutilized

Reason: Floodway

Green River Lock & Dam No. 5

Readville Co: Butler KY 42275-

Location: Off State Highway 185

Landholding Agency: COE

Property Number: 31199120015

Status: Unutilized

Reason: Floodway

Green River Lock & Dam No. 6

Brownsville Co: Edmonson KY 42210-

Location: Off State Highway 259

Landholding Agency: COE

Property Number: 31199120016

Status: Underutilized

Reason: Floodway

Vacant land west of locksite

Greenup Locks and Dam

5121 New Dam Road

Rural Co: Greenup KY 41144-

Landholding Agency: COE

Property Number: 31199120017

Status: Unutilized

Reason: Floodway

Maryland

Tract 131R

Youghiogheny River Lake, Rt. 2, Box 100

Friendsville Co: Garrett MD

Landholding Agency: COE

Property Number: 31199240007

Status: Underutilized

Reason: Floodway

Land/10,000 sq. ft.

Indian Head Division

Indian Head Co: Charles MD 20646-

Landholding Agency: Navy

Property Number: 77200330044

Status: Underutilized

Reason: Secured Area

Minnesota

3.85 acres (Area #2)

VA Medical Center

4801 8th Street

St. Cloud Co: Stearns MN 56303-

Landholding Agency: VA

Property Number: 97199740004

Status: Unutilized

Reason: landlocked

7.48 acres (Area #1)

VA Medical Center

4801 8th Street

St. Cloud Co: Stearns MN 56303-

Landholding Agency: VA

Property Number: 97199740005

Status: Underutilized

Reason: Secured Area

Mississippi

Parcel 1

Grenada Lake

Section 20

Grenada Co: Grenada MS 38901-0903

Landholding Agency: COE

Property Number: 31199011018

Status: Underutilized

Reason: Within airport runway clear zone

Missouri

Ditch 19, Item 2, Tract No. 230

St. Francis Basin Project

2½ miles west of Malden Co: Dunklin MO

Landholding Agency: COE

Property Number: 31199130001

Status: Unutilized

Reason: Floodway

Montana

Sewage Lagoons/40 acres

VA Center

Ft. Harrison MT 59639-

Landholding Agency: VA

Property Number: 97200340007

Status: Excess

Reason: Floodway

New Jersey

2.1 acres

Naval Weapons Station

Earle NJ

Landholding Agency: Navy

Property Number: 77200320016

Status: Excess

Reason: Secured Area

New York

Tract 1

VA Medical Center

Bath Co: Steuben NY 14810-

Location: Exit 38 off New York State Route 17.

Landholding Agency: VA

Property Number: 97199010011

Status: Unutilized

Reason: Secured Area

Tract 2

VA Medical Center

Bath Co: Steuben NY 14810-

Location: Exit 38 off New York State Route 17.

Landholding Agency: VA

Property Number: 97199010012

Status: Underutilized

Reason: Secured Area

Tract 3

VA Medical Center

Bath Co: Steuben NY 14810-

Location: Exit 38 off New York State Route 17.

Landholding Agency: VA

Property Number: 97199010013

Status: Underutilized

Reason: Secured Area

Tract 4

VA Medical Center

Bath Co: Steuben NY 14810-

Location: Exit 38 off New York State Route 17.

Landholding Agency: VA

Property Number: 97199010014

Status: Unutilized

Reason: Secured Area

North Carolina

0.85 parcel of land

Marine Corps Air Station, Cherry Point

Havelock Co: Craven NC 28533-

Landholding Agency: Navy

Property Number: 77199740074

Status: Unutilized

Reason: Secured Area

5 (0.91) Parcels

Marine Corps Base

Camp Lejeune NC

Landholding Agency: Navy

Property Number: 77200210080

Status: Underutilized

Reason: Secured Area

3 (0.91) Parcels

Marine Corps Base

Greater Sandy Run

Camp Lejeune NC

Landholding Agency: Navy

Property Number: 77200210081

Status: Underutilized

Reasons: Within airport runway clear zone; Secured Area

River Road Site

Marine Corps Base

Camp Lejeune Co: NC

Landholding Agency: Navy

Property Number: 77200430043

Status: Underutilized

Reason: Secured Area

Courthouse Bay Site

Marine Corps Base

Camp Lejeune Co: NC

Landholding Agency: Navy

Property Number: 77200430044

Status: Underutilized

Reason: Secured Area

Sneads Ferry Site

Marine Corps Base

Camp Lejeune Co: NC

Landholding Agency: Navy

Property Number: 77200430045

Status: Underutilized

Reason: Secured Area

Ohio

Mosquito Creek Lake

Everett Hull Road Boat Launch

Cortland Co: Trumbull OH 44410-9321

Landholding Agency: COE

Property Number: 31199440007

Status: Underutilized

Reason: Floodway

Mosquito Creek Lake

Housel-Craft Rd., Boat Launch

Cortland Co: Trumbull OH 44410-9321

Landholding Agency: COE

Property Number: 31199440008

Status: Underutilized

Reason: Floodway

36 Site Campground

German Church Campground

Berlin Center Co: Portage OH 44401-9707

Landholding Agency: COE

Property Number: 31199810001

Status: Unutilized

Reason: Floodway

Pennsylvania

Lock and Dam #7

Monongahela River

Greensboro Co: Greene PA

Location: Left hand side of entrance roadway to project.

Landholding Agency: COE

Property Number: 31199011564

Status: Unutilized

Reason: Floodway

Mercer Recreation Area

Shenango Lake

Transfer Co: Mercer PA 16154-

Landholding Agency: COE

Property Number: 31199810002

Status: Unutilized

Reason: Floodway

Tract No. B-212C

Upstream from Gen. Jadwin Dam & Reservoir

Honesdale Co: Wayne PA 18431-

Landholding Agency: COE

Property Number: 31200020005

Status: Unutilized

Reason: Floodway

Puerto Rico

Site 1

Naval Station Roosevelt Roads

Ceiba PR 00735-

Landholding Agency: Navy

Property Number: 77200320029

Status: Unutilized

Reason: Secured Area

Site 2

Naval Station Roosevelt Roads

Ceiba PR 00735-

Landholding Agency: Navy

Property Number: 77200320030

Status: Unutilized

Reason: Secured Area

Site 3

Naval Station Roosevelt Roads

Ceiba PR 00735-

Landholding Agency: Navy

Property Number: 77200320031

Status: Unutilized

Reason: Secured Area

Site 4

Naval Station Roosevelt Roads

Ceiba PR 00735-

Landholding Agency: Navy

Property Number: 77200320032

Status: Unutilized

Reason: Secured Area

Tennessee

Brooks Bend

Cordell Hull Dam and Reservoir

Highway 85 to Brooks Bend Road

Gainesboro Co: Jackson TN 38562-

Location: Tracts 800, 802-806, 835-837, 900-902, 1000-1003, 1025

Landholding Agency: COE

Property Number: 21199040413

Status: Underutilized

Reason: Floodway

Cheatham Lock and Dam

Highway 12

Ashland City Co: Cheatham TN 37015-

Location: Tracts E-513, E-512-1 and E-512-2

Landholding Agency: COE

Property Number: 21199040415

Status: Underutilized

Reason: Floodway

Tract 2321

J. Percy Priest Dam and Reservoir

Murfreesboro Co: Rutherford TN 37130-

Location: South of Old Jefferson Pike

Landholding Agency: COE

Property Number: 31199010935

Status: Excess

Reason: landlocked

Tract 6737

Blue Creek Recreation Area

Barkley Lake, Kentucky and Tennessee

Dover Co: Stewart TN 37058-

Location: US Highway 79/TN Highway 761

Landholding Agency: COE

Property Number: 31199011478

Status: Underutilized

Reason: Floodway

Tracts 3102, 3105, and 3106

Brimstone Launching Area

Cordell Hull Lake and Dam Project

Gainesboro Co: Jackson TN 38562-

Location: Big Bottom Road

Landholding Agency: COE

Property Number: 31199011479

Status: Excess

Reason: Floodway

Tract 3507

Proctor Site

Cordell Hull Lake and Dam Project

Celina Co: Clay TN 38551-

Location: TN Highway 52

Landholding Agency: COE

Property Number: 31199011480

Status: Unutilized

Reason: Floodway

Tract 3721

Obey

Cordell Hull Lake and Dam Project

Celina Co: Clay TN 38551-

Location: TN Highway 53

Landholding Agency: COE

Property Number: 31199011481

Status: Unutilized

Reason: Floodway

Tracts 608, 609, 611 and 612

Sullivan Bend Launching Area

Cordell Hull Lake and Dam Project

Carthage Co: Smith TN 37030-

Location: Sullivan Bend Road

Landholding Agency: COE

Property Number: 31199011482

Status: Underutilized

Reason: Floodway

Tract 920

Indian Creek Camping Area

Cordell Hull Lake and Dam Project

Granville Co: Smith TN 38564-

Location: TN Highway 53

Landholding Agency: COE

Property Number: 31199011483

Status: Underutilized

Reason: Floodway

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway

Tract 1810

Wartrace Creek Launching Ramp

Cordell Hull Lake and Dam Project

Gainesboro Co: Jackson TN 38551-

Location: TN Highway 85

Landholding Agency: COE

Property Number: 31199011485

Status: Underutilized

Reason: Floodway

Tract 2524

Jennings Creek

Cordell Hull Lake and Dam Project

Gainesboro Co: Jackson TN 38562-

Location: TN Highway 85

Landholding Agency: COE

Property Number: 31199011486

Status: Unutilized

Reason: Floodway

Tracts 2905 and 2907

Webster

Cordell Hull Lake and Dam Project

Gainesboro Co: Jackson TN 38551-

Location: Big Bottom Road

Landholding Agency: COE

Property Number: 31199011487

Status: Unutilized

Reason: Floodway

Tracts 2200 and 2201

Gainesboro Airport

Cordell Hull Lake and Dam Project

Gainesboro Co: Jackson TN 38562-

Location: Big Bottom Road

Landholding Agency: COE

Property Number: 31199011488

Status: Underutilized

Reasons: Within airport runway clear zone; Floodway

Tracts 710C and 712C

Sullivan Island

Cordell Hull Lake and Dam Project

Carthage Co: Smith TN 37030-

Location: Sullivan Bend Road

Landholding Agency: COE

Property Number: 31199011489

Status: Unutilized

Reason: Floodway

Tract 2403, Hensley Creek

Cordell Hull Lake and Dam Project

Gainesboro Co: Jackson TN 38562-

Location: TN Highway 85

Landholding Agency: COE

Property Number: 31199011490

Status: Unutilized

Reason: Floodway

Tracts 2117C, 2118 and 2120

Cordell Hull Lake and Dam Project

Trace Creek

Gainesboro Co: Jackson TN 38562-

Location: Brooks Ferry Road

Landholding Agency: COE

Property Number: 31199011491

Status: Unutilized

Reason: Floodway

Tracts 424, 425 and 426

Cordell Hull Lake and Dam Project

Stone Bridge

Carthage Co: Smith TN 37030-

Location: Sullivan Bend Road

Landholding Agency: COE

Property Number: 31199011492

Status: Unutilized

Reason: Floodway

Tract 517

J. Percy Priest Dam and Reservoir

Suggs Creek Embayment

Nashville Co: Davidson TN 37214-

Location: Interstate 40 to S. Mount Juliet Road.

Landholding Agency: COE

Property Number: 31199011493

Status: Underutilized

Reason: Floodway

Tract 1811

West Fork Launching Area

Smyrna Co: Rutherford TN 37167-

Location: Florence road near Enon Springs Road

Landholding Agency: COE

Property Number: 31199011494

Status: Underutilized

Reason: Floodway

Tract 1504

J. Perry Priest Dam and Reservoir

Lamon Hill Recreation Area

Smyrna Co: Rutherford TN 37167-

Location: Lamon Road

Landholding Agency: COE

Property Number: 31199011495

Status: Underutilized

Reason: Floodway

Tract 1500

J. Perry Priest Dam and Reservoir

Pools Knob Recreation

Smyrna Co: Rutherford TN 37167-

Location: Jones Mill Road

Landholding Agency: COE

Property Number: 31199011496

Status: Underutilized

Reason: Floodway

Tracts 245, 257, and 256

J. Perry Priest Dam and Reservoir

Cook Recreation Area

Nashville Co: Davidson TN 37214-

Location: 2.2 miles south of Interstate 40 near Saunders Ferry Pike.

Landholding Agency: COE

Property Number: 31199011497

Status: Underutilized

Reason: Floodway

Tracts 107, 109 and 110

Cordell Hull Lake and Dam Project

Two Prong

Carthage Co: Smith TN 37030-

Location: US Highway 85

Landholding Agency: COE

Property Number: 31199011498

Status: Unutilized

Reason: Floodway

Tracts 2919 and 2929

Cordell Hull Lake and Dam Project

Sugar Creek

Gainesboro Co: Jackson TN 38562-

Location: Sugar Creek Road

Landholding Agency: COE

Property Number: 31199011500

Status: Unutilized

Reason: Floodway

Tracts 1218 and 1204

Cordell Hull Lake and Dam Project

Granville—Alvin Yourk Road

Granville Co: Jackson TN 38564-

Landholding Agency: COE

Property Number: 31199011501

Status: Unutilized

Reason: Floodway

Tract 2100

Cordell Hull Lake and Dam Project

Galbreaths Branch

Gainesboro Co: Jackson TN 38562-

Location: TN Highway 53

Landholding Agency: COE

Property Number: 31199011502

Status: Unutilized

Reason: Floodway

Tract 104 et. al.

Cordell Hull Lake and Dam Project

Horshoe Bend Launching Area

Carthage Co: Smith TN 37030-

Location: Highway 70 N

Landholding Agency: COE

Property Number: 31199011504

Status: Underutilized

Reason: Floodway

Tracts 510, 511, 513 and 514

J. Percy Priest Dam and Reservoir Project

Lebanon Co: Wilson TN 37087-

Location: Vivrett Creek Launching Area, Alvin Sperry Road

Landholding Agency: COE

Property Number: 31199120007

Status: Underutilized

Reason: Floodway

Tract A-142, Old Hickory Beach

Old Hickory Blvd.

Old Hickory Co: Davidson TN 37138-

Landholding Agency: COE

Property Number: 31199130008

Status: Underutilized

Reason: Floodway

Tract D, 7 acres

Cheatham Lock & Dam

Nashville Co: Davidson TN 37207-

Landholding Agency: COE

Property Number: 31200020006

Status: Underutilized

Reason: Floodway

Tract F-608

Cheatham Lock & Dam

Ashland Co: Cheatham TN 37015-

Landholding Agency: COE

Property Number: 31200420021

Status: Unutilized

Reason: Floodway

Tracts G702-G706

Cheatham Lock & Dam

Ashland Co: Cheatham TN 37015-

Landholding Agency: COE

Property Number: 31200420022

Status: Unutilized

Reason: Floodway

6 Tracts

Shutes Branch Campground

Lakewood Co: Wilson TN

Landholding Agency: COE

Property Number: 31200420023

Status: Unutilized

Reason: Floodway

Texas

Tracts 104, 105-1, 105-2 & 118

Joe Pool Lake

Co: Dallas TX

Landholding Agency: COE

Property Number: 31199010397

Status: Underutilized

Reason: Floodway

Part of Tract 201-3

Joe Pool Lake

Co: Dallas TX

Landholding Agency: COE

Property Number: 31199010398

Status: Underutilized

Reason: Floodway

Part of Tract 323

Joe Pool Lake

Co: Dallas TX

Landholding Agency: COE

Property Number: 31199010399

Status: Underutilized

Reason: Floodway

Tract 702-3

Granger Lake

Route 1, Box 172

Granger Co: Williamson TX 76530-9801

Landholding Agency: COE

Property Number: 31199010401

Status: Unutilized

Reason: Floodway

Tract 706

Granger Lake

Route 1, Box 172

Granger Co: Williamson TX 76530-9801

Landholding Agency: COE

Property Number: 31199010402

Status: Unutilized

Reason: Floodway

Washington

2.8 acres

Tract P-1003

Kennewick Co: Benton WA 99336-

Landholding Agency: COE

Property Number: 31200240020

Status: Excess

Reason: Within 2000 ft. of flammable or explosive material

Land-Port Hadlock Detachment

Naval Ordnance Center Pacific Division

Port Hadlock Co: Jefferson WA 98339-

Landholding Agency: Navy

Property Number: 77199640019

Status: Underutilized

Reasons: Within 2000 ft. of flammable or explosive material; Secured Area

900 sq. ft. plot

Naval Submarine Base

Bangor WA

Landholding Agency: Navy

Property Number: 77200420056

Status: Unutilized

Reasons: Within 2000 ft. of flammable or explosive material; Secured Area

West Virginia

Morgantown Lock and Dam

Box 3 RD #2

Morgantown Co: Monongahelia WV 26505-

Landholding Agency: COE

Property Number: 31199011530

Status: Unutilized

Reason: Floodway

London Lock and Dam

Route 60 East

Rural Co: Kanawha WV 25126-

Location: 20 miles east of Charleston, W. Virginia

Landholding Agency: COE

Property Number: 31199011690

Status: Unutilized

Reason: .03 acres; very narrow strip of land

Portion of Tract #101

Buckeye Creek

Sutton Co: Braxton WV 26601-

Landholding Agency: COE

Property Number: 31199810006

Status: Excess

Reason: inaccessible

[FR Doc. 04-20385 Filed 9-9-04; 8:45 am]

BILLING CODE 4210-29-P